DEPARTMENT OF THE INTERIOR

Fish and Wildlife Service

50 CFR Part 17

RIN 1018-AV04

Endangered and Threatened Wildlife and Plants; Designation of Critical Habitat for Poa atropurpurea (San Bernardino bluegrass) and Taraxacum californicum (California taraxacum)

AGENCY: Fish and Wildlife Service, Interior.

ACTION: Proposed rule.

SUMMARY: We, the U.S. Fish and Wildlife Service (Service), propose to designate critical habitat for Poa atropurpurea and Taraxacum californicum under the Endangered Species Act of 1973, as amended (Act). We propose approximately 3,014 acres (ac) (1,221 hectares (ha)) of land in San Bernardino and San Diego Counties, California, as critical habitat for P. atropurpurea, and approximately 1,930 ac (782 ha) of land in San Bernardino County, California, as critical habitat for T. californicum.

DATES: We will accept comments from all interested parties until October 9, 2007. We must receive requests for public hearings, in writing, at the address shown in the ADDRESSES section by September 21, 2007.

ADDRESSES: If you wish to comment on the proposed rule, you may submit your comments and materials by any one of several methods:

1. You may mail or hand-deliver written comments and information to Jim Bartel, Field Supervisor, U.S. Fish and Wildlife Service, Carlsbad Fish and Wildlife Office, 6010 Hidden Valley Road, Carlsbad, CA 92011.

2. You may send comments by electronic mail (e-mail) to fw8cfwocomments@fws.gov. Please see the Public Comments Solicited section below for file format and other information about electronic filing.

3. You may fax your comments to 760-431-9624.

4.You may go to the Federal eRulemaking Portal: http://www.regulations.gov. Follow the instructions for submitting comments.

Comments and materials received, as well as supporting documentation used in the preparation of this proposed rule, will be available for public inspection, by appointment, during normal business hours at the Carlsbad Fish and Wildlife Office, 6010 Hidden Valley Road, Carlsbad, CA 92011 (telephone 760-431-9440).

FOR FURTHER INFORMATION CONTACT: Jim Bartel, Field Supervisor, Carlsbad Fish and Wildlife Office, 6010 Hidden Valley Road, Carlsbad, CA 92011; telephone 760-431-9440; facsimile 760-431-9624. Persons who use a telecommunications device for the deaf (TDD) may call the Federal Information Relay Service (FIRS) at 800-877-8339.

SUPPLEMENTARY INFORMATION:

Public Comments Solicited

We intend that any final action resulting from this proposal will be as accurate and as effective as possible. Therefore, we request comments or suggestions from the public, other concerned governmental agencies, the scientific community, industry, or any other interested party concerning this proposed rule. We particularly seek comments concerning:

(1) The reasons why habitat should or should not be designated as critical habitat under section 4 of the Act (16 U.S.C. 1531 et seq.), including whether the benefit of designation would outweigh threats to the species caused by designation such that the designation of critical habitat is prudent;

(2) Specific information on the amount and distribution of Poa atropurpurea and Taraxacum californicum habitat, what areas occupied at the time of listing and that contain features essential for the conservation of the species should be included in the designations and why, and what areas not occupied at the time of listing are essential to the conservation of the species and why;

(3) Specifically with reference to those U.S. Forest Service (USFS) lands that are proposed for designation, information on any areas covered by conservation or management plans that we should consider for exclusion from the designation under section 4(b)(2) of the Act, particularly the appropriateness of including or excluding lands covered by the Cleveland National Forest (CNF) habitat management guide for four sensitive plant species in mountain meadows (CNF 1991), and the San Bernardino National Forest (SBNF) Meadow Habitat Management Guide (SBNF 2002a);

(4) Any additional proposed critical habitat areas covered by conservation or management plans that we should consider for exclusion from the designation under section 4(b)(2) of the Act. We specifically request information on any operative or draft habitat conservation plans that include Poa atropurpurea or Taraxacum californicum as covered species that have been prepared under section 10(a)(1)(B) of the Act, or any other management or other conservation plan or agreement that benefits either plant or its primary constituent elements;

(5) Land use designations and current or planned activities in the subject areas and their possible impacts on proposed critical habitat;

(6) Any foreseeable economic, national security, or other potential impacts resulting from the proposed designation and, in particular, any impacts on small entities, and the benefits of including or excluding areas that exhibit these impacts; and

(7) Whether our approach to designating critical habitat could be improved or modified in any way to provide for greater public participation and understanding, or to assist us in accommodating public concerns and comments.

You may submit your comments and materials concerning this proposal by any one of several methods (see ADDRESSES section). Please include “Attn: Poa atropurpurea and Taraxacum californicum” in your e-mail subject header and your name and return address in the body of your message. If you do not receive a confirmation from the system that we have received your message, contact us directly by calling our Carlsbad Fish and Wildlife Office at 760-431-9440.

Before including your address, phone number, e-mail address, or other personal identifying information in your comment, you should be aware that your entire comment—including your personal identifying information—may be made publicly available at any time. While you can ask us in your comment to withhold your personal identifying information from public review, we cannot guarantee that we will be able to do so.

Background

It is our intent to discuss only those topics directly relevant to the designation of critical habitat in this proposed rule. For more information on the taxonomy and biology of Poa atropurpurea and Taraxacum californicum, refer to the final listing rule published in the Federal Register on September 14, 1998 (63 FR 49006).

Poa atropurpurea, a member of the grass family (Poaceae), is a dioecious (separate male and female plants), tufted perennial with creeping rhizomes (Soreng 1993, p. 1287). This species occurs in the Big Bear region of the San Bernardino Mountains, as well as in meadows in the Laguna Mountains and Palomar Mountains of San Diego County (California Department of Fish and Game's California Natural Diversity Database (CNDDB) 2006a, pp. 1-21). Taraxacum californicum, a thick rooted perennial herb in the sunflower family (Asteraceae), often co-occurs with P. atropurpurea (Krantz 1981, pp. 10, 14, 16, 21, 26, 30, and 32) in montane meadows in the Big Bear region of the San Bernardino Mountains.

Poa atropurpurea is restricted to wet montane meadows (Volgarino 2000a, p. 1), subject to flooding in wet years (described as “vernally wet marshlands” by Hirshberg 1994, p. 1), and is commonly found along the drier margins apart from more mesic plants such as P. pratensis, Carex spp., or Juncus spp. (Krantz 1981, pp. 4, 10, 14, 16, 21, 26, 30, and 32). In Laguna Meadow, relatively high densities of P. atropurpurea (over 500 individuals at one location) have been reported from within marshy areas and drainages inside the meadow (Hirshberg 1994, p. 1), indicating this species is not restricted to the drier meadow margins. The perimeter of such meadows often intergrades with sagebrush scrub dominated by sagebrush or pine forest (Krantz 1981, p. 4).

Taraxacum californicum is also found in wet meadows (Volgarino 2000b, p. 1), as well as meadow-like forest openings associated with riparian areas such as Heart Bar Creek (SBNF 2000, p. 55), or the east fork of Lost Creek, (SBNF 2000, p. 55; CNDDBb, p. 10).

According to the final listing rule (63 FR 49006; September 14, 1998), Poa atropurpurea was known from fewer than 20 populations throughout its range on Federal, State, and private lands in the San Bernardino, Laguna, and Palomar Mountains. The final listing rule (63 FR 49006; September 14, 1998) estimated fewer than 100 acres (ac) (40 hectares (ha)) of P. atropurpurea habitat remained in the San Bernardino Mountains at the time of listing. However, the total area of documented habitat reported by CNDDB prior to listing (CNDDB 1996, pp. 1-7) was 2,789 ac (1,129 ha) throughout the species range.

According to the final listing rule, Taraxacum californicum was known from about 20 occurrences on Federal, State, local, and private lands in the San Bernardino Mountains at the time of listing (63 FR 49006; September 14, 1998). About half of these occurrences were described in the final listing rule as being located “within, or adjacent to, urbanized areas such as Big Bear City, Big Bear Lake Village, and Sugarloaf in San Bernardino County, California” (also referred to as “Bear Valley” in herbarium collections; Curto 1992, pp. 3-5).

According to survey information recorded in the CNDDB, 21 occurrences of Poa atropurpurea (CNDDB 2006a, pp. 1-21) and 41 occurrences of Taraxacum californicum are currently known (CNDDB 2006b, pp. 1-42). However, surveyor information submitted to the CNDDB comes from surveyors using various methods to record species occurrence information. For example, one surveyor may record an area containing several individual patches as a single occurrence while another may record each individual patch as a separate occurrence. Therefore, the status and distribution of these species is discussed below in terms of the number of meadow areas historically or currently occupied by either species.

Survey information for both Poa atropurpurea and Taraxacum californicum is relatively sparse; no systematic surveys have been conducted for either species on a regular basis. However, between 2000 and 2002, much of the meadow habitat in San Bernardino National Forest and surrounding lands was surveyed and mapped by San Bernardino National Forest (SBNF) personnel and private contractors (SBNF 2000, pp. 47-49; SBNF 2002a, p. 8; Eliason 2007, p. 1). The results were summarized in a Meadow Habitat Management Guide (Management Guide) (SBNF 2002a). According to this 2002 Management Guide, a minimum of 4,430 ac (1,793 ha) of meadow habitat has been mapped on SBNF and surrounding lands (SBNF 2002a, pp. 8 and 13). According to occurrence information from the SBNF (SBNF 2000, pp. 47-49; SBNF 2002a, p. 8) and the CNDDB (2006a, pp. 1-21), P. atropurpurea has been documented in 15 meadow areas in the Big Bear area, and 4 meadow areas in the Laguna and Palomar mountains of San Diego; T. californicum has been documented in 29 meadow areas and 6 meadow-like forest openings in the Big Bear Lake area (CNDDB 2006b, pp. 1-39).

The number of Taraxacum californicum individuals reported from any one location during 1999-2002 surveys ranged from 1 to over 150 (CNDDB 2006b, pp. 1-39; Denslow et al. 2002, pp. 12 and 13; SBNF 2000, pp. 56-59). The highest T. californicum occurrence concentrations have been reported in South Fork Meadows, Fish Creek Meadow, Bluff Meadow, Cienega Seca Meadow, Hitchcock Meadow (also referred to as Hitchcock Ranch), Belleville Meadow (Hitchcock and Belleville Meadows also referred to as Holcomb Valley), Broom Flat Meadow, Wildhorse Meadow, and North Shay Meadow (SBNF 2000, pp. 56-59). According to the final listing rule, population sizes of Poa atropurpurea typically range from 2 to 300 individuals, although 3,000 individuals were reported from Belleville Meadow in 1999 (SBNF 2000, p. 49). In San Bernardino County, P. atropurpurea occurrences have been reported near Big Bear Lake in Bluff Meadow, Hitchcock Meadow, Belleville Meadow, North Shay Meadow, North Baldwin Lake Meadow, Cienega Seca Meadow, and Pan Hot Springs Meadow (SBNF 2000, pp. 47-49). In San Diego County, P. atropurpurea has also been reported from Mendenhall Valley on Palomar Mountain (CNDDB 2006a, p. 3), Laguna Meadow on Laguna Mountain (CNDDB 2006a, pp. 4, 19, and 20), and Bear Valley southwest of Laguna Mountain (CNDDB 2006a, p. 21). Tables 1 and 2 summarize all occurrence records for both species.

Table 1.—Meadow Areas Historically and/or Currently Occupied by Taraxacum californicum in San Bernardino County
Meadow name | USFS identification # ¹ | CNDDB identification # ²
Arrastre Meadow | ----³ | 19
Belleville Meadow | 8, 9, 60 | 25
Big Meadow | 17, 16, 45 | 36
Bluff Meadow | 50, 49, 11, 30, 33, 48, 12 | 13
Bow Meadow | 39 | 33
Broom Flat Meadow | 69, 58 | 32
China Gardens/Eagle Point Meadows | 3, 6, 7, 2, 34, 29 | 21
Cienega Seca Meadow | 63 | 2
Division Meadow | 38 | 41
East/West Observatory Meadows | 4, 32 | 30
Erwin Meadows | 64 | 26
Fawnskin Meadow | ---- | 45
Fish Creek Meadow | 56, 57 | 6
| 18, 55 | 31
| 54 | 37
| 67 | x ⁴
Green Spring Meadow | 23 | 12
Hitchcock Meadow | 24, 5, 10 | 20
Horse Meadow | 35 | 5
Juniper Point Meadow | 42, 41, 40 | 43
Merriman Meadow | 51 | 39
Metcalf Meadow | 46, 47, 59 | 29
Metcalf/Coldbrook Meadows | 13, 14 | 16
Minnelusa Meadow | 44, 43 | 42
North Baldwin Meadow | 26 | 17
Pan Hot Springs Meadow | 27 | 24
| 25 | 27
Rathbun Meadow | ---- | 22
Red Ant Meadow | 37 | 38
Seven Oaks Meadow | ---- | 14
Shay Meadow | 62 | 28
| 36 | 40
South Fork Meadow | 19, 31, 21, 20, 52 | 1
| 53, 22 | 3
Wildhorse Meadow | 1, 15 | 34
| 60 | 35
Un-named Meadow area (E of Southfork Meadow) | 65 | 11
Un-named Meadow area (west of Shay Meadow and town of Sugarloaf) | 28 | 9
Un-named Meadow area (S of Horse Meadow) | ---- | 44
Un-named Meadow area (S of Sugarloaf Meadow) | ---- | 7
Un-named Meadow area (SE of Big Meadow) | 66 | 4
Un-named Meadow area (vicinity of Fish Creek Meadow) | ---- | 10
¹ U.S. Forest Service (USFS) identification # = occurrence number or numbers assigned by the San Bernardino National Forest (SBNF 2000).
² CNDDB identification # = occurrence number assigned by the California Natural Diversity Database (CNDDB) (2006).
³ ---- = No geographically corresponding occurrence identified by the San Bernardino National Forest (SBNF 2000).
⁴ x = No geographically corresponding occurrence identified by the CNDDB (2006).

Table 2.—Meadow Areas Historically and/or Currently Occupied by Poa atropurpurea in San Bernardino and San Diego Counties
Meadow name | USFS identification # ¹ | CNDDB identification # ²
San Bernardino County
Alden Meadow | --- ³ | 14
Belleville Meadow | 1, 2, 3, 4, 5, 6, 59, 54 | 10
Big Bear City meadow fragments | 16, 17, 18, 19, 20 | 19
Bluff Meadow | 10 | 13
China Gardens/Eagle Point Meadows | 7, 8, 9, 21, 22, 23, 24, 25, 26, 27, 28, 30, 31,32, 57, 58, 63 | 2
Cienega Seca Meadow | 62 | 12
East Baldwin Meadow | 56 | x ⁴
Erwin Meadows | ---- | 24
Hitchcock Meadow | 33, 34, 35, 36, 37, 38, 39, 40, 41, 42, 43, 44, 45, 46, 47,48, 49, 50, 51, 52, 53, 55 | 11
Metcalf/Coldbrook Meadows | ---- | 16
North Baldwin Meadow | 12 | 1
Pan Hot Springs Meadow | 13 | 17
| ---- | “near 17”
Rathbun Meadow | ---- | −21
| ---- | 23
Shay Meadow | 60 | x
|  | 14, 15, 61
Wildhorse Meadow | 11 | 22
San Diego County
Bear Valley |  | 29
| ---- | 5
Laguna Meadow | ---- | 27
| ---- | 28
Filaree Flats (N of Laguna Meadow) |  | 8
Mendanhall Valley |  | 4
¹ U.S. Forest Service (USFS) USFS identification # = occurrence number or numbers assigned by the San Bernardino National Forest (SBNF 2000).
² CNDDB identification # = occurrence number assigned by the California Natural Diversity Database (CNDDB) (2006).
³ --- = No geographically corresponding occurrence identified by the San Bernardino National Forest (SBNF 2000).
⁴ x = No geographically corresponding occurrence identified by the CNDDB (2006).

As stated in the final listing rule, co-occurrence of male and female plants of Poa atropurpurea is necessary for seed production (63 FR 49006; September 14, 1998). There is evidence that populations of P. atropurpurea in San Diego County are threatened by loss of genetic diversity and skewed sex ratios. According to the CNDDB (2006a, p. 21), all individuals reported from Bear Valley may be a single clone. Hirshberg (1994, pp. 1-2) reported only 4 males out of 1,140 total individuals during field surveys of Laguna Meadow, an overall 1:285 male to female ratio. All five herbarium specimens from Laguna Meadow reviewed by Curto (1992, p. 3) were female (one from 1978, three from 1981, and one from 1991). It is not known what may be the cause of these skewed sex ratios, or how the sex ratios may vary annually.

According to the final listing rule introduced plant taxa have likely reduced the amount of suitable habitat for both species, and hybridization with exotic congeners may also be a threat (63 FR 49006; September 14, 1998). Of particular concern for Poa atropurpurea in grazed areas is exacerbation of the invasion of P. pratensis by grazing and consumption of P. atropurpurea seeds prior to seed set (Sproul and Beauchamp 1979, pp. 4, 5, and 6; CNF 1991, pp. 13-17; Curto 1992, pp. 10 and 11; Soreng 2000, pp. 1-4). Possible hybridization with common nonnative congeners has been discussed as a threat for P. atropurpurea (Curto 1992, p. 11), but is of particular concern with regard to Taraxacum californicum and the common invasive T. officinale (SBNF 2000 p. 40; SBNF 2002a, p. 114).

Previous Federal Actions

For more information on previous Federal actions concerning Poa atropurpurea or Taraxacum californicum, refer to the final listing rule for six plants from the mountains of southern California, including both of these species, published in the Federal Register on September 14, 1998 (63 FR 49006). At that time, we determined that the designation of critical habitat was not prudent due to the potential increase of threats from vandalism, over-collection, or other human activities. On September 13, 2004, the Center for Biological Diversity and the California Native Plant Society filed suit against the Service (CBD and CNPS v. Norton, 04-1150 RT SGLx; C.D. Cal.) challenging our not prudent finding. As a result of a stipulation approved by the court on April 20, 2007, the Service is required to submit a proposed rule to designate critical habitat for these species, if prudent, to the Federal Register on or before July 27, 2007, and a final rule on or before July 25, 2008. We agreed to complete a critical habitat determination for these two species in a single rulemaking because they share similar habitats. We have re-evaluated our previous not prudent determination and now believe that identification of primary constituent elements and areas containing those features essential to the conservation of the species may provide educational information to individuals, local and State governments, and other entities. We do not have any documentation that over-collection has increased since these species were listed, and most landowners and collectors have been aware of the location of occupied habitat adjacent to or bisected by classified and unclassified roads since publication of the final listing rule in 1998. Although these species are limited in their ecological and geographical ranges, we have no information supporting our concern that a critical habitat designation would not be prudent due to the threat of over-collection or vandalism, and now believe that the benefits of identifying critical habitat for these species outweighs the potential risk of over-collection.. Thus, we are proposing to designate critical habitat for P. atropurpurea and T. californicum in accordance with section 4(b)(2) of the Act.

Critical Habitat

Critical habitat is defined in section 3 of the Act as—(i) the specific areas within the geographical area occupied by a species, at the time it is listed in accordance with the Act, on which are found those physical or biological features (I) essential to the conservation of the species and (II) that may require special management considerations or protection; and (ii) specific areas outside the geographical area occupied by a species at the time it is listed, upon a determination that such areas are essential for the conservation of the species. Conservation, as defined under section 3 of the Act, means to use and the use of all methods and procedures that are necessary to bring any endangered species or threatened species to the point at which the measures provided under the Act are no longer necessary.

Critical habitat receives protection under section 7 of the Act through the prohibition against destruction or adverse modification of critical habitat with regard to actions carried out, funded, or authorized by a Federal agency. Section 7(a)(2) of the Act requires consultation on Federal actions that may affect critical habitat. The designation of critical habitat does not affect land ownership or establish a refuge, wilderness, reserve, preserve, or other conservation area. Such designation does not allow government or public access to private lands. Section 7(a)(2) of the Act is a purely protective measure and does not require implementation of restoration, recovery, or enhancement measures.

To be included in a critical habitat designation, habitat within the geographical area occupied by the species at the time of listing must first have features that are essential to the conservation of the species. Critical habitat designations identify, to the extent known using the best scientific data available, habitat areas that provide essential life cycle needs of the species (areas on which are found the primary constituent elements, as defined at 50 CFR 424.12(b)).

Areas unoccupied at the time of listing can be designated as critical habitat. However, when the best available scientific data do not demonstrate that the conservation needs of the species require additional areas, we will not designate critical habitat in areas outside the geographical area occupied by the species at the time of listing.

Section 4 of the Act requires that we designate critical habitat on the basis of the best scientific and commercial data available. Further, the Service's Policy on Information Standards Under the Endangered Species Act, published in the Federal Register on July 1, 1994 (59 FR 34271), and Section 515 of the Treasury and General Government Appropriations Act for Fiscal Year 2001 (Pub. L. 106-554; H.R. 5658) and the associated Information Quality Guidelines issued by the Service, provide criteria, establish procedures, and provide guidance to ensure that decisions made by the Service represent the best scientific data available. They require Service biologists to the extent consistent with the Act and with the use of the best scientific data available, to use primary and original sources of information as the basis for recommendations to designate critical habitat. When determining which areas are critical habitat, a primary source of information is generally the listing package for the species. Additional information sources may include the recovery plan for the species, articles in peer-reviewed journals, conservation plans developed by States and counties, scientific status surveys and studies, biological assessments, or other unpublished materials and expert opinion or personal knowledge. All information is used in accordance with the provisions of Section 515 of the Treasury and General Government Appropriations Act for Fiscal Year 2001 (Pub. L. 106-554; H.R. 5658) and the associated Information Quality Guidelines issued by the Service.

Habitat is often dynamic, and species may move from one area to another over time. Furthermore, we recognize that designation of critical habitat may not include all of the habitat areas that may eventually be determined to be necessary for the recovery of the species. For these reasons, critical habitat designations do not signal that habitat outside the designation is unimportant or may not be required for recovery.

Areas that support populations, but are outside the critical habitat designation, will continue to be subject to conservation actions implemented under section 7(a)(1) of the Act and to the regulatory protections afforded by the section 7(a)(2) jeopardy standard, as determined on the basis of the best available information at the time of the action. Federally funded or permitted projects affecting listed species outside their designated critical habitat areas may still result in jeopardy findings in some cases. Similarly, critical habitat designations made on the basis of the best available information at the time of designation will not control the direction and substance of future recovery plans, habitat conservation plans, or other species conservation planning efforts if new information available to these planning efforts calls for a different outcome.

Methods

As required by section 4(b) of the Act, we use the best scientific data available in determining areas occupied at the time of listing that contain the features essential to the conservation of Poa atropurpurea and Taraxacum californicum individually, and areas not occupied at the time of listing that are essential to the conservation of P. atropurpurea and T. californicum individually. We have also reviewed available information that pertains to the habitat requirements of these species. These sources of information included, but were not limited to, the proposed (60 FR 39337; August 2, 1995) and final (63 FR 49006; September 14, 1998) rules to list these species; data and information published in peer-reviewed articles; data and information contained in reports prepared for or by the U.S. Forest Service (USFS); discussions with species experts including USFS personnel; data and information presented in academic research theses; data provided by the CNDDB; herbarium records; data submitted during section 7 consultations; and regional Geographic Information Systems (GIS) data. We are not currently proposing as critical habitat any areas outside the geographical area presently occupied by either species.

Primary Constituent Elements

In accordance with section 3(5)(A)(i) of the Act and regulations at 50 CFR 424.12, in determining which areas to propose as critical habitat within areas occupied by the species at the time of listing, we consider those physical and biological features (primary constituent elements) that are essential to the conservation of the species and that may require special management considerations or protection. These include, but are not limited to: (1) Space for individual and population growth and for normal behavior; (2) food, water, air, light, minerals, or other nutritional or physiological requirements; (3) cover or shelter; (4) sites for breeding, reproduction, and rearing (or development) of offspring; and (5) habitats that are protected from disturbance or are representative of the historic geographical and ecological distributions of a species.

The specific primary constituent elements (PCEs) required for Poa atropurpurea and Taraxacum californicum individually, are derived from the biological needs of each species as described in the final listing rule (63 FR 49006; September 14, 1998) and discussed below.

Space for Individual and Population Growth, and Nutritional Requirements

Open-canopy forested areas supporting relatively undisturbed, wet meadows subject to flooding during wet years support growth, reproduction (SBNF 2002a, p. 109; Curto 1997, p. 12), and pollination (by wind for Poa atropurpurea, by insects for Taraxacum californicum) of both species. T. californicum also occurs in smaller forest openings with seeps, springs, or creeks. Due to the relatively small size of these forest openings, these areas are not generally mapped or named as meadows. We've referred to these areas as unnamed meadow areas (please refer to Table 1). These species require non-compacted or non-eroded soils for reproduction, growth, and survival (Curto 1997, p. 12). Invasive nonnative species may compete for open, bare ground and reduce space available for growth (Curto 1992, p. 10), and therefore, these species require micro-habitats free of exotic, invasive competitors. Habitat invaded by the nonnative species T. officinale may result in hybridization with T. californicum, and prevent population growth (SBNF 2000 p. 40; SBNF 2002a, p. 114). Both species require a perennial water source, as exists in relatively intact, wet meadow systems (Service GIS database; Eliason 2007, p. 1).

Soils occupied by Poa atropurpurea have been characterized as loamy alluvial to sandy loam (CNDDB 2006a, pp. 1-21) that experience periodic saturation (Volgarino et al. 2000a, p. 1; Hirshberg 1994, p. 1). In a distribution study of P. atropurpurea, Krantz (1981, p. 8) noted that in San Bernardino County the species usually occurs in open (50 percent bare ground) soils with some clay content in the A horizon (0 to 12 inches (in) (0-30 centimeters (cm)). Krantz (1981, p. 8) also stated, however, that the San Diego County population (Laguna Meadow) had somewhat different habitat parameters than the San Bernardino populations, and limited his descriptions to the latter. Volgarino et al. (2000a, p.1) listed United States Department of Agriculture (USDA) soil series for an incomplete list of meadows, in which P. atropurpurea occurs in San Diego County as Lu, Rieff (USDA 2000a, p. 1), and Crouch (USDA 1997a, p.1). We are currently not able to find a description of “Lu” series soils. Volgarino et al. (2000a, p.1) listed USDA soil series in which P. atropurpurea occurs in San Bernardino County as Morical (USDA 2004, p. 1), Hodgson (USDA 2005a, p. 1), Hecker (USDA 1997a, p. 1), Avawatz (USDA 1978, p. 1), Oak Glen (USDA 2003, p. 1), Olete (USDA 1999a, p. 1), Goulding (USDA 1999b, p. 1), Pacifico (USDA 2000b, p. 1), and Preston (USDA 1998, p. 1). The soil series descriptions cited above support the general “loamy alluvial to sandy loam” characterization of P. atropurpurea habitat soils (CNDDB 2006a, pp. 1-21).

Soils occupied by Taraxacum californicum appear to be similar to those occupied by Poa atropurpurea. Volgarino et al. (2000b, p. 1) listed USDA soil series for an incomplete list of meadows, in which T. californicum occurs as Morical (USDA 2004, p. 1), Hodgson (USDA 2005a, p. 1), Hecker (USDA 1997a, p. 1), Pacifico (USDA 2000b, p. 1), Preston (USDA 1998, p. 1), Merkel (USDA 2005b), and Wapal (USDA 2005c, p. 1). Similar to P. atropurpurea, the soil series descriptions cited above also support a general “loamy alluvial to sandy loam” characterization of T. californicum habitat soils.

The two species do appear to differ in their ability to colonize steeper slopes. Volgarino et al. (2000a, p. 2; 2000b, p. 2) described slopes on which Poa atropurpurea occurs as 0 to16 percent (with potential for occurrence on steeper slopes), and slopes on which Taraxacum californicum occurs as 0 to 46 percent. This difference in maximum slope where the species are found may be due to P. atropurpurea occurring farther from the banks of meadow water courses than T. californicum.

Primary Constituent Elements for Poa atropurpurea and Taraxacum californicum

Under the Act and its implementing regulations, we are required to identify the physical and biological features (PCEs) within the geographical area occupied by the species at the time of listing that may require special management considerations or protection.

Based on the above needs and our current knowledge of the life history, biology, and ecology of the species, we have determined that the PCEs for Poa atropurpurea are:

(1) Wet meadows subject to flooding during wet years in the San Bernardino Mountains in San Bernardino County at elevations of 6,700 to 8,100 feet (2,000 to 2,469 meters), and in the Laguna and Palomar Mountains of San Diego County at elevations of 6,000 to 7,500 feet (1,800 to 2,300 meters), that provide space for individual and population growth, reproduction, and dispersal; and

(2) Well-drained, loamy alluvial to sandy loam soils occurring in the wet meadow system, with a 0 to 16 percent slope, to provide water, air, minerals, and other nutritional or physiological requirements to the species.

Based on the above needs and our current knowledge of the life history, biology, and ecology of the species, we have determined that the PCEs for Taraxacum californicum are:

(1)Wet meadows subject to flooding during wet years and forest openings with seeps, springs, or creeks in the San Bernardino Mountains in San Bernardino County located at elevations of 6,700 to 9,000 feet (2,000 to 2,800 meters), that provide space for individual and population growth, reproduction, and dispersal; and

(2)Well-drained, loamy alluvial to sandy loam soils occurring in the wet meadow system or forest openings with seeps, springs, or creeks, with a 0 to 46 percent slope, to provide water, air, minerals, and other nutritional or physiological requirements to the species.

We propose to designate units based on sufficient PCEs being present to support at least one of the species' life history functions. This proposed designation is designed for the conservation of PCEs necessary to support the life history functions of the species and the areas containing those PCEs.

Special Management Considerations or Protection

When designating critical habitat, we assess whether the areas occupied at the time of listing contain the features essential to the conservation of the species that may require special management considerations or protection. Major threats to Poa atropurpurea and Taraxacum californicum include development on private lands, grazing, off-highway vehicle (OHV) use, road maintenance activities, ground disturbance that affects surface hydrology, mining activities, recreational activities, habitat fragmentation, and the invasion of nonnative herbaceous plants. Please refer to the unit descriptions in the Proposed Critical Habitat Designation section for further discussion of special management considerations or protection of the PCEs related to geographically specific threats to P. atropurpurea and T. californicum.

Control and monitoring of exotic, invasive plant species may be required to maintain wet meadows and/or forest openings such that they can continue to support populations of P. atropurpurea and/or T. californicum.

Special management considerations or protection of the wet meadows may need to be implemented to support fertilization and seed set of P. atropurpurea (Curto 1992, p. 11; Soreng 2000, pp. 1-4), and monitoring and protection of male P. atropurpurea clones may be required to maintain populations of P. atropurpurea.

There are two USFS management guides that address conservation of Poa atroputpurea and Taraxacum californicum: the CNF habitat management guide for four sensitive plant species in mountain meadows (CNF 1991, pp. 1-36) addresses conservation of P. atropurpurea, and the SBNF Meadow Habitat Management Guide (SBNF 2002a, pp. 1-155) addresses conservation of both species. In some cases significant management actions have been implemented by the USFS, for example cattle exclosures in Laguna Meadow (CNF 1991, p. 17), and recreational trail closures in Belleville Meadow near Big Bear Lake (SBNF 2002a, p. 5). However, the habitat management guides and plans are voluntary and may not provide for the long-term conservation of the species on USFS lands.

Criteria Used To Identify Critical Habitat

We are proposing to designate critical habitat in areas that we have determined were occupied at the time of listing and that contain sufficient primary constituent elements (PCEs) to support life history functions essential for the conservation of the species. We are proposing lands for designation based on sufficient PCEs being present to support the life processes. To delineate proposed critical habitat, we identified habitat that contains features essential to the conservation of Poa atroputpurea and Taraxacum californicum, was occupied at the time of listing, and is currently occupied. Occupancy status was determined using occurrence data from the SBNF (SBNF 2000, SBNF 2002a, SBNF GIS database), the CNDDB (2005a and b), and the Rancho Santa Ana Botanical Gardens (Denslow et al. 2002, pp. 12 and 13). We determined occupancy at the time of listing by comparison of survey and collection information and descriptions of occupied areas in the final listing rule published in the Federal Register on September 14, 1998 (63 FR 49006). Areas containing a large number of individual plants (relative to all known occupied locations) recorded within at least two years of listing, were considered to be occupied at the time of listing because the presence of a large number of individual plants within an area indicates that such area has been occupied for over two years.

We determined current occupancy based on the most recent survey information. Areas containing occurrence records dated 1999 or later were considered currently occupied. Once we determined areas currently occupied by each of the species, we used the following rule set to identify areas for inclusion in this proposed critical habitat designation for each species: (1) We considered areas within existing USFS-modeled potential habitat specific to the species (Volgarino et al. 2000a, pp. 1-2; 2000b, pp. 1-2) and meadow outlines drawn from aerial or satellite imagery, and selected habitat that appeared to appropriately capture features essential to the conservation of each species (PCEs); (2) we limited the delineation within any modeled habitat to within 328 ft (100 meters) of occurrence locations, a distance commonly acknowledged as the limit for short-distance wind-driven dispersal of seeds in Taraxacum spp. (Tackenberg et al. 2003, p. 1), and a likely distance for flood-driven dispersal of P. atropurpurea rhizomes; and (3) as a final step, we removed any meadow habitat that was developed or degraded (i.e. not likely to contain PCEs) to ensure proposed critical habitat contains features essential to conservation of each of the species. We also did not consider any meadows containing less than 10 reported individuals, as these populations are likely to be extirpated and we therefore do not believe these populations would likely contribute to the conservation of each species.

When determining proposed critical habitat boundaries for each species within this proposed rule, we made every effort to avoid including developed areas such as buildings, paved areas, and other structures that lack PCEs for Poa atroputpurea and Taraxacum californicum. The scale of the maps prepared under the parameters for publication within the Code of Federal Regulations may not reflect the exclusion of such developed areas. Any such structures and the land under them inadvertently left inside critical habitat boundaries shown on the maps of this proposed rule have been excluded by text in the proposed rule and are not proposed for designation as critical habitat. Therefore, Federal actions limited to these areas would not trigger section 7 consultation, unless they may affect the species or primary constituent elements in adjacent critical habitat.

Proposed Critical Habitat Designation

In total, we are proposing as critical habitat 9 units for Poa atropurpurea and 11 units for Taraxacum californicum, with 5 of these units containing both species (see Tables 3, 4, and unit descriptions below). The critical habitat areas described below constitute our best current assessment of areas that meet the definition of critical habitat for P. atropurpurea and T. californicum. We have determined that all areas proposed as critical habitat for P. atropurpurea and T. californicum were occupied at the time of listing and are currently occupied (Tables 3 and 4).

Table 3.—Occupancy and Approximate Size of Critical Habitat Units for Taraxacum californicum.
Unit | Occupied at time of listing | Currently occupied | Acres (hectares)
2 North Baldwin Meadow | Yes | Yes | 176 (72)
3 Belleville Meadow | Yes | Yes | 414 (168)
4 Hitchcock Meadow | Yes | Yes | 497 (201)
5 Bluff Meadow | Yes | Yes | 205 (83)
6 North Shay Meadow | Yes | Yes | 21 (8)
7 Horse Meadow | Yes | Yes | 74 (30)
8 Fish Creek Meadow | Yes | Yes | 89 (36)
9 Broom Flat Meadow | Yes | Yes | 188 (76)
10 Wildhorse Meadow | Yes | Yes | 52 (21)
11 Cienega Seca Meadow | Yes | Yes | 98 (40)
12 South Fork Meadow | Yes | Yes | 116 (47)

Table 4.—Occupancy and Approximate Size of Critical Habitat Units for Poa atropurpurea
Unit | Occupied at time of listing | Currently occupied | Acres (hectares)
1 Pan Hot Springs Meadow | Yes | Yes | 142 (57)
2 North Baldwin Meadow | Yes | Yes | 176 (72)
3 Belleville Meadow | Yes | Yes | 414 (168)
4 Hitchcock Meadow | Yes | Yes | 497 (201)
5 Bluff Meadow | Yes | Yes | 205 (83)
11 Cienega Seca Meadow | Yes | Yes | 98 (40)
13 Mendenhall Valley | Yes | Yes | 291 (118)
14 Laguna Meadow | Yes | Yes | 1,089 (441)
15 Bear Valley | Yes | Yes | 102 (41)

The areas proposed as critical habitat for Taraxacum californicum are: (1) Unit 2—North Baldwin Meadow; (2) Unit 3—Belleville Meadow; (3) Unit 4—Hitchcock Meadow; (4) Unit 5—Bluff Meadow; (5) Unit 6—North Shay Meadow; (6) Unit 7—Horse Meadow; (7) Unit 8—Fish Creek Meadow; (8) Unit 9—Broom Flat Meadow; (9) Unit 10—Wildhorse Meadow; (10) Unit 11—Cienega Seca Meadow; and (11) Unit 12—South Fork Meadow.

The areas proposed as critical habitat for Poa atropurpurea are: (1) Unit 1—Pan Hot Springs Meadow; (2) Unit 2—North Baldwin Meadow; (3) Unit 3—Belleville Meadow; (4) Unit 4—Hitchcock Meadow; (5) Unit 5—Bluff Meadow; (6) Unit 11—Cienega Seca Meadow; (7) Unit 13—Mendenhall Valley; (8) Unit 14—Laguna Meadow; and (9) Unit 15—Bear Valley.

The approximate area and land ownership of each proposed critical habitat unit is shown in Tables 5 and 6.

Table 5.—Critical Habitat Units Proposed for Taraxacum californicum
[Area estimates reflect all land within critical habitat unit boundaries]
Critical habitat unit | Land ownership ¹ | Acres (hectares)
2 North Baldwin Meadow | SBNF CDFG | 78 (32) 98 (40)
3 Belleville Meadow | SBNF Private (LSA) | 409 (166) 5 (2)
4 Hitchcock Meadow | SBNF Private (BSA, others) | 166 (67) 330 (134)
5 Bluff Meadow | SBNF Private (WC) | 135 (55) 70 (28)
6 North Shay Meadow | SBNF | 21 (8)
7 Horse Meadow | SBNF | 74 (30)
8 Fish Creek Meadow | SBNF | 89 (36)
9 Broom Flat Meadow | SBNF | 188 (76)
10 Wildhorse Meadow | SBNF | 52 (21)
11 Cienega Seca Meadow | SBNF Private (LACEF) | 20 (8) 78 (32)
12 South Fork Meadow | SBNF | 116 (47)
¹ BSA = Boy Scouts of America, CDFG = California Department of Fish and Game, LACEF = Los Angeles County Education Foundation, LSA = Lithuanian Scouts Association, SBNF = U.S. Forest Service (lands in the San Bernardino National Forest), WC = Wildlands Conservancy.

Table 6.—Critical Habitat Units Proposed for Poa atropurpurea
[Area estimates reflect all land within critical habitat unit boundaries]
Critical habitat unit | Land ownership ¹ | Acres (hectares)
1 Pan Hot Springs Meadow | SBNF Private (BBCCSD, others) | 13 (5) 129 (52)
2 North Baldwin Meadow | SBNF CDFG | 78 (32) 98 (40)
3 Belleville Meadow | SBNF Private (LSA) | 409 (166) 5 (2)
4 Hitchcock Meadow | SBNF Private (BSA, others) | 166 (67) 330 (134)
5 Bluff Meadow | SBNF Private (WC) | 135 (55) 70 (28)
11 Cienega Seca Meadow | SBNF Private (LACEF) | 20 (8) 78 (32)
13 Mendenhall Valley | CNF Private | 160 (65) 130 (53)
14 Laguna Meadow | CNF | 1,089 (441)
15 Bear Valley | CNF | 102 (41)
¹ BBCCSD = Big Bear City Community Services District, BSA = Boy Scouts of America, CDFG = California Department of Fish and Game, CNF = U.S. Forest Service (lands in the Cleveland National Forest), LACEF = Los Angeles County Education Foundation, LSA = Lithuanian Scouts Association, SBNF = U.S. Forest Service (lands in the San Bernardino National Forest), WC = Wildlands Conservancy.

We present brief descriptions of all units, and reasons why they meet the definition of critical habitat for Poa atropurpurea and/or Taraxacum californicum, below. The PCEs for these two species, and their occupancy patterns, may not always overlap. For example, steeper slopes near a watercourse at the center of a meadow are more likely to support T. californicum. However, such micro-habitat components cannot be differentiated within a meadow based on information we have available for unit mapping. If we were proposing these designations separately, the units for each species would still be mapped the same. Therefore, the boundaries for Units 2, 3, 4, 5, and 11 are the same for both species, and we are proposing these units for each species individually.

Unit 1: Pan Hot Springs Meadow

We are proposing to designate Unit 1 as critical habitat for Poa atropurpurea. Unit 1 consists of an approximately 142-ac (57-ha) meadow occupied by the species at the time of listing, and the species continues to occur within this unit. In the last known survey conducted for Taraxacum californicum in 1985, fewer than 10 individuals were also reported from Unit 1 (CNDDB 2006; SBNF 2000). Therefore, this unit is being proposed as critical habitat for P. atropurpurea only. This unit contains all of the features essential to the conservation of the species, and both sexes of P. atropurpurea have been reported from this location (CNDDB 2006a, p. 12; SBNF 2000, p. 47). It is located within the San Bernardino National Forest boundary, east of Big Bear Lake, just west of Baldwin Lake. The majority of Unit 1 is privately owned by the Big Bear City Community Service District (BBCCSD).

The species is threatened in this unit by invasion of nonnative herbaceous annuals. Horse grazing and roadside dumping have also been reported at this location (CNDDB 2006a, p. 12). Although ten acres of the BBCCSD property are under a deed-restriction to protect known occurrences of Thelypodium stenopetalum and Sidalcea pedata (federally listed pebble plains plants; 49 FR 34497; August 31, 1984), the drainage feeding the habitat was not included in the deed restriction. Without control of water availability, the plants are still threatened (SBNF 2002a, p. 25). Therefore, special management considerations or protection may be required to restore, protect, and maintain the PCEs supported by Unit 1 due to the threats from human disturbance, water source alteration, and invasive nonnative plant species.

Unit 2: North Baldwin Meadow

We are proposing to designate Unit 2 as critical habitat for Poa atropurpurea and Taraxacum californicum. Unit 2 consists of approximately 176 ac (72 ha) of non-degraded meadow occupied by both species at the time of listing, and both species continue to occur within this unit. Unit 2 contains all of the features essential to the conservation of both species. It is located within the San Bernardino National Forest, on the north shore of Baldwin Lake, and northeast of Big Bear Lake. Approximately half of Unit 2 is federally owned, and half is owned by CDFG.

Habitat in this area was historically impacted by authorized and unauthorized vehicle use, mining activity, residential development, and grazing by burros (CNDDB 2006a, p. 1; SBNF 2002a, p. 33; SBNF 2002b, p. 57). The meadow is relatively protected, but it is adjacent to State Route 18 and accessible to the public (SBNF 2000, p. 57). Disruption of the hydrologic regime by upstream development, trampling during illegal woodcutting, and quartzite theft activities have been identified as past threats in this unit (CNDDB 2006b, p. 16). Poa atropurpurea and Taraxacum californicum are threatened in this unit by competition from invasion of nonnative, herbaceous annuals. Therefore, special management considerations or protection may be required to restore, protect, and maintain the PCEs supported by Unit 2 due to the threats from upstream development, nonnative species invasion, and human disturbance.

Unit 3: Belleville Meadow

We are proposing to designate Unit 3 as critical habitat for Poa atropurpurea and Taraxacum californicum. Unit 3 consists of an approximately 414-ac (168-ha) meadow occupied by both species at the time of listing, and both species continue to occur within this unit. Unit 3 (also referred to as Upper Holcomb Valley) contains all of the features essential to the conservation of both species. Although most individuals of P. atropurpurea observed were reported to be male, both sexes are present (SBNF 2000, p. 47). In 1999, the T. californicum population in Unit 3 was reported to be “large” and “healthy” with no apparent T. officinale hybrids (SBNF 2000, p. 56). Unit 3 is located within the San Bernardino National Forest, north of Big Bear Lake, and east of Hitchcock Meadow (Unit 4). The vast majority of lands within this unit are federally owned (409 ac (166 ha)), with only 5 ac (2 ha) of meadow habitat privately owned by the Lithuanian Scouts Association.

Habitat in this unit may be impacted by recreational activities and nearby diffuse mining operations (CNDDB 2006a, p. 6; Eliason 2007), and USFS roads have impacted meadow habitat, resulting in direct habitat loss and effects to meadow hydrology. Several areas of Belleville Meadow are currently heavily utilized for dispersed recreation, including vehicle use along the classified roads through the site, hiking and mountain biking along the Gold Fever Trail, and use of Holcomb Valley Campground near the western portion of the meadow. Several mining claims also exist in the meadow. Unauthorized vehicle activity and mountain biking off of classified roads and trails have caused devegetation and alteration of surface hydrology in some areas (SBNF 2002a, p. 36). P. atropurpurea and T. californicum are also threatened in this unit by invasion of nonnative, herbaceous annuals.

USFS has erected signs and fencing, and conducted outreach to protect occurrences in this unit (SBNF 2002a, p. 37). For example, to reduce impacts to Poa atropurpurea, trails from Holcomb Valley Campground were disguised and rehabilitated, and the area was protected through barricading and signing (SBNF 2002a, p. 5). Nearby trails that did not go through listed plant habitat were delineated and signed to encourage visitors to use those trails (SBNF 2002a, p. 5). However, special management considerations or protection may still be required to restore, protect, and maintain the PCEs supported by Unit 3 due to the threats from human disturbance, current nearby mining activities, and invasive, nonnative plant species.

Unit 4: Hitchcock Meadow

We are proposing to designate Unit 4 as critical habitat for Poa atropurpurea and Taraxacum californicum. Unit 4 consists of an approximately 497-ac (201-ha) meadow occupied by both species at the time of listing, and both species continue to occur within this unit. Although T. officinale is present, no apparent hybrids have been reported (SBNF 2000, p. 56). Unit 4 contains all of the features essential to the conservation of both species and is located within the San Bernardino National Forest, north of Big Bear Lake, and west of Belleville Meadow (Unit 3). The majority of Unit 4 (also referred to as Holcomb Valley) is privately owned by the Boy Scouts of America (BSA), and is a recreational and educational activity camp (BSA 2006).

This unit has been historically impacted by OHV use, horse grazing, and other human disturbance (CNDDB 2006b, p. 18). It is currently impacted by recreational and educational activities and horse grazing (SBNF 2000, p. 56; SBNF 2002a, p. 51). Poa atropurpurea and Taraxacum californicum are also threatened in this unit by invasion of nonnative, herbaceous annuals. Therefore, special management considerations or protection may be required to restore, protect, and maintain the PCEs supported by Unit 4 due to the threats from past human disturbance, current camp activities, and invasive, nonnative plant species.

Unit 5: Bluff Meadow

We are proposing to designate Unit 5 as critical habitat for Poa atropurpurea and Taraxacum californicum. Unit 5 consists of an approximately 205-ac (83-ha) meadow occupied by both species at the time of listing, and both species continue to occur within this unit. Unit 5 contains all of the features essential to the conservation of both species. It is located within the San Bernardino National Forest, south of the west end of Big Bear Lake. The majority of Unit 5 is privately owned by the Wildlands Conservancy, and currently leased to the San Bernardino County Regional Parks Division as an outdoor science education camp (Wildlands Conservancy 2005).

This unit has been historically impacted by recreational activities, cattle grazing, and other human disturbance (CNDDB 2006b, p. 12), but impacts are limited to recreational and educational activities (Eliason 2007; SBNF 2000, p. 57; SBNF 2002a, p. 42). Poa atropurpurea and Taraxacum californicum are also threatened in this unit by invasion of nonnative herbaceous annuals, including potential hybridization of T. californicum with T. officinale (SBNF 2000, p. 57; SBNF 2002a, p. 42). Therefore, special management considerations or protection may be required to restore, protect, and maintain the PCEs supported by Unit 5 due to the potential impacts of past human disturbance, current camp activities, and invasive, nonnative plant species.

Unit 6: North Shay Meadow

We are proposing to designate Unit 6 as critical habitat for Taraxacum californicum. Unit 6 consists of an approximately 21-ac (8-ha) meadow occupied by the species at the time of listing, and the species continues to occur within this unit. Occupancy of Unit 6 was documented one year after listing. Unit 6 hosts approximately 12 percent of the total number of individuals reported since 1999, and has the second highest number of total individuals reported from any one unit. This unit contains all of the features essential to the conservation of the species. It is located within the San Bernardino National Forest, east of Big Bear Lake, on the southern shore of Baldwin Lake, and north of Shay Road. The land in this unit is federally owned.

This northern portion of Shay Meadow has been isolated by development from the southern meadow adjacent to East Big Bear Boulevard. Lakeshore habitat within the unit is currently impacted by recreational activities due to the use of trails connecting private land to the lakeshore for OHV use, hiking, mountain biking, and horseback riding (SBNF 2000, p. 57, SBNF 2002a, p. 23). T. californicum is also threatened in this unit by invasion of nonnative herbaceous annuals, including potential hybridization with T. officinale (CNDDB 2006b, p. 36; SBNF 2000, p. 57). Therefore, special management considerations or protection may be required to restore, protect, and maintain the PCEs supported by Unit 6 due to the impacts of human disturbance and invasive, nonnative plant species.

Unit 7: Horse Meadow

We are proposing to designate Unit 7 as critical habitat for Taraxacum californicum. Unit 7 consists of an approximately 74-ac (30-ha) meadow occupied by the species at the time of listing, and the species continues to occur within this unit. Occupancy throughout the meadow was confirmed as recently as 2002 (Denslow et al. 2002, pp. 12 and 13). Unit 7 contains all of the features essential to the conservation of the species. It is located within the San Bernardino National Forest, southwest of Big Bear Lake, and northwest of San Gorgonio Mountain. Unit 7 is federally owned and located in the San Gorgonio Wilderness Area of the SBNF.

Recreational impacts from foot-traffic have been reported (Denslow et al. 2002, pp. 12 and 13; CNDDB 2006b, p. 5; SBNF 2000, p. 57; SBNF 2002a, p. 54). Taraxacum californicum is also threatened in this unit by invasion of nonnative, herbaceous annuals, including potential hybridization with T. officinale (SBNF 2000, p. 57). Therefore, special management considerations or protection may be required to restore, protect, and maintain the PCEs supported by Unit 7 due to threats from human disturbance and invasive, nonnative plant species.

Unit 8: Fish Creek Meadow

We are proposing to designate Unit 8 as critical habitat for Taraxacum californicum. Unit 8 consists of an approximately 89-ac (36-ha) meadow occupied by the species at the time of listing, and the species continues to occur within this unit. Unit 8 contains all of the features essential to the conservation of the species. It is located within the San Bernardino National Forest, southwest of Big Bear Lake, and northeast of San Gorgonio Mountain. Unit 8 is federally owned, and occurs within USFS' San Gorgonio Wilderness Area of the SBNF.

Habitat conditions in this unit are reported to be undisturbed, but diffuse recreational use impacts are likely due to trails around meadow in forested area (CNDDB 2006b, p. 6; SBNF 2002a, p. 52). Taraxacum californicum is also threatened in this unit by invasion of nonnative, herbaceous annuals, including potential hybridization with T. officinale (SBNF 2000, p. 58). Therefore, special management considerations or protection may be required to restore, protect, and maintain the PCEs supported by Unit 8 due to the threats from human disturbance and invasive, nonnative plant species.

Unit 9: Broom Flat Meadow

We are proposing to designate Unit 9 as critical habitat for Taraxacum californicum. Unit 9 consists of an approximately 188-ac (76-ha) meadow occupied by the species at the time of listing, and the species continues to occur within this unit. Occupancy of Unit 9 was documented 2 years after listing. Unit 9 supports approximately 9 percent of the total number of T. californicum individuals reported since 1999, supporting the fifth largest recorded population out of 35 (see Table 1 for complete population list), more than double the average recorded population size. This unit contains all of the features essential to the conservation of the species. Unit 9 is federally owned, and is located within the San Bernardino National Forest, southeast of Big Bear Lake.

This unit has been historically impacted by OHV activity, cattle and burro grazing, and other human disturbance (CNDDB 2006b, p. 28; USFS 2002b p. 64). This unit is currently impacted by diffuse recreational activities and cattle grazing (SBNF 2000, p. 58; SBNF 2002a, p. 46). Taraxacum californicum is also threatened in this unit by invasion of nonnative herbaceous annuals, including potential hybridization with T. officinale (CNDDB 2006b, p. 28; SBNF 2002a, p. 45). Therefore, special management considerations or protection may be required to restore, protect and maintain the PCEs supported by Unit 9 due to the potential impacts of human disturbance and invasive, nonnative plant species.

Unit 10: Wildhorse Meadow

We are proposing to designate Unit 10 as critical habitat for Taraxacum californicum. Unit 10 consists of an approximately 52-ac (21-ha) meadow occupied by the species at the time of listing, and the species continues to occur within this unit. Occupancy of Unit 10 by T. californicum was documented 1 year after listing. Unit 10 has the highest number of total documented individuals since the time of listing among all the units (230 individuals; SBNF 2000, p. 56; CNDDB 2006b, pp. 30 and 31) and hosts approximately 20 percent of the total number of individuals reported since 1999. Unit 10 was also reported to be occupied by Poa atropurpurea in 1981, but surveys in 1999 and 2000 did not locate any individuals (SBNF 2000, p. 47). Therefore, this unit is being proposed for T. californicum only. This unit contains all of the features essential to the conservation of the species. It is located within the San Bernardino National Forest, southeast of Big Bear Lake. The land in this unit is federally owned.

Habitat in this unit is reported to be of “excellent” quality and well protected, but some diffuse recreation impacts have been reported (SBNF 2000, pp. 56 and 58; SBNF 2002a, p. 69). Taraxacum californicum is also threatened in this unit by invasion of nonnative herbaceous annuals, including potential hybridization with T. officinale (CNDDB 2006b, p. 31; SBNF 2000, p. 56, 58). Therefore, special management considerations or protection may be required to restore, protect and maintain the PCEs supported by Unit 10 due to the potential impacts of invasive, nonnative plant species and diffuse recreation impacts.

Unit 11: Cienega Seca Meadow

We are proposing to designate Unit 11 as critical habitat for Poa atropurpurea and Taraxacum californicum. Unit 11 consists of an approximately 98-ac (40-ha) meadow occupied by both species at the time of listing, and both species continue to occur within this unit. Unit 11 contains all of the features essential to the conservation of both species. It is located within the San Bernardino National Forest, adjacent to State Route 38, southeast of Big Bear Lake, and northeast of San Gorgonio Mountain. The majority of Unit 11 (also referred to Blue Sky Meadow) is privately owned by the Los Angeles County Education Foundation (LACEF), and currently used as an outdoor science education camp (Wildlands Conservancy 2005; LACEF 2007).

Unit 11 has been historically impacted by changes in the hydrologic regime due to recreational activities, cattle grazing, and other human disturbance (CNDDB 2006a, p. 2, 2006b, p. 2). Use of the well and access roads are current threats to meadow habitat (SBNF 2002a, p. 77). Poa atropurpurea and Taraxacum californicum are also threatened in this unit by invasion of nonnative, herbaceous annuals, including potential hybridization of T. californicum with T. officinale (CNDDB 2006b p. 2; SBNF 2000, p. 58). Therefore, special management considerations or protection may be required to restore, protect, and maintain the PCEs supported by Unit 11 due to the threats from past human disturbance, current camp activities, and invasive, nonnative plant species.

Unit 12: South Fork Meadow

We are proposing to designate Unit 12 as critical habitat for Taraxacum californicum. Unit 12 consists of approximately 116 ac (47 ha) of meadows occupied by the species at the time of listing, and the species continues to occur within this unit. Unit 12 contains all of the features essential to the conservation of the species. It is located within the San Bernardino National Forest, southwest of Big Bear Lake on the northern slope of San Gorgonio Mountain. Unit 12 is federally owned, and is located in the San Gorgonio Wilderness Area of the SBNF.

Habitat in this unit is reported to be virtually undisturbed, but possibly impacted by some diffuse recreational use (CNDDB 2006b, p. 1; SBNF 2000, pp. 56 and 58). Threats include impacts of hikers, horseback riding, and camping; however, the meadows are minimally disturbed (SBNF 2002a, p. 66). Taraxacum californicum is also threatened in this unit by invasion of nonnative, herbaceous annuals, including potential hybridization with T. officinale (SBNF 2000, pp. 56 and 58). Therefore, special management considerations or protection may be required to restore, protect, and maintain the PCEs supported by Unit 12 due to the threats from human disturbance and invasive, nonnative plant species.

Unit 13: Mendenhall Valley

We are proposing to designate Unit 13 as critical habitat for Poa atropurpurea. Unit 13 consists of an approximately 291-ac (118-ha) meadow occupied by the species at the time of listing, and the species continues to occur within this unit. This unit contains all of the features essential to the conservation of the species. It is located within the Cleveland National Forest, on Palomar Mountain in San Diego County; 160 ac (65 ha) of the unit are federally owned, and the remaining portion (131 ac (53 ha)) is privately owned. We are not including a large portion of the meadow on the northwest end as proposed critical habitat because a field survey determined that the habitat appeared to be degraded and of a different vegetative type (Anderson 2007, p. 1). The Mendenhall Valley meadow contains a mid-range population of P. atropurpurea isolated from the southern populations (Laguna Mountain and Bear Valley) by at least 36 miles (58 km), and northern populations (Big Bear Lake area) by at least 60 miles (109 km).

Habitat in this unit has been impacted by cattle grazing (CNDDB 2006a, p. 4; CNF 1991, pp. 13-17), land-use changes, and recreational activities (2006 GIS satellite imagery). Under a biological opinion resulting from Service consultation with the CNF (Service 2001, p. 5), annual surveys are to be conducted in this unit for Poa atropurpurea, and cattle are to be excluded from grazing on CNF land until completion of seed set is documented. Annual phenology monitoring is currently being conducted, and grazing is permitted starting May 1 (Winter 2007, p. 1). USFS has also conducted ongoing gully repair work in this unit to benefit endangered meadow plants (Winter 2007, p. 3). P. atropurpurea is also threatened in this unit by invasion of nonnative, herbaceous annuals. Therefore, special management considerations or protection may be required to restore, protect, and maintain the PCEs supported by Unit 13 due to threats from grazing and invasive, nonnative plant species.

Unit 14: Laguna Meadow

We are proposing to designate Unit 14 as critical habitat for Poa atropurpurea. Unit 14 consists of an approximately 1,089-ac (441-ha) meadow occupied by the species at the time of listing, and the species continues to occur within this unit. Although all 5 herbarium specimens collected in this unit and reviewed by Curto (1992, p. 3) were female (one from 1978, three from 1981, and one from 1991), Hirshberg (1994, p. 2) reported a 1:250 female to male ratio during field surveys. This unit contains all of the features essential to the conservation of the species. It is located within the Cleveland National Forest, on Laguna Mountain, in San Diego County. Unit 14 is federally owned.

Habitat in this unit has been impacted by grazing and recreational activities (CNF 1991, pp. 13-17; CNDDB 2006a, pp. 4 and 20). Under a biological opinion resulting from Service consultation with the CNF (Service 2001, p. 5), annual surveys are to be conducted in this unit for Poa atropurpurea, and cattle are to be excluded from grazing until completion of seed set is documented. Currently, no annual surveys are conducted; however, grazing is not permitted until July 1, after seed set (Winter 2007, p. 1). CNF is also conducting ongoing gully repair work, with six projects having been completed (Winter 2007, p. 3). P. atropurpurea is also threatened in this unit by invasion of nonnative, herbaceous annuals. Therefore, special management considerations or protection may be required to restore, protect, and maintain the PCEs supported by Unit 14 due to the threats from grazing and invasive, nonnative plant species.

Unit 15: Bear Valley

We are proposing to designate Unit 15 as critical habitat for Poa atropurpurea. Unit 15 consists of an approximately 102-ac (41-ha) meadow occupied by the species at the time of listing, and the species continues to occur within this unit. This unit contains all of the features essential to the conservation of the species. All individuals reported from this location may be a single clone (CNDDB 2006a, p. 21). Unit 15 is federally owned and located within the Cleveland National Forest, southwest of Laguna Mountain and south of the town of Pine Valley, in San Diego County.

Habitat in this unit has been impacted by cattle grazing (CNDDB 2006a, p. 21) and diffuse recreational activities (2006 GIS satellite imagery). Under a biological opinion resulting from Service consultation with the CNF (Service 2001, pp. 3 and 4), annual surveys are supposed to be conducted in this unit for P. atropurpurea, and cattle are to be excluded from grazing until completion of seed set is documented. Currently, no annual surveys are conducted; however, grazing is not permitted until August 1, after seed set (Winter 2007, p. 1). P. atropurpurea is also threatened in this unit by invasion of nonnative, herbaceous annuals. Therefore, special management considerations or protection may be required to restore, protect, and maintain the PCEs supported by Unit 15 due to the threats from grazing, human disturbance, and invasive, nonnative plant species.

Effects of Critical Habitat Designation

Section 7 Consultation

Section 7(a)(2) of the Act requires Federal agencies, including the Service, to ensure that actions they fund, authorize, or carry out are not likely to destroy or adversely modify critical habitat. Decisions by the 5th and 9th Circuit Court of Appeals have invalidated our definition of “destruction or adverse modification” at 50 CFR 402.02 (see Gifford Pinchot Task Force v. U.S. Fish and Wildlife Service, 378 F. 3d 1059 (9th Cir 2004) and Sierra Club v. U.S. Fish and Wildlife Service et al., 245 F.3d 434, 442F (5th Cir 2001)), and we do not rely on this regulatory definition when analyzing whether an action is likely to destroy or adversely modify critical habitat. Pursuant to current national policy and the statutory provisions of the Act, destruction or adverse modification is determined on the basis of whether, with implementation of the proposed Federal action, the affected critical habitat would remain functional (or retain the current ability for the primary constituent elements to be functionally established) to serve its intended conservation role for the species.

Section 7(a)(4) of the Act requires Federal agencies to confer with us on any action that is likely to jeopardize the continued existence of a species proposed for listing or result in destruction or adverse modification of proposed critical habitat. This is a procedural requirement only. However, once a species proposed for listing becomes listed, or proposed critical habitat is designated as final, the full prohibitions of section 7(a)(2) apply to any Federal action. The primary utility of the conference procedures is to maximize the opportunity for a Federal agency to adequately consider species proposed for listing and proposed critical habitat and avoid potential delays in implementing their proposed action because of the section 7(a)(2) compliance process, should those species be listed or the critical habitat designated.

Under conference procedures, the Service may provide advisory conservation recommendations to assist the agency in eliminating conflicts that may be caused by the proposed action. The Service may conduct either informal or formal conferences. Informal conferences are typically used if the proposed action is not likely to have any adverse effects to the species proposed for listing or proposed critical habitat. Formal conferences are typically used when the Federal agency or the Service believes the proposed action is likely to cause adverse effects to species proposed for listing or proposed critical habitat, inclusive of those that may cause jeopardy or adverse modification.

The results of an informal conference are typically transmitted in a conference report, while the results of a formal conference are typically transmitted in a conference opinion. Conference opinions on proposed critical habitat are typically prepared according to 50 CFR 402.14, as if the proposed critical habitat were designated. We may adopt the conference opinion as the biological opinion when the critical habitat is designated, if no substantial new information or changes in the action alter the content of the opinion (see 50 CFR 402.10(d)). As noted above, any conservation recommendations in a conference report or opinion are strictly advisory.

If a species is listed or critical habitat is designated, section 7(a)(2) of the Act requires Federal agencies to ensure that activities they authorize, fund, or carry out are not likely to jeopardize the continued existence of the species or to destroy or adversely modify its critical habitat. If a Federal action may affect a listed species or its critical habitat, the responsible Federal agency (action agency) must enter into consultation with us. As a result of this consultation, compliance with the requirements of section 7(a)(2) will be documented through the Service's issuance of: (1) A concurrence letter for Federal actions that may affect, but are not likely to adversely affect, listed species or critical habitat; or (2) a biological opinion for Federal actions that are likely to adversely affect listed species or critical habitat.

When we issue a biological opinion concluding that a project is likely to result in jeopardy to a listed species or the destruction or adverse modification of critical habitat, we also provide reasonable and prudent alternatives to the project, if any are identifiable. “Reasonable and prudent alternatives” are defined at 50 CFR 402.02 as alternative actions identified during consultation that can be implemented in a manner consistent with the intended purpose of the action, that are consistent with the scope of the Federal agency's legal authority and jurisdiction, that are economically and technologically feasible, and that the Director believes would avoid jeopardy to the listed species or destruction or adverse modification of critical habitat. Reasonable and prudent alternatives can vary from slight project modifications to extensive redesign or relocation of the project. Costs associated with implementing a reasonable and prudent alternative are similarly variable.

Regulations at 50 CFR 402.16 require Federal agencies to reinitiate consultation on previously reviewed actions in instances where a new species is listed or critical habitat is subsequently designated that may be affected and the Federal agency has retained discretionary involvement or control over the action or such discretionary involvement or control is authorized by law. Consequently, some Federal agencies may request reinitiation of consultation with us on actions for which formal consultation has been completed, if those actions may affect subsequently listed species or designated critical habitat or adversely modify or destroy proposed critical habitat.

Federal activities that may affect Poa atropurpurea or Taraxacum californicum or their individually designated critical habitats will require section 7 consultation under the Act. Activities on State, Tribal, local, or private lands requiring a Federal permit (such as a permit from the U.S. Army Corps of Engineers under section 404 of the Clean Water Act (33 U.S.C. 1251 et seq.) or a permit under section 10(a)(1)(B) of the Act from the Service) or involving some other Federal action (such as funding from the Federal Highway Administration, Federal Aviation Administration, or the Federal Emergency Management Agency) will also be subject to the section 7 consultation process. Federal actions not affecting listed species or critical habitat, and actions on State, Tribal, local, or private lands that are not federally funded, authorized, or permitted, do not require section 7 consultations.

Application of the Adverse Modification Standard for Actions Involving Effects to the Critical Habitat for Poa atropurpurea and Taraxacum californicum Individually

For the reasons described in the Director's December 9th, 2004 memorandum, the key factor related to the adverse modification determination is whether, with implementation of the proposed Federal action, the affected critical habitat would remain functional (or retain the current ability for the primary constituent elements to be functionally established) to serve its intended conservation role for the species. Activities that may destroy or adversely modify critical habitat are those that alter the PCEs to an extent that the conservation value of critical habitat for Poa atropurpurea and Taraxacum californicum, individually, is appreciably reduced. Generally, the conservation role of critical habitat units for Poa atropurpurea and Taraxacum californicum is to support viable core area populations.

Section 4(b)(8) of the Act requires us to briefly evaluate and describe in any proposed or final regulation that designates critical habitat those activities involving a Federal action that may destroy or adversely modify such habitat, or that may be affected by such designation.

Activities that, when carried out, funded, or authorized by a Federal agency, may affect critical habitat and therefore should result in consultation for Poa atropurpurea or Taraxacum californicum include, but are not limited to:

(1) Actions that result in ground disturbance to meadows. Such activities could include, but are not limited to: residential or recreational development, OHV activity, dispersed recreation, new road construction or widening, existing road maintenance, and grazing. These activities could cause direct mortality of Poa atropurpurea or Taraxacum californicum, and impact meadows by damaging or eliminating habitat, altering soil composition due to increased erosion, and increasing densities of nonnative plant species. In addition, changes in soil composition may lead to cascading changes in the vegetation composition, such as growth of shrub cover that decreases density of or eliminates P. atropurpurea or T. californicum.

(2) Actions that result in alteration of the hydrological regime of the wet meadow habitat. Such activities could include residential or recreational development adjacent to meadows, OHV activity, dispersed recreation, new road construction or widening, and existing road maintenance. These activities could alter surface layers and hydrological regime in a manner that promotes loss of soil matrix components and moisture necessary to support the growth and reproduction of Poa atropurpurea or Taraxacum californicum.

(3) Actions that would significantly reduce pollination or seed set (reproduction). Such activities could include, but are not limited to, grazing or mowing prior to seed set. These activities could prevent reproduction by removal or destruction of reproductive plant parts.

Exemptions and Exclusions

Application of Section 4(b)(2) of the Act

Section 4(b)(2) of the Act states that critical habitat shall be designated, and revised, on the basis of the best available scientific data after taking into consideration the economic impact, national security impact, and any other relevant impact, of specifying any particular area as critical habitat. The Secretary may exclude an area from critical habitat if he determines that the benefits of such exclusion outweigh the benefits of specifying such area as part of the critical habitat, unless he determines, based on the best scientific data available, that the failure to designate such area as critical habitat will result in the extinction of the species. In making that determination, the legislative history is clear that the Secretary is afforded broad discretion regarding which factor(s) to use and how much weight to give to any factor.

Under section 4(b)(2) of the Act, in considering whether to exclude a particular area from the designation, we must identify the benefits of including the area in the designation, identify the benefits of excluding the area from the designation, and determine whether the benefits of exclusion outweigh the benefits of inclusion. If we are considering an exclusion, then we must determine whether excluding the area would result in the extinction of the species. In the following sections, we address a number of general issues that are relevant to the section 4(b)(2) analysis.

We are conducting an economic analysis of the impacts of the proposed critical habitat designation and related factors, which will be available for public review and comment when it is complete. Based on public comment on that document, the proposed designation itself, and the information in the final economic analysis, areas may be excluded from critical habitat by the Secretary under the provisions of section 4(b)(2) of the Act. This is provided for in the Act and in our implementing regulations at 50 CFR 424.19.

Under section 4(b)(2) of the Act, we must consider all relevant impacts, including economic ones. The Service considers a number of factors in its analysis under section 4(b)(2) of the Act. For example, the Service considers whether there are lands owned or managed by the Department of Defense (DOD) where there might be a national security impact. We also consider whether the landowners have developed any conservations plans for the area, or whether there are conservation partnerships that would be encouraged by designation of, or exclusion from, critical habitat. We look at any Tribal issues, and consider the government-to-government relationship of the United States with Tribal entities. We also consider any social or economic impacts that might occur because of the designation. In this instance, we have determined that the lands within this proposed designation of critical habitat individually for Poa atropurpurea and Taraxacum californicum are not owned or managed by the Department of Defense, the lands within this proposed designation of critical habitat are currently not covered by any habitat conservation plans for P. atropurpurea or T. californicum, and the proposed designation does not include any Tribal lands or trust resources.

At this time, we are not proposing to exclude any areas of habitat under section 4(b)(2) of the Act from critical habitat for Poa atropurpurea or Taraxacum californicum. We are inviting comment from the public in reference to those USFS lands that are proposed for designation. We would like to receive any available information on any areas covered by conservation or management plans that we should consider for exclusion from the designation under section 4(b)(2) of the Act including whether the benefit of exclusion of those lands would outweigh the benefits of their inclusion. Furthermore, we are unaware of any additional conservation or management plans that we should consider for exclusion from the designation under section 4(b)(2) of the Act. We specifically request any information on any operative or draft habitat conservation plans for P. atropurpurea or T. californicum that have been prepared under section 10(a)(1)(B) of the Act, or any other management or other conservation plan or agreement that benefits either plant or its primary constituent elements.

Economics

An analysis of the economic impacts of proposing critical habitat for Poa atropurpurea and Taraxacum californicum is being prepared. We will announce the availability of the draft economic analysis as soon as it is completed, at which time we will seek public review and comment. At that time, copies of the draft economic analysis will be available for downloading from the Internet at http://www.fws.gov/carlsbad, or by contacting the Carlsbad Fish and Wildlife Office directly (see ADDRESSES). We may exclude areas from critical habitat in our final rule based on the information in the economic analysis.

Peer Review

In accordance with our joint policy published in the Federal Register on July 1, 1994 (59 FR 34270), we will seek the expert opinions of at least three appropriate and independent specialists regarding this proposed rule. The purpose of such review is to ensure that our critical habitat designation is based on scientifically sound data, assumptions, and analyses. We will send copies of this proposed rule to these peer reviewers immediately following publication in the Federal Register. We will invite these peer reviewers to comment during the public comment period on the specific assumptions and conclusions regarding the proposed designation of critical habitat.

We will consider all comments and information received during the comment period on this proposed rule during preparation of a final determination. Accordingly, the final decision may differ from this proposal.

Public Hearings

The Act provides for one or more public hearings on this proposal, if requested. Requests for public hearings must be made in writing within 45 days after the date of publication of the proposed rule pursuant to section 4(b)(5)(E) of the Act. We will schedule public hearings on this proposal, if any are requested, and announce the dates, times, and places of those hearings in the Federal Register and local newspapers at least 15 days prior to the first hearing.

Persons needing reasonable accommodations to attend and participate in any scheduled public hearings should contact Alison Anderson, Carlsbad Fish and Wildlife Office, at 760-431-9440 as soon as possible following a public hearing announcement. To allow sufficient time to process requests, please call no later than one week before the hearing date. Information regarding the proposal is available in alternative formats upon request.

Clarity of the Rule

Executive Order 12866 (Regulatory Planning and Review) requires each agency to write regulations and notices that are easy to understand. We invite your comments on how to make this proposed rule easier to understand, including answers to questions such as the following: (1) Are the requirements in the proposed rule clearly stated? (2) Does the proposed rule contain technical jargon that interferes with the clarity? (3) Does the format of the proposed rule (grouping and order of the sections, use of headings, paragraphing, and so forth) aid or reduce its clarity? (4) Is the description of the notice in the SUPPLEMENTARY INFORMATION section of the preamble helpful in understanding the proposed rule? (5) What else could we do to make this proposed rule easier to understand?

Send a copy of any comments on how we could make this proposed rule easier to understand to: Office of Regulatory Affairs, Department of the Interior, Room 7229, 1849 C Street, NW., Washington, DC 20240. You may e-mail your comments to this address: Exsec@ios.doi.gov.

Required Determinations

Regulatory Planning and Review

In accordance with Executive Order 12866, this document is a significant rule in that it may raise novel legal and policy issues, but it is not anticipated to have an annual effect on the economy of $100 million or more or affect the economy in a material way. Due to the tight timeline for publication in the Federal Register, the Office of Management and Budget (OMB) has not formally reviewed this rule. We are preparing a draft economic analysis of this proposed action, which will be available for public comment, to determine the economic consequences of designating the specific area as critical habitat. This economic analysis also will be used to determine compliance with Executive Order 12866, Regulatory Flexibility Act, Small Business Regulatory Enforcement Fairness Act, Executive Order 12630, Executive Order 13211, and Executive Order 12875.

Further, Executive Order 12866 directs Federal agencies promulgating regulations to evaluate regulatory alternatives (OMB Circular A-4, September 17, 2003). Pursuant to Circular A-4, once it has been determined that the Federal regulatory action is appropriate, then the agency will need to consider alternative regulatory approaches. Since the determination of critical habitat is a statutory requirement under the Act, we must then evaluate alternative regulatory approaches, where feasible, when promulgating a designation of critical habitat.

In developing our designations of critical habitat, we consider economic impacts, impacts to national security, and other relevant impacts under section 4(b)(2) of the Act. Based on the discretion allowable under this provision, we may exclude any particular area from the designation of critical habitat provided that the benefits of such exclusion outweigh the benefits of including the area in critical habitat and that such exclusion would not result in the extinction of the species. As such, we believe that the evaluation of the inclusion or exclusion of particular areas, or both, in a designation constitutes our regulatory alternative analysis.

The availability of the draft economic analysis will be announced in the Federal Register and in local newspapers so that it is available for public review and comments. At that time, the draft economic analysis will be available from the Internet at http://www.fws.gov/carlsbad or by contacting the Carlsbad Fish and Wildlife Office directly (see ADDRESSES).

Regulatory Flexibility Act (5 U.S.C. 601 et seq.)

Under the Regulatory Flexibility Act (5 U.S.C. 601 et seq., as amended by the Small Business Regulatory Enforcement Fairness Act (SBREFA) of 1996), whenever an agency is required to publish a notice of rulemaking for any proposed or final rule, it must prepare and make available for public comment a regulatory flexibility analysis that describes the effects of the rule on small entities (small businesses, small organizations, and small government jurisdictions). However, no regulatory flexibility analysis is required if the head of the agency certifies the rule will not have a significant economic impact on a substantial number of small entities. The SBREFA amended the Regulatory Flexibility Act (RFA) to require Federal agencies to provide a statement of the factual basis for certifying that the rule will not have a significant economic impact on a substantial number of small entities.

At this time, the Service lacks the available economic information necessary to provide an adequate factual basis for the required RFA finding. Therefore, the RFA finding is deferred until completion of the draft economic analysis prepared under section 4(b)(2) of the Act and Executive Order 12866. This draft economic analysis will provide the required factual basis for the RFA finding. Upon completion of the draft economic analysis, the Service will publish a notice of availability of the draft economic analysis of the proposed designation and reopen the public comment period for the proposed designation. The Service will include with the notice of availability, as appropriate, an initial regulatory flexibility analysis or a certification that the rule will not have a significant economic impact on a substantial number of small entities accompanied by the factual basis for that determination. The Service has concluded that deferring the RFA finding until completion of the draft economic analysis is necessary to meet the purposes and requirements of the RFA. Deferring the RFA finding in this manner will ensure that the Service makes a sufficiently informed determination based on adequate economic information and provides the necessary opportunity for public comment.

Unfunded Mandates Reform Act (2 U.S.C. 1501 et seq.)

In accordance with the Unfunded Mandates Reform Act, the Service makes the following findings:

(a) This rule will not produce a Federal mandate. In general, a Federal mandate is a provision in legislation, statute, or regulation that would impose an enforceable duty upon State, local, or Tribal governments, or the private sector and includes both “Federal intergovernmental mandates” and “Federal private sector mandates.” These terms are defined in 2 U.S.C. 658(5)-(7). “Federal intergovernmental mandate” includes a regulation that “would impose an enforceable duty upon State, local, or tribal governments” with two exceptions. It excludes “a condition of Federal assistance.” It also excludes “a duty arising from participation in a voluntary Federal program,” unless the regulation “relates to a then-existing Federal program under which $500,000,000 or more is provided annually to State, local, and tribal governments under entitlement authority,” if the provision would “increase the stringency of conditions of assistance” or “place caps upon, or otherwise decrease, the Federal Government's responsibility to provide funding,” and the State, local, or Tribal governments “lack authority” to adjust accordingly. At the time of enactment, these entitlement programs were: Medicaid; AFDC work programs; Child Nutrition; Food Stamps; Social Services Block Grants; Vocational Rehabilitation State Grants; Foster Care, Adoption Assistance, and Independent Living; Family Support Welfare Services; and Child Support Enforcement. “Federal private sector mandate” includes a regulation that “would impose an enforceable duty upon the private sector, except (i) a condition of Federal assistance or (ii) a duty arising from participation in a voluntary Federal program.”

The designation of critical habitat does not impose a legally binding duty on non-Federal government entities or private parties. Under the Act, the only regulatory effect is that Federal agencies must ensure that their actions do not destroy or adversely modify critical habitat under section 7. While non-Federal entities that receive Federal funding, assistance, or permits, or that otherwise require approval or authorization from a Federal agency for an action, may be indirectly impacted by the designation of critical habitat, the legally binding duty to avoid destruction or adverse modification of critical habitat rests squarely on the Federal agency. Furthermore, to the extent that non-Federal entities are indirectly impacted because they receive Federal assistance or participate in a voluntary Federal aid program, the Unfunded Mandates Reform Act would not apply, nor would critical habitat shift the costs of the large entitlement programs listed above on to State governments.

(b) We do not believe that this rule will significantly or uniquely affect small governments because all of the lands included in the proposed designation are within National Forest boundaries. As such, a Small Government Agency Plan is not required. However, as we conduct our economic analysis, we will further evaluate this issue and revise this assessment if appropriate.

Executive Order 13211

On May 18, 2001, the President issued an Executive Order (E.O. 13211; Actions Concerning Regulations That Significantly Affect Energy Supply, Distribution, or Use) on regulations that significantly affect energy supply, distribution, and use. Executive Order 13211 requires agencies to prepare Statements of Energy Effects when undertaking certain actions. While this proposed rule to designate critical habitat for Poa atropurpurea and Taraxacum californicum is a significant regulatory action under Executive Order 12866 in that it may raise novel legal and policy issues, it is not expected to significantly affect energy supplies, distribution, or use. Therefore, this action is not a significant energy action, and no Statement of Energy Effects is required. However, we will further evaluate this issue as we conduct our economic analysis, and revise this assessment as warranted.

Takings

In accordance with Executive Order 12630 (“Government Actions and Interference with Constitutionally Protected Private Property Rights”), we have analyzed the potential takings implications of designating critical habitat for Poa atropurpurea and Taraxacum californicum in a takings implications assessment. The takings implications assessment concludes that, if adopted, this designation of critical habitat for P. atropurpurea and T. californicum does not pose significant takings implications.

Federalism

In accordance with Executive Order 13132 (Federalism), this rule does not have significant Federalism effects. A Federalism assessment is not required. In keeping with Department of the Interior and Department of Commerce policy, we requested information from, and coordinated development of, this proposed critical habitat designation with appropriate State resource agencies in California. Because all of the lands included in the proposed designation are within National Forest boundaries, we believe the designation of critical habitat for Poa atropurpurea and Taraxacum californicum would have little incremental impact on State and local governments and their activities. The designation may have some benefit to these governments in that the areas that contain the features essential to the conservation of the species are more clearly defined, and the primary constituent elements of the habitat necessary to the conservation of the species are specifically identified. While making this definition and identification does not alter where and what federally sponsored activities may occur, it may assist these local governments in long-range planning (rather than having them wait for case-by-case section 7 consultations to occur).

Civil Justice Reform

In accordance with Executive Order 12988 (Civil Justice Reform), the Office of the Solicitor has determined that the rule does not unduly burden the judicial system and meets the requirements of sections 3(a) and 3(b)(2) of the Order. We have proposed designating critical habitat in accordance with the provisions of the Act. This proposed rule uses standard property descriptions and identifies the primary constituent elements within the designated areas to assist the public in understanding the habitat needs of Poa atropurpurea and Taraxacum californicum.

Paperwork Reduction Act of 1995 (44 U.S.C. 3501 et seq.)

This rule does not contain any new collections of information that require approval by OMB under the Paperwork Reduction Act. This rule will not impose recordkeeping or reporting requirements on State or local governments, individuals, businesses, or organizations. An agency may not conduct or sponsor, and a person is not required to respond to, a collection of information unless it displays a currently valid OMB control number.

National Environmental Policy Act (NEPA) (42 U.S.C. 4321 et seq.)

It is our position that, outside the jurisdiction of the Tenth Federal Circuit, we do not need to prepare environmental analyses as defined by NEPA in connection with designating critical habitat under the Act. We published a notice outlining our reasons for this determination in the Federal Register on October 25, 1983 (48 FR 49244). This assertion was upheld in the courts of the Ninth Circuit (Douglas County v. Babbitt, 48 F.3d 1495 (9th Cir. Ore. 1995), cert. denied 116 S. Ct. 698 (1996)).

Government-to-Government Relationship With Tribes

In accordance with the President's memorandum of April 29, 1994, “Government-to-Government Relations with Native American Tribal Governments” (59 FR 22951), Executive Order 13175, and the Department of Interior's manual at 512 DM 2, we readily acknowledge our responsibility to communicate meaningfully with recognized Federal Tribes on a government-to-government basis. In accordance with Secretarial Order 3206 of June 5, 1997, “American Indian Tribal Rights, Federal—Tribal Trust Responsibilities, and the Endangered Species Act,” we readily acknowledge our responsibilities to work directly with tribes in developing programs for healthy ecosystems, to acknowledge that tribal lands are not subject to the same controls as Federal public lands, to remain sensitive to Indian culture, and to make information available to tribes. We have determined that there are no Tribal lands occupied at the time of listing that contain the features essential for the conservation, and no Tribal lands that are essential for the conservation, of Poa atropurpurea and/or Taraxacum californicum. Therefore, we are not proposing critical habitat for P. atropurpurea and/or T. californicum on Tribal lands.

References Cited

A complete list of all references cited in this proposal is available upon request from the Field Supervisor, Carlsbad Fish and Wildlife Office (see ADDRESSES).

Author(s)

The primary author of this package is Alison Anderson, Carlsbad Fish and Wildlife Office.

List of Subjects in 50 CFR Part 17

Endangered and threatened species, Exports, Imports, Reporting and recordkeeping requirements, Transportation.

Proposed Regulation Promulgation

Accordingly, we propose to amend part 17, subchapter B of chapter I, title 50 of the Code of Federal Regulations, as set forth below:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

2. In § 17.12(h), revise the entries for “Poa atropurpurea” and “Taraxacum californicum” under “FLOWERING PLANTS” in the List of Endangered and Threatened Plants to read as follows:

§ 17.12 Endangered and threatened plants.

* * * * *

(h) * * *

Species: Scientific name | Species: Common name | Historic range | Family | Status | When listed | Critical habitat | Special rules
Flowering Plants
* * * * * * *
Poa atropurpurea | San Bernardino bluegrass | U.S.A. (CA) | Poaceae | E | 644 | 17.96(a) | NA
* * * * * * *
Taraxacum californicum | California taraxacum | U.S.A. (CA) | Asteraceae | E | 644 | 17.96(a) | NA
* * * * * * *

3. Amend § 17.96(a) by adding an entry for “Taraxacum californicum” in alphabetical order under Family Asteraceae and by adding an entry for “Poa atropurpurea” in alphabetical order under Family Poaceae, to read as follows:

§ 17.96 Critical habitat—plants.

(a) Flowering plants.

* * * * *

Family Asteraceae: Taraxacum californicum (California taraxacum)

(1) Critical habitat units are depicted for San Diego and San Bernardino Counties, California, on the maps below.

(2) The primary constituent elements of critical habitat for Taraxacum californicum are:

(i) Wet meadows subject to flooding during wet years and forest openings with seeps, springs, or creeks in the San Bernardino Mountains in San Bernardino County located at elevations of 6,700 to 9,000 feet (2,000 to 2,800 meters), that provide space for individual and population growth, reproduction, and dispersal; and

(ii) Well-drained, loamy alluvial to sandy loam soils occurring in the wet meadow system or forest openings with seeps, springs, or creeks, with a 0 to 46 percent slope, to provide water, air, minerals, and other nutritional or physiological requirements to the species.

(3) Critical habitat does not include manmade structures (such as buildings, aqueducts, runways, roads, and other paved areas) and the land on which they are located existing within the legal boundaries on the effective date of this rule.

(4) Critical habitat map units. Data layers defining map units were created on a base of USGS 1:24,000 maps, and critical habitat units were then mapped using Universal Transverse Mercator (UTM) coordinates.

(5) Note: Index map of critical habitat units for Taraxacum californicum (California taraxacum) (Map 1) follows:

BILLING CODE 4310-55-P

BILLING CODE 4310-55-C

(6) Unit 2 for Taraxacum californicum and Poa atropurpurea: North Baldwin Meadow, San Bernardino County, California.

(i) From USGS 1:24:000 quadrangle map Big Bear City. Land bounded by the following UTM NAD27 coordinates (E, N): 516578, 3795213; 516595, 3795205; 516597, 3795204; 516602, 3795201; 516608, 3795198; 516613, 3795194; 516618, 3795190; 516623, 3795185; 516628, 3795181; 516632, 3795176; 516632, 3795175; 516639, 3795166; 516642, 3795161; 516646, 3795156; 516649, 3795150; 516652, 3795144; 516654, 3795138; 516656, 3795132; 516656, 3795131; 516659, 3795122; 516660, 3795116; 516661, 3795109; 516661, 3795108; 516662, 3795107; 516668, 3795104; 516674, 3795101; 516680, 3795098; 516685, 3795094; 516690, 3795090; 516695, 3795085; 516699, 3795081; 516703, 3795076; 516707, 3795070; 516711, 3795065; 516714, 3795059; 516716, 3795053; 516719, 3795047; 516721, 3795041; 516722, 3795034; 516723, 3795028; 516724, 3795021; 516724, 3795015; 516724, 3795008; 516723, 3795002; 516723, 3795000; 516725, 3794999; 516731, 3794997; 516736, 3794994; 516742, 3794990; 516747, 3794986; 516752, 3794982; 516756, 3794979; 516759, 3794976; 516760, 3794975; 516765, 3794970; 516769, 3794965; 516773, 3794960; 516773, 3794958; 516776, 3794956; 516781, 3794952; 516786, 3794947; 516791, 3794943; 516795, 3794938; 516799, 3794932; 516802, 3794927; 516805, 3794921; 516808, 3794915; 516810, 3794909; 516812, 3794903; 516813, 3794896; 516815, 3794890; 516815, 3794883; 516815, 3794877; 516815, 3794870; 516815, 3794864; 516813, 3794857; 516812, 3794851; 516810, 3794845; 516808, 3794838; 516805, 3794833; 516802, 3794827; 516799, 3794821; 516795, 3794816; 516791, 3794811; 516786, 3794806; 516783, 3794803; 516761, 3794782; 516759, 3794781; 516754, 3794777; 516748, 3794773; 516743, 3794769; 516737, 3794766; 516734, 3794765; 516730, 3794762; 516725, 3794757; 516721, 3794754; 516704, 3794743; 516703, 3794742; 516698, 3794739; 516692, 3794736; 516686, 3794733; 516680, 3794731; 516674, 3794729; 516667, 3794727; 516663, 3794727; 516657, 3794723; 516657, 3794722; 516657, 3794721; 516655, 3794711; 516655, 3794697; 516660, 3794678; 516661, 3794675; 516661, 3794675; 516663, 3794674; 516669, 3794670; 516674, 3794667; 516678, 3794663; 516684, 3794658; 516686, 3794652; 516687, 3794646; 516701, 3794616; 516703, 3794615; 516719, 3794610; 516737, 3794603; 516746, 3794589; 516746, 3794588; 516747, 3794588; 516747, 3794586; 516750, 3794581; 516753, 3794575; 516763, 3794570; 516764, 3794570; 516767, 3794572; 516770, 3794574; 516785, 3794582; 516788, 3794583; 516794, 3794586; 516795, 3794587; 516800, 3794588; 516802, 3794589; 516806, 3794590; 516812, 3794592; 516815, 3794592; 516830, 3794595; 516833, 3794595; 516840, 3794596; 516841, 3794596; 516874, 3794597; 516908, 3794601; 516910, 3794601; 516929, 3794603; 516972, 3794606; 516974, 3794607; 516981, 3794607; 516987, 3794607; 516993, 3794606; 517005, 3794604; 517018, 3794605; 517040, 3794610; 517052, 3794614; 517085, 3794629; 517087, 3794629; 517093, 3794632; 517093, 3794632; 517111, 3794638; 517163, 3794588; 517163, 3794587; 517167, 3794579; 517179, 3794553; 517186, 3794537; 517217, 3794533; 517204, 3794133; 517196, 3794146; 517184, 3794165; 517179, 3794170; 517164, 3794180; 517150, 3794188; 517128, 3794196; 517109, 3794200; 517058, 3794164; 517008, 3794154; 516957, 3794121; 516797, 3794070; 516794, 3794068; 516782, 3794061; 516763, 3794052; 516744, 3794045; 516736, 3794043; 516721, 3794037; 516701, 3794037; 516692, 3794028; 516672, 3794003; 516651, 3793976; 516635, 3793965; 516635, 3793959; 516622, 3793955; 516621, 3793954; 516619, 3793952; 516618, 3793953; 516609, 3793950; 516609, 3793968; 516609, 3793971; 516609, 3793972; 516603, 3793980; 516597, 3793980; 516579, 3793980; 516579, 3793998; 516579, 3794010; 516567, 3794010; 516549, 3794010; 516549, 3794028; 516549, 3794033; 516540, 3794036; 516523, 3794038; 516518, 3794040; 516513, 3794040; 516489, 3794040; 516489, 3794047; 516489, 3794070; 516489, 3794100; 516459, 3794100; 516429, 3794100; 516411, 3794100; 516407, 3794100; 516399, 3794100; 516396, 3794100; 516396, 3794100; 516397, 3794107; 516398, 3794113; 516400, 3794119; 516401, 3794126; 516404, 3794132; 516406, 3794138; 516407, 3794138; 516410, 3794144; 516412, 3794148; 516416, 3794153; 516416, 3794154; 516417, 3794155; 516436, 3794183; 516439, 3794187; 516443, 3794192; 516448, 3794197; 516449, 3794198; 516425, 3794210; 516406, 3794220; 516405, 3794220; 516405, 3794220; 516399, 3794223; 516394, 3794226; 516388, 3794230; 516383, 3794234; 516379, 3794239; 516374, 3794244; 516370, 3794249; 516366, 3794254; 516363, 3794259; 516360, 3794265; 516357, 3794271; 516356, 3794274; 516351, 3794288; 516349, 3794291; 516348, 3794297; 516346, 3794303; 516345, 3794310; 516344, 3794316; 516344, 3794323; 516344, 3794330; 516345, 3794336; 516346, 3794343; 516346, 3794343; 516342, 3794345; 516336, 3794349; 516331, 3794352; 516326, 3794357; 516321, 3794361; 516317, 3794366; 516313, 3794371; 516309, 3794376; 516305, 3794382; 516302, 3794388; 516300, 3794393; 516297, 3794400; 516295, 3794406; 516294, 3794412; 516293, 3794419; 516292, 3794425; 516292, 3794430; 516292, 3794449; 516292, 3794450; 516292, 3794457; 516292, 3794458; 516293, 3794467; 516292, 3794468; 516291, 3794475; 516291, 3794481; 516290, 3794488; 516291, 3794495; 516291, 3794501; 516292, 3794508; 516294, 3794514; 516296, 3794520; 516298, 3794526; 516301, 3794532; 516303, 3794537; 516306, 3794541; 516306, 3794542; 516310, 3794548; 516314, 3794553; 516318, 3794558; 516322, 3794563; 516327, 3794567; 516332, 3794572; 516337, 3794575; 516343, 3794579; 516349, 3794582; 516353, 3794584; 516373, 3794593; 516373, 3794594; 516375, 3794601; 516376, 3794607; 516378, 3794613; 516380, 3794619; 516383, 3794625; 516386, 3794631; 516389, 3794637; 516393, 3794641; 516392, 3794641; 516387, 3794645; 516381, 3794649; 516376, 3794653; 516371, 3794657; 516367, 3794662; 516363, 3794667; 516361, 3794670; 516369, 3794670; 516369, 3794700; 516369, 3794730; 516369, 3794760; 516339, 3794760; 516339, 3794762; 516339, 3794790; 516339, 3794808; 516339, 3794809; 516343, 3794830; 516339, 3794837; 516338, 3794839; 516335, 3794845; 516334, 3794847; 516326, 3794865; 516324, 3794868; 516311, 3794899; 516311, 3794900; 516309, 3794905; 516309, 3794910; 516309, 3794940; 516309, 3794970; 516309, 3795000; 516309, 3795030; 516309, 3795060; 516334, 3795060; 516330, 3795101; 516325, 3795131; 516322, 3795150; 516309, 3795150; 516309, 3795180; 516309, 3795210; 516279, 3795210; 516279, 3795180; 516249, 3795180; 516219, 3795180; 516220, 3795202; 516219, 3795225; 516219, 3795226; 516219, 3795233; 516220, 3795239; 516221, 3795246; 516223, 3795252; 516224, 3795258; 516226, 3795262; 516237, 3795293; 516239, 3795296; 516240, 3795299; 516244, 3795309; 516248, 3795320; 516249, 3795326; 516252, 3795332; 516254, 3795338; 516257, 3795344; 516261, 3795349; 516265, 3795355; 516269, 3795360; 516273, 3795364; 516278, 3795369; 516283, 3795373; 516289, 3795377; 516294, 3795380; 516300, 3795383; 516306, 3795386; 516312, 3795388; 516318, 3795390; 516325, 3795392; 516331, 3795393; 516338, 3795394; 516344, 3795394; 516351, 3795394; 516357, 3795393; 516364, 3795392; 516370, 3795390; 516376, 3795388; 516382, 3795386; 516388, 3795383; 516394, 3795380; 516400, 3795377; 516405, 3795373; 516408, 3795370; 516408, 3795370; 516410, 3795369; 516415, 3795364; 516419, 3795360; 516423, 3795355; 516427, 3795349; 516462, 3795298; 516483, 3795273; 516487, 3795268; 516488, 3795267; 516506, 3795243; 516509, 3795239; 516510, 3795237; 516515, 3795230; 516521, 3795229; 516521, 3795229; 516525, 3795228; 516535, 3795226; 516538, 3795226; 516545, 3795224; 516548, 3795223; 516565, 3795218; 516568, 3795217; 516574, 3795215; 516578, 3795213; 516578, 3795213.

(ii) Note: Map of Units 2, 3, 4, and 5 for Taraxacum californicum and Poa atropurpurea (Map 2) follows:

BILLING CODE 4310-55-P

BILLING CODE 4310-55-C

(7) Unit 3 for Taraxacum californicum and Poa atropurpurea: Belleville Meadow, San Bernardino County, California.

(i) From USGS 1:24:000 quadrangle map Fawnskin. Land bounded by the following UTM NAD27 coordinates (E, N): 509560, 3796268; 509577, 3796255; 509585, 3796255; 509587, 3796256; 509594, 3796255; 509600, 3796255; 509604, 3796254; 509609, 3796253; 509637, 3796250; 509637, 3796250; 509644, 3796249; 509650, 3796247; 509657, 3796245; 509659, 3796244; 509672, 3796239; 509687, 3796236; 509693, 3796235; 509699, 3796233; 509705, 3796231; 509711, 3796228; 509717, 3796225; 509722, 3796222; 509728, 3796218; 509732, 3796215; 509748, 3796201; 509749, 3796200; 509751, 3796198; 509768, 3796182; 509772, 3796179; 509773, 3796178; 509776, 3796175; 509796, 3796156; 509797, 3796155; 509802, 3796150; 509806, 3796145; 509809, 3796140; 509813, 3796134; 509816, 3796128; 509819, 3796122; 509821, 3796116; 509823, 3796110; 509824, 3796104; 509825, 3796102; 509826, 3796096; 509828, 3796096; 509835, 3796095; 509841, 3796094; 509848, 3796093; 509854, 3796091; 509860, 3796089; 509861, 3796088; 509878, 3796081; 509884, 3796078; 509890, 3796075; 509895, 3796072; 509901, 3796068; 509906, 3796064; 509906, 3796064; 509907, 3796065; 509913, 3796068; 509919, 3796071; 509919, 3796071; 509919, 3796050; 509949, 3796050; 509949, 3796020; 509979, 3796020; 510009, 3796020; 510039, 3796020; 510039, 3795990; 510069, 3795990; 510099, 3795990; 510099, 3795960; 510099, 3795944; 510102, 3795942; 510108, 3795938; 510108, 3795937; 510118, 3795930; 510118, 3795930; 510118, 3795930; 510123, 3795926; 510128, 3795922; 510131, 3795922; 510136, 3795922; 510144, 3795921; 510159, 3795925; 510163, 3795926; 510169, 3795928; 510176, 3795929; 510182, 3795930; 510187, 3795930; 510202, 3795930; 510204, 3795930; 510210, 3795930; 510211, 3795930; 510247, 3795927; 510253, 3795927; 510259, 3795926; 510266, 3795924; 510272, 3795922; 510278, 3795920; 510284, 3795917; 510290, 3795914; 510295, 3795911; 510301, 3795907; 510306, 3795903; 510311, 3795898; 510313, 3795896; 510331, 3795877; 510333, 3795874; 510337, 3795869; 510341, 3795864; 510343, 3795861; 510354, 3795843; 510367, 3795831; 510368, 3795830; 510370, 3795828; 510382, 3795815; 510388, 3795814; 510393, 3795814; 510400, 3795814; 510406, 3795813; 510412, 3795811; 510419, 3795809; 510425, 3795807; 510431, 3795804; 510433, 3795803; 510450, 3795794; 510454, 3795792; 510460, 3795788; 510462, 3795787; 510467, 3795786; 510474, 3795785; 510480, 3795784; 510486, 3795782; 510492, 3795779; 510497, 3795778; 510510, 3795771; 510512, 3795770; 510512, 3795770; 510513, 3795771; 510519, 3795766; 510526, 3795764; 510536, 3795760; 510540, 3795759; 510570, 3795755; 510574, 3795754; 510594, 3795750; 510609, 3795750; 510609, 3795780; 510639, 3795780; 510639, 3795750; 510669, 3795750; 510699, 3795750; 510699, 3795720; 510729, 3795720; 510729, 3795694; 510730, 3795691; 510731, 3795690; 510731, 3795690; 510755, 3795690; 510756, 3795688; 510757, 3795686; 510759, 3795680; 510761, 3795674; 510762, 3795670; 510770, 3795670; 510772, 3795671; 510773, 3795670; 510794, 3795670; 510807, 3795671; 510808, 3795671; 510817, 3795676; 510819, 3795677; 510825, 3795680; 510830, 3795682; 510853, 3795690; 510854, 3795690; 510857, 3795691; 510858, 3795692; 510864, 3795694; 510871, 3795695; 510877, 3795696; 510884, 3795697; 510888, 3795697; 510929, 3795698; 510931, 3795698; 510934, 3795698; 510961, 3795697; 510965, 3795697; 510972, 3795696; 510978, 3795695; 510982, 3795694; 510992, 3795692; 511009, 3795692; 511013, 3795692; 511049, 3795690; 511051, 3795690; 511057, 3795689; 511064, 3795688; 511070, 3795687; 511076, 3795685; 511082, 3795682; 511088, 3795680; 511094, 3795677; 511100, 3795673; 511100, 3795673; 511106, 3795670; 511111, 3795666; 511116, 3795662; 511121, 3795657; 511123, 3795655; 511136, 3795642; 511139, 3795639; 511143, 3795634; 511147, 3795628; 511150, 3795623; 511153, 3795617; 511156, 3795611; 511158, 3795605; 511160, 3795599; 511160, 3795597; 511164, 3795581; 511165, 3795576; 511166, 3795570; 511167, 3795567; 511168, 3795560; 511169, 3795553; 511170, 3795549; 511171, 3795542; 511172, 3795536; 511174, 3795512; 511174, 3795512; 511174, 3795505; 511174, 3795498; 511173, 3795493; 511171, 3795480; 511171, 3795479; 511170, 3795472; 511169, 3795466; 511167, 3795460; 511165, 3795454; 511162, 3795448; 511159, 3795442; 511155, 3795436; 511151, 3795431; 511147, 3795426; 511143, 3795421; 511138, 3795417; 511133, 3795413; 511128, 3795409; 511122, 3795405; 511116, 3795402; 511110, 3795400; 511104, 3795397; 511101, 3795396; 511065, 3795386; 511063, 3795385; 511056, 3795383; 511050, 3795382; 511043, 3795382; 511037, 3795381; 511034, 3795382; 511010, 3795382; 511000, 3795382; 510995, 3795379; 510985, 3795371; 510984, 3795371; 510979, 3795367; 510976, 3795365; 510958, 3795354; 510956, 3795353; 510952, 3795351; 510952, 3795346; 510951, 3795340; 510950, 3795333; 510949, 3795330; 510939, 3795330; 510909, 3795330; 510909, 3795328; 510911, 3795323; 510912, 3795318; 510909, 3795318; 510909, 3795300; 510895, 3795300; 510888, 3795290; 510879, 3795280; 510879, 3795270; 510870, 3795270; 510864, 3795263; 510849, 3795246; 510849, 3795240; 510844, 3795240; 510830, 3795224; 510821, 3795214; 510803, 3795196; 510768, 3795170; 510755, 3795161; 510741, 3795155; 510723, 3795156; 510696, 3795151; 510694, 3795151; 510680, 3795149; 510679, 3795147; 510677, 3795142; 510673, 3795136; 510670, 3795130; 510666, 3795125; 510666, 3795125; 510647, 3795100; 510643, 3795095; 510638, 3795090; 510634, 3795086; 510629, 3795082; 510623, 3795078; 510623, 3795078; 510607, 3795067; 510601, 3795064; 510596, 3795061; 510590, 3795058; 510584, 3795056; 510577, 3795054; 510571, 3795052; 510565, 3795051; 510558, 3795050; 510552, 3795050; 510550, 3795050; 510550, 3795050; 510544, 3795046; 510539, 3795042; 510533, 3795039; 510527, 3795037; 510521, 3795034; 510516, 3795033; 510515, 3795032; 510514, 3795031; 510512, 3795030; 510483, 3795009; 510479, 3795006; 510474, 3795003; 510470, 3795001; 510422, 3794975; 510420, 3794974; 510414, 3794972; 510408, 3794969; 510401, 3794967; 510396, 3794966; 510383, 3794963; 510382, 3794963; 510375, 3794957; 510372, 3794955; 510367, 3794951; 510361, 3794947; 510356, 3794944; 510350, 3794942; 510343, 3794939; 510341, 3794939; 510323, 3794933; 510319, 3794932; 510313, 3794930; 510306, 3794929; 510300, 3794928; 510293, 3794928; 510287, 3794928; 510280, 3794929; 510274, 3794930; 510267, 3794932; 510261, 3794934; 510255, 3794936; 510249, 3794939; 510243, 3794942; 510243, 3794942; 510214, 3794958; 510209, 3794962; 510207, 3794963; 510201, 3794951; 510199, 3794943; 510199, 3794941; 510199, 3794940; 510203, 3794926; 510204, 3794925; 510212, 3794920; 510215, 3794917; 510219, 3794914; 510234, 3794901; 510250, 3794890; 510255, 3794887; 510259, 3794883; 510269, 3794875; 510284, 3794866; 510288, 3794864; 510293, 3794860; 510294, 3794859; 510315, 3794842; 510317, 3794841; 510336, 3794824; 510338, 3794823; 510341, 3794820; 510344, 3794817; 510358, 3794812; 510359, 3794812; 510365, 3794811; 510372, 3794810; 510378, 3794808; 510380, 3794807; 510388, 3794798; 510394, 3794788; 510402, 3794777; 510408, 3794767; 510411, 3794763; 510414, 3794759; 510421, 3794753; 510425, 3794748; 510440, 3794729; 510454, 3794706; 510469, 3794686; 510473, 3794679; 510480, 3794668; 510480, 3794667; 510481, 3794663; 510481, 3794656; 510481, 3794649; 510480, 3794643; 510479, 3794636; 510478, 3794630; 510477, 3794630; 510478, 3794629; 510487, 3794621; 510500, 3794609; 510502, 3794608; 510522, 3794595; 510523, 3794594; 510528, 3794591; 510533, 3794586; 510538, 3794582; 510542, 3794577; 510546, 3794572; 510548, 3794570; 510549, 3794569; 510553, 3794565; 510557, 3794561; 510564, 3794554; 510565, 3794554; 510569, 3794549; 510569, 3794549; 510593, 3794538; 510595, 3794537; 510596, 3794536; 510610, 3794529; 510636, 3794521; 510637, 3794520; 510643, 3794518; 510648, 3794516; 510663, 3794509; 510664, 3794508; 510669, 3794506; 510669, 3794490; 510669, 3794460; 510699, 3794460; 510699, 3794430; 510699, 3794424; 510699, 3794400; 510699, 3794370; 510729, 3794370; 510729, 3794340; 510759, 3794340; 510759, 3794310; 510789, 3794310; 510789, 3794280; 510795, 3794280; 510793, 3794275; 510791, 3794269; 510788, 3794263; 510785, 3794258; 510784, 3794256; 510774, 3794240; 510772, 3794235; 510768, 3794230; 510764, 3794225; 510759, 3794220; 510755, 3794216; 510749, 3794212; 510744, 3794208; 510744, 3794208; 510724, 3794195; 510719, 3794191; 510713, 3794188; 510707, 3794185; 510701, 3794183; 510695, 3794181; 510688, 3794180; 510683, 3794179; 510660, 3794175; 510659, 3794175; 510657, 3794175; 510627, 3794172; 510625, 3794172; 510603, 3794169; 510602, 3794169; 510596, 3794168; 510589, 3794168; 510583, 3794168; 510576, 3794169; 510575, 3794169; 510552, 3794172; 510546, 3794173; 510540, 3794175; 510534, 3794176; 510528, 3794179; 510527, 3794179; 510524, 3794180; 510523, 3794180; 510490, 3794189; 510485, 3794191; 510478, 3794193; 510473, 3794196; 510450, 3794207; 510450, 3794207; 510444, 3794210; 510438, 3794214; 510435, 3794216; 510411, 3794233; 510409, 3794235; 510406, 3794237; 510387, 3794253; 510368, 3794262; 510365, 3794263; 510360, 3794266; 510333, 3794281; 510332, 3794282; 510327, 3794285; 510321, 3794289; 510319, 3794290; 510301, 3794305; 510298, 3794308; 510293, 3794313; 510289, 3794317; 510270, 3794338; 510270, 3794338; 510268, 3794340; 510255, 3794356; 510253, 3794359; 510249, 3794364; 510245, 3794370; 510242, 3794376; 510240, 3794382; 510237, 3794388; 510235, 3794394; 510234, 3794400; 510233, 3794407; 510232, 3794412; 510230, 3794441; 510230, 3794442; 510230, 3794443; 510229, 3794453; 510229, 3794453; 510224, 3794457; 510221, 3794461; 510216, 3794465; 510213, 3794469; 510192, 3794495; 510178, 3794510; 510178, 3794511; 510167, 3794523; 510165, 3794525; 510160, 3794530; 510160, 3794531; 510147, 3794548; 510132, 3794563; 510129, 3794567; 510128, 3794568; 510113, 3794585; 510109, 3794590; 510105, 3794592; 510105, 3794592; 510067, 3794614; 510062, 3794617; 510057, 3794621; 510056, 3794621; 510048, 3794627; 510036, 3794644; 510021, 3794659; 510006, 3794672; 509997, 3794679; 509992, 3794684; 509976, 3794694; 509975, 3794695; 509974, 3794695; 509963, 3794707; 509942, 3794728; 509937, 3794733; 509936, 3794735; 509904, 3794773; 509902, 3794776; 509898, 3794781; 509894, 3794787; 509891, 3794793; 509891, 3794794; 509889, 3794797; 509885, 3794803; 509884, 3794805; 509881, 3794811; 509880, 3794813; 509862, 3794850; 509862, 3794851; 509860, 3794855; 509859, 3794858; 509858, 3794861; 509856, 3794868; 509855, 3794871; 509847, 3794907; 509846, 3794910; 509845, 3794917; 509844, 3794923; 509844, 3794930; 509844, 3794937; 509844, 3794940; 509845, 3794943; 509845, 3794943; 509847, 3794959; 509848, 3794965; 509849, 3794970; 509852, 3794984; 509856, 3795016; 509856, 3795017; 509857, 3795024; 509858, 3795028; 509865, 3795058; 509866, 3795060; 509867, 3795067; 509870, 3795072; 509880, 3795097; 509879, 3795103; 509878, 3795110; 509878, 3795116; 509878, 3795123; 509879, 3795129; 509880, 3795136; 509881, 3795142; 509883, 3795149; 509885, 3795155; 509888, 3795161; 509890, 3795165; 509906, 3795194; 509907, 3795195; 509907, 3795195; 509918, 3795222; 509921, 3795228; 509921, 3795228; 509931, 3795247; 509934, 3795253; 509937, 3795259; 509938, 3795260; 509963, 3795297; 509963, 3795297; 509982, 3795324; 509985, 3795328; 509989, 3795333; 509994, 3795338; 509998, 3795342; 510014, 3795356; 510015, 3795356; 510017, 3795358; 510048, 3795384; 510050, 3795386; 510078, 3795407; 510101, 3795445; 510103, 3795448; 510107, 3795453; 510108, 3795455; 510118, 3795467; 510121, 3795474; 510130, 3795494; 510132, 3795503; 510133, 3795519; 510134, 3795550; 510131, 3795576; 510126, 3795596; 510123, 3795600; 510102, 3795608; 510089, 3795611; 510089, 3795612; 510072, 3795616; 510068, 3795614; 510058, 3795603; 510055, 3795601; 510055, 3795600; 510048, 3795594; 510037, 3795574; 510037, 3795573; 510035, 3795571; 510022, 3795549; 510006, 3795517; 510002, 3795508; 510000, 3795496; 509997, 3795470; 509996, 3795464; 509994, 3795458; 509992, 3795451; 509990, 3795445; 509988, 3795441; 509978, 3795419; 509977, 3795417; 509975, 3795413; 509962, 3795390; 509959, 3795381; 509954, 3795355; 509951, 3795334; 509950, 3795332; 509949, 3795325; 509947, 3795319; 509945, 3795313; 509942, 3795307; 509939, 3795301; 509935, 3795296; 509932, 3795290; 509927, 3795285; 509923, 3795281; 509918, 3795276; 509913, 3795272; 509908, 3795268; 509902, 3795265; 509898, 3795263; 509896, 3795261; 509894, 3795260; 509888, 3795258; 509882, 3795255; 509876, 3795253; 509869, 3795252; 509863, 3795251; 509856, 3795250; 509850, 3795250; 509843, 3795250; 509837, 3795251; 509830, 3795252; 509824, 3795253; 509824, 3795253; 509807, 3795258; 509801, 3795260; 509795, 3795262; 509789, 3795265; 509783, 3795268; 509778, 3795271; 509772, 3795275; 509767, 3795279; 509763, 3795284; 509758, 3795289; 509758, 3795289; 509741, 3795308; 509737, 3795313; 509733, 3795318; 509730, 3795324; 509727, 3795330; 509724, 3795335; 509722, 3795342; 509720, 3795348; 509718, 3795354; 509717, 3795361; 509717, 3795367; 509716, 3795374; 509717, 3795380; 509717, 3795387; 509718, 3795391; 509722, 3795413; 509713, 3795418; 509712, 3795418; 509709, 3795420; 509709, 3795420; 509706, 3795421; 509701, 3795425; 509695, 3795429; 509690, 3795433; 509685, 3795437; 509681, 3795442; 509677, 3795447; 509673, 3795452; 509672, 3795453; 509665, 3795465; 509662, 3795469; 509659, 3795475; 509656, 3795481; 509654, 3795487; 509652, 3795494; 509650, 3795500; 509650, 3795500; 509648, 3795510; 509646, 3795511; 509641, 3795512; 509635, 3795514; 509633, 3795515; 509627, 3795517; 509627, 3795517; 509626, 3795547; 509627, 3795564; 509630, 3795578; 509611, 3795587; 509601, 3795593; 509583, 3795604; 509569, 3795619; 509557, 3795636; 509548, 3795655; 509543, 3795673; 509541, 3795684; 509541, 3795688; 509542, 3795699; 509542, 3795699; 509542, 3795706; 509543, 3795712; 509545, 3795718; 509547, 3795725; 509549, 3795731; 509552, 3795737; 509555, 3795742; 509555, 3795743; 509556, 3795750; 509556, 3795750; 509561, 3795775; 509562, 3795781; 509564, 3795787; 509565, 3795789; 509574, 3795812; 509580, 3795834; 509581, 3795836; 509583, 3795842; 509582, 3795843; 509580, 3795844; 509575, 3795848; 509571, 3795853; 509566, 3795857; 509562, 3795862; 509561, 3795864; 509553, 3795874; 509530, 3795861; 509526, 3795859; 509520, 3795857; 509514, 3795854; 509507, 3795852; 509501, 3795851; 509495, 3795850; 509488, 3795849; 509482, 3795849; 509475, 3795849; 509468, 3795850; 509462, 3795851; 509456, 3795852; 509449, 3795854; 509449, 3795854; 509449, 3795853; 509449, 3795847; 509448, 3795840; 509447, 3795834; 509447, 3795833; 509442, 3795810; 509441, 3795803; 509439, 3795797; 509439, 3795796; 509437, 3795791; 509435, 3795785; 509432, 3795779; 509429, 3795773; 509428, 3795771; 509414, 3795748; 509409, 3795736; 509406, 3795731; 509403, 3795725; 509401, 3795721; 509383, 3795694; 509383, 3795693; 509383, 3795690; 509384, 3795688; 509384, 3795686; 509384, 3795686; 509388, 3795670; 509389, 3795667; 509390, 3795664; 509391, 3795660; 509384, 3795660; 509381, 3795656; 509379, 3795653; 509379, 3795630; 509361, 3795630; 509349, 3795618; 509349, 3795600; 509321, 3795600; 509310, 3795595; 509295, 3795591; 509275, 3795586; 509270, 3795585; 509259, 3795584; 509259, 3795570; 509229, 3795570; 509229, 3795585; 509228, 3795585; 509208, 3795591; 509189, 3795599; 509188, 3795600; 509169, 3795600; 509169, 3795614; 509157, 3795626; 509155, 3795630; 509155, 3795630; 509154, 3795632; 509153, 3795633; 509152, 3795639; 509150, 3795646; 509149, 3795652; 509148, 3795657; 509147, 3795681; 509143, 3795709; 509143, 3795709; 509142, 3795716; 509142, 3795722; 509142, 3795751; 509142, 3795758; 509143, 3795765; 509144, 3795771; 509145, 3795777; 509147, 3795784; 509148, 3795785; 509157, 3795812; 509166, 3795840; 509167, 3795844; 509168, 3795847; 509169, 3795849; 509170, 3795853; 509173, 3795858; 509185, 3795884; 509185, 3795885; 509189, 3795891; 509189, 3795892; 509199, 3795909; 509202, 3795913; 509210, 3795936; 509211, 3795938; 509214, 3795944; 509217, 3795950; 509217, 3795950; 509223, 3795960; 509229, 3795970; 509231, 3795974; 509232, 3795975; 509233, 3795976; 509233, 3795976; 509242, 3795980; 509252, 3795984; 509255, 3795986; 509259, 3795988; 509263, 3795990; 509269, 3795993; 509287, 3795997; 509282, 3796009; 509276, 3796030; 509275, 3796037; 509278, 3796041; 509289, 3796063; 509289, 3796064; 509289, 3796065; 509296, 3796078; 509297, 3796079; 509301, 3796088; 509308, 3796112; 509307, 3796115; 509304, 3796121; 509302, 3796127; 509300, 3796133; 509299, 3796138; 509308, 3796156; 509318, 3796170; 509327, 3796181; 509329, 3796183; 509330, 3796186; 509335, 3796207; 509347, 3796240; 509361, 3796266; 509368, 3796276; 509375, 3796286; 509390, 3796301; 509407, 3796313; 509426, 3796321; 509437, 3796324; 509452, 3796322; 509456, 3796321; 509463, 3796320; 509463, 3796320; 509482, 3796315; 509487, 3796313; 509493, 3796311; 509499, 3796308; 509505, 3796305; 509511, 3796301; 509516, 3796298; 509518, 3796296; 509526, 3796290; 509534, 3796286; 509538, 3796284; 509543, 3796280; 509547, 3796278; 509560, 3796268; 509560, 3796268.

(ii) Note: Unit 3 for Taraxacum californicum is depicted on Map 2 in paragraph (6)(ii) of this entry.

(8) Unit 4 for Taraxacum californicum and Poa atropurpurea: Hitchcock Meadow, San Bernardino County, California.

(i) From USGS 1:24:000 quadrangle map Fawnskin. Land bounded by the following UTM NAD27 coordinates (E, N): 507473, 3794979; 507468, 3794984; 507464, 3794989; 507460, 3794994; 507459, 3794996; 507457, 3794999; 507456, 3795000; 507454, 3795005; 507452, 3795007; 507444, 3795025; 507443, 3795029; 507440, 3795035; 507440, 3795037; 507438, 3795041; 507437, 3795048; 507436, 3795054; 507435, 3795061; 507435, 3795067; 507435, 3795074; 507436, 3795080; 507437, 3795087; 507437, 3795088; 507443, 3795114; 507444, 3795119; 507446, 3795126; 507448, 3795132; 507451, 3795138; 507454, 3795144; 507455, 3795144; 507455, 3795150; 507455, 3795152; 507455, 3795154; 507455, 3795155; 507449, 3795159; 507448, 3795158; 507442, 3795156; 507441, 3795156; 507438, 3795156; 507429, 3795153; 507424, 3795151; 507421, 3795149; 507420, 3795148; 507419, 3795148; 507413, 3795145; 507407, 3795143; 507400, 3795141; 507394, 3795139; 507388, 3795138; 507381, 3795138; 507375, 3795137; 507368, 3795138; 507361, 3795138; 507355, 3795139; 507349, 3795141; 507342, 3795143; 507338, 3795144; 507309, 3795156; 507307, 3795156; 507301, 3795159; 507296, 3795162; 507290, 3795166; 507285, 3795169; 507280, 3795174; 507275, 3795178; 507270, 3795183; 507266, 3795188; 507264, 3795191; 507255, 3795204; 507254, 3795206; 507253, 3795206; 507250, 3795211; 507247, 3795217; 507246, 3795219; 507244, 3795223; 507244, 3795223; 507239, 3795237; 507234, 3795238; 507227, 3795240; 507221, 3795242; 507215, 3795244; 507209, 3795247; 507203, 3795250; 507198, 3795253; 507194, 3795255; 507185, 3795262; 507183, 3795264; 507178, 3795268; 507173, 3795272; 507169, 3795277; 507165, 3795282; 507161, 3795287; 507157, 3795293; 507154, 3795299; 507151, 3795305; 507149, 3795311; 507147, 3795317; 507146, 3795323; 507145, 3795330; 507144, 3795336; 507144, 3795340; 507141, 3795344; 507138, 3795349; 507135, 3795355; 507132, 3795361; 507130, 3795367; 507128, 3795374; 507127, 3795380; 507125, 3795386; 507125, 3795393; 507125, 3795398; 507124, 3795410; 507122, 3795423; 507122, 3795427; 507121, 3795430; 507119, 3795453; 507119, 3795456; 507119, 3795463; 507119, 3795470; 507119, 3795471; 507116, 3795469; 507107, 3795464; 507107, 3795463; 507103, 3795459; 507098, 3795454; 507093, 3795450; 507088, 3795446; 507088, 3795446; 507081, 3795442; 507076, 3795439; 507070, 3795436; 507066, 3795434; 507066, 3795433; 507060, 3795431; 507054, 3795428; 507047, 3795426; 507041, 3795425; 507035, 3795424; 507028, 3795423; 507021, 3795423; 507013, 3795423; 507008, 3795423; 506989, 3795428; 506970, 3795437; 506953, 3795449; 506938, 3795464; 506926, 3795481; 506918, 3795500; 506912, 3795520; 506912, 3795522; 506909, 3795539; 506909, 3795541; 506906, 3795565; 506908, 3795573; 506908, 3795574; 506910, 3795581; 506912, 3795587; 506915, 3795593; 506916, 3795596; 506915, 3795599; 506914, 3795606; 506913, 3795612; 506912, 3795619; 506912, 3795625; 506912, 3795632; 506912, 3795634; 506914, 3795650; 506915, 3795663; 506915, 3795667; 506916, 3795673; 506918, 3795679; 506920, 3795686; 506922, 3795690; 506922, 3795691; 506916, 3795694; 506911, 3795698; 506909, 3795699; 506905, 3795702; 506891, 3795696; 506867, 3795682; 506855, 3795669; 506850, 3795664; 506847, 3795660; 506829, 3795660; 506799, 3795660; 506799, 3795669; 506797, 3795670; 506782, 3795676; 506781, 3795666; 506779, 3795650; 506780, 3795649; 506782, 3795647; 506794, 3795631; 506794, 3795630; 506799, 3795630; 506799, 3795623; 506801, 3795619; 506809, 3795602; 506805, 3795585; 506801, 3795570; 506797, 3795554; 506797, 3795553; 506797, 3795546; 506796, 3795540; 506794, 3795533; 506792, 3795527; 506790, 3795521; 506787, 3795515; 506784, 3795509; 506781, 3795504; 506777, 3795498; 506773, 3795493; 506768, 3795489; 506756, 3795477; 506752, 3795472; 506747, 3795468; 506741, 3795464; 506736, 3795461; 506732, 3795459; 506716, 3795428; 506714, 3795423; 506710, 3795417; 506706, 3795412; 506702, 3795407; 506698, 3795402; 506693, 3795398; 506688, 3795394; 506683, 3795390; 506682, 3795390; 506679, 3795388; 506677, 3795386; 506671, 3795383; 506665, 3795381; 506659, 3795378; 506656, 3795377; 506656, 3795371; 506656, 3795364; 506655, 3795358; 506654, 3795351; 506653, 3795345; 506651, 3795339; 506649, 3795333; 506646, 3795327; 506643, 3795321; 506639, 3795315; 506636, 3795310; 506634, 3795309; 506619, 3795289; 506616, 3795285; 506611, 3795281; 506607, 3795276; 506601, 3795272; 506596, 3795268; 506591, 3795265; 506585, 3795262; 506562, 3795250; 506561, 3795250; 506555, 3795247; 506549, 3795245; 506543, 3795243; 506537, 3795242; 506530, 3795240; 506524, 3795240; 506517, 3795240; 506511, 3795240; 506504, 3795240; 506498, 3795242; 506491, 3795243; 506485, 3795245; 506479, 3795247; 506473, 3795250; 506472, 3795250; 506449, 3795262; 506444, 3795265; 506438, 3795268; 506433, 3795272; 506431, 3795273; 506411, 3795289; 506408, 3795292; 506403, 3795296; 506399, 3795301; 506395, 3795306; 506391, 3795312; 506387, 3795317; 506384, 3795323; 506382, 3795329; 506379, 3795335; 506377, 3795341; 506376, 3795348; 506375, 3795353; 506373, 3795367; 506363, 3795389; 506362, 3795392; 506360, 3795398; 506358, 3795404; 506356, 3795410; 506355, 3795417; 506355, 3795423; 506354, 3795430; 506354, 3795477; 506355, 3795483; 506355, 3795490; 506356, 3795496; 506357, 3795499; 506365, 3795534; 506366, 3795538; 506367, 3795544; 506383, 3795591; 506383, 3795591; 506385, 3795598; 506386, 3795599; 506409, 3795654; 506412, 3795658; 506415, 3795664; 506418, 3795670; 506434, 3795693; 506434, 3795693; 506438, 3795699; 506442, 3795704; 506454, 3795717; 506456, 3795723; 506459, 3795729; 506461, 3795733; 506480, 3795767; 506490, 3795788; 506491, 3795790; 506494, 3795796; 506497, 3795802; 506500, 3795808; 506504, 3795813; 506508, 3795818; 506513, 3795823; 506532, 3795842; 506552, 3795865; 506552, 3795865; 506555, 3795867; 506556, 3795869; 506561, 3795874; 506564, 3795876; 506595, 3795902; 506611, 3795914; 506615, 3795918; 506610, 3795919; 506607, 3795920; 506598, 3795922; 506592, 3795922; 506589, 3795921; 506583, 3795922; 506576, 3795922; 506570, 3795923; 506564, 3795925; 506563, 3795925; 506556, 3795926; 506555, 3795926; 506554, 3795926; 506537, 3795926; 506530, 3795926; 506524, 3795927; 506517, 3795928; 506511, 3795930; 506505, 3795932; 506498, 3795934; 506492, 3795937; 506487, 3795940; 506481, 3795943; 506476, 3795947; 506471, 3795951; 506466, 3795956; 506462, 3795960; 506457, 3795965; 506454, 3795971; 506450, 3795976; 506447, 3795982; 506444, 3795988; 506442, 3795994; 506440, 3796000; 506440, 3796000; 506439, 3796007; 506438, 3796013; 506437, 3796020; 506437, 3796026; 506437, 3796033; 506438, 3796039; 506438, 3796044; 506439, 3796046; 506440, 3796052; 506442, 3796058; 506444, 3796065; 506447, 3796070; 506450, 3796076; 506454, 3796082; 506457, 3796087; 506462, 3796092; 506466, 3796097; 506471, 3796101; 506476, 3796106; 506481, 3796109; 506487, 3796113; 506492, 3796116; 506498, 3796119; 506500, 3796119; 506505, 3796124; 506509, 3796128; 506510, 3796129; 506511, 3796141; 506512, 3796153; 506512, 3796159; 506513, 3796166; 506516, 3796180; 506516, 3796188; 506516, 3796193; 506517, 3796200; 506518, 3796206; 506520, 3796213; 506522, 3796219; 506524, 3796225; 506525, 3796228; 506530, 3796239; 506532, 3796243; 506535, 3796249; 506538, 3796254; 506542, 3796259; 506546, 3796264; 506551, 3796269; 506556, 3796274; 506561, 3796278; 506566, 3796282; 506572, 3796285; 506577, 3796288; 506583, 3796291; 506589, 3796293; 506596, 3796295; 506602, 3796297; 506608, 3796298; 506614, 3796298; 506629, 3796303; 506651, 3796318; 506656, 3796321; 506662, 3796324; 506668, 3796327; 506674, 3796329; 506680, 3796331; 506682, 3796331; 506701, 3796336; 506705, 3796337; 506712, 3796338; 506718, 3796339; 506725, 3796339; 506731, 3796339; 506738, 3796338; 506744, 3796337; 506750, 3796335; 506757, 3796333; 506763, 3796331; 506769, 3796328; 506771, 3796327; 506797, 3796314; 506800, 3796312; 506806, 3796308; 506811, 3796305; 506816, 3796300; 506821, 3796296; 506826, 3796291; 506830, 3796286; 506834, 3796281; 506837, 3796275; 506840, 3796269; 506843, 3796264; 506845, 3796257; 506847, 3796251; 506848, 3796245; 506852, 3796229; 506852, 3796229; 506854, 3796229; 506858, 3796228; 506884, 3796226; 506949, 3796224; 506951, 3796224; 506981, 3796223; 507010, 3796222; 507014, 3796222; 507020, 3796221; 507027, 3796220; 507033, 3796219; 507037, 3796218; 507071, 3796207; 507074, 3796206; 507080, 3796204; 507084, 3796202; 507102, 3796193; 507138, 3796182; 507139, 3796182; 507145, 3796179; 507147, 3796179; 507182, 3796163; 507197, 3796160; 507229, 3796152; 507240, 3796151; 507243, 3796151; 507247, 3796151; 507271, 3796150; 507304, 3796154; 507319, 3796157; 507329, 3796162; 507334, 3796166; 507338, 3796169; 507339, 3796170; 507343, 3796173; 507360, 3796185; 507360, 3796185; 507366, 3796188; 507372, 3796191; 507378, 3796194; 507384, 3796196; 507390, 3796198; 507397, 3796200; 507403, 3796201; 507409, 3796201; 507416, 3796202; 507418, 3796201; 507431, 3796201; 507435, 3796201; 507442, 3796200; 507448, 3796199; 507455, 3796198; 507461, 3796196; 507467, 3796194; 507519, 3796172; 507519, 3796172; 507525, 3796170; 507530, 3796167; 507536, 3796163; 507541, 3796159; 507546, 3796155; 507549, 3796153; 507549, 3796140; 507561, 3796140; 507577, 3796128; 507577, 3796128; 507579, 3796126; 507579, 3796110; 507595, 3796110; 507596, 3796109; 507598, 3796106; 507599, 3796104; 507609, 3796097; 507609, 3796080; 507639, 3796080; 507639, 3796050; 507639, 3796020; 507669, 3796020; 507699, 3796020; 507729, 3796020; 507729, 3795990; 507759, 3795990; 507759, 3796020; 507789, 3796020; 507791, 3796020; 507793, 3796022; 507797, 3796020; 507819, 3796020; 507849, 3796020; 507849, 3796050; 507879, 3796050; 507908, 3796050; 507909, 3796050; 507911, 3796043; 507913, 3796037; 507913, 3796036; 507921, 3796005; 507922, 3796000; 507923, 3795993; 507924, 3795987; 507924, 3795980; 507924, 3795975; 507923, 3795958; 507924, 3795950; 507925, 3795944; 507925, 3795939; 507925, 3795918; 507926, 3795909; 507928, 3795907; 507939, 3795901; 507951, 3795896; 507951, 3795896; 507957, 3795893; 507963, 3795890; 507969, 3795887; 507974, 3795883; 507979, 3795879; 507984, 3795874; 507988, 3795870; 507993, 3795865; 507996, 3795859; 508000, 3795854; 508003, 3795848; 508006, 3795842; 508008, 3795836; 508010, 3795830; 508010, 3795828; 508014, 3795814; 508017, 3795805; 508018, 3795804; 508020, 3795799; 508027, 3795778; 508059, 3795772; 508061, 3795772; 508068, 3795770; 508074, 3795768; 508080, 3795766; 508086, 3795763; 508092, 3795760; 508097, 3795757; 508103, 3795753; 508108, 3795749; 508113, 3795744; 508113, 3795744; 508126, 3795730; 508131, 3795726; 508135, 3795721; 508139, 3795716; 508142, 3795710; 508145, 3795704; 508148, 3795698; 508150, 3795692; 508151, 3795690; 508155, 3795675; 508157, 3795671; 508158, 3795665; 508159, 3795659; 508160, 3795652; 508160, 3795646; 508160, 3795639; 508159, 3795632; 508158, 3795626; 508157, 3795620; 508155, 3795613; 508153, 3795608; 508147, 3795594; 508146, 3795591; 508145, 3795590; 508143, 3795584; 508140, 3795578; 508138, 3795575; 508142, 3795571; 508147, 3795567; 508147, 3795566; 508156, 3795558; 508156, 3795557; 508157, 3795557; 508163, 3795553; 508168, 3795549; 508173, 3795545; 508178, 3795541; 508183, 3795536; 508187, 3795531; 508190, 3795526; 508194, 3795520; 508197, 3795514; 508200, 3795508; 508202, 3795502; 508203, 3795498; 508217, 3795498; 508224, 3795498; 508226, 3795498; 508251, 3795496; 508256, 3795495; 508258, 3795495; 508284, 3795491; 508300, 3795489; 508300, 3795489; 508303, 3795488; 508310, 3795488; 508344, 3795489; 508346, 3795489; 508350, 3795489; 508365, 3795489; 508368, 3795489; 508375, 3795488; 508378, 3795487; 508423, 3795480; 508427, 3795480; 508433, 3795478; 508439, 3795476; 508445, 3795474; 508451, 3795471; 508463, 3795466; 508463, 3795465; 508469, 3795462; 508474, 3795459; 508480, 3795455; 508485, 3795451; 508489, 3795446; 508494, 3795442; 508498, 3795437; 508502, 3795431; 508503, 3795430; 508509, 3795420; 508509, 3795420; 508517, 3795407; 508520, 3795403; 508523, 3795397; 508526, 3795392; 508527, 3795387; 508536, 3795364; 508536, 3795362; 508538, 3795356; 508539, 3795353; 508544, 3795331; 508545, 3795327; 508546, 3795321; 508547, 3795314; 508548, 3795294; 508551, 3795288; 508554, 3795282; 508556, 3795277; 508567, 3795244; 508568, 3795243; 508569, 3795239; 508574, 3795223; 508574, 3795221; 508576, 3795215; 508577, 3795208; 508577, 3795202; 508577, 3795195; 508577, 3795188; 508577, 3795188; 508576, 3795174; 508576, 3795168; 508575, 3795161; 508573, 3795155; 508571, 3795149; 508569, 3795143; 508566, 3795137; 508563, 3795131; 508560, 3795125; 508556, 3795120; 508546, 3795108; 508546, 3795108; 508542, 3795103; 508538, 3795098; 508533, 3795093; 508528, 3795089; 508522, 3795085; 508517, 3795082; 508511, 3795079; 508505, 3795076; 508503, 3795075; 508485, 3795068; 508481, 3795067; 508475, 3795065; 508468, 3795063; 508462, 3795062; 508455, 3795062; 508451, 3795062; 508448, 3795061; 508440, 3795061; 508438, 3795061; 508431, 3795061; 508425, 3795062; 508418, 3795063; 508414, 3795064; 508390, 3795070; 508388, 3795070; 508382, 3795072; 508376, 3795075; 508370, 3795077; 508365, 3795075; 508358, 3795074; 508356, 3795073; 508352, 3795073; 508345, 3795072; 508339, 3795072; 508332, 3795072; 508326, 3795073; 508319, 3795074; 508313, 3795075; 508312, 3795075; 508301, 3795078; 508296, 3795080; 508289, 3795082; 508283, 3795085; 508278, 3795088; 508272, 3795092; 508267, 3795095; 508262, 3795100; 508257, 3795104; 508253, 3795109; 508248, 3795114; 508247, 3795115; 508235, 3795132; 508232, 3795130; 508226, 3795128; 508220, 3795125; 508218, 3795125; 508191, 3795116; 508187, 3795115; 508181, 3795113; 508174, 3795112; 508168, 3795112; 508161, 3795111; 508154, 3795112; 508148, 3795112; 508142, 3795113; 508135, 3795115; 508129, 3795117; 508123, 3795119; 508117, 3795122; 508111, 3795125; 508109, 3795126; 508109, 3795123; 508112, 3795091; 508112, 3795089; 508113, 3795083; 508112, 3795076; 508112, 3795070; 508111, 3795063; 508109, 3795057; 508109, 3795055; 508097, 3795014; 508091, 3794982; 508091, 3794981; 508085, 3794948; 508084, 3794925; 508084, 3794924; 508087, 3794919; 508089, 3794913; 508091, 3794907; 508092, 3794900; 508093, 3794894; 508094, 3794887; 508094, 3794883; 508094, 3794866; 508094, 3794864; 508094, 3794858; 508094, 3794851; 508093, 3794845; 508091, 3794838; 508089, 3794832; 508087, 3794826; 508084, 3794820; 508083, 3794817; 508067, 3794788; 508057, 3794762; 508043, 3794720; 508043, 3794720; 508038, 3794703; 508037, 3794689; 508037, 3794688; 508036, 3794681; 508036, 3794678; 508029, 3794638; 508028, 3794635; 508028, 3794632; 508027, 3794629; 508025, 3794623; 508023, 3794617; 508020, 3794611; 508017, 3794605; 508014, 3794599; 508010, 3794594; 508006, 3794589; 508001, 3794584; 507996, 3794580; 507991, 3794576; 507986, 3794572; 507980, 3794568; 507975, 3794565; 507969, 3794563; 507963, 3794560; 507956, 3794558; 507951, 3794557; 507945, 3794556; 507939, 3794550; 507939, 3794550; 507930, 3794540; 507927, 3794538; 507923, 3794533; 507918, 3794529; 507912, 3794525; 507907, 3794522; 507901, 3794519; 507895, 3794516; 507889, 3794514; 507884, 3794512; 507865, 3794507; 507864, 3794507; 507857, 3794505; 507851, 3794504; 507844, 3794503; 507838, 3794503; 507831, 3794503; 507825, 3794504; 507818, 3794505; 507813, 3794506; 507794, 3794511; 507792, 3794512; 507792, 3794512; 507776, 3794516; 507776, 3794516; 507733, 3794516; 507733, 3794516; 507726, 3794515; 507722, 3794515; 507714, 3794514; 507658, 3794508; 507655, 3794508; 507648, 3794508; 507642, 3794508; 507635, 3794509; 507629, 3794510; 507622, 3794511; 507616, 3794513; 507610, 3794515; 507604, 3794518; 507598, 3794521; 507593, 3794525; 507589, 3794527; 507569, 3794542; 507544, 3794558; 507543, 3794559; 507538, 3794562; 507533, 3794567; 507530, 3794569; 507528, 3794570; 507524, 3794571; 507518, 3794573; 507512, 3794575; 507506, 3794578; 507500, 3794581; 507494, 3794584; 507489, 3794588; 507484, 3794592; 507479, 3794597; 507475, 3794601; 507471, 3794606; 507467, 3794612; 507463, 3794617; 507460, 3794623; 507458, 3794629; 507455, 3794635; 507455, 3794635; 507453, 3794641; 507453, 3794643; 507446, 3794669; 507445, 3794674; 507444, 3794680; 507444, 3794687; 507443, 3794693; 507444, 3794700; 507444, 3794707; 507445, 3794713; 507447, 3794719; 507449, 3794726; 507451, 3794732; 507451, 3794733; 507451, 3794734; 507450, 3794740; 507449, 3794747; 507448, 3794753; 507448, 3794760; 507448, 3794766; 507449, 3794773; 507450, 3794779; 507451, 3794783; 507454, 3794797; 507455, 3794800; 507456, 3794806; 507459, 3794812; 507461, 3794818; 507465, 3794824; 507468, 3794829; 507472, 3794835; 507476, 3794840; 507480, 3794844; 507485, 3794849; 507485, 3794849; 507487, 3794851; 507485, 3794854; 507481, 3794859; 507477, 3794865; 507474, 3794871; 507472, 3794876; 507469, 3794883; 507467, 3794889; 507466, 3794895; 507465, 3794902; 507464, 3794908; 507464, 3794915; 507464, 3794921; 507464, 3794925; 507467, 3794950; 507467, 3794953; 507468, 3794959; 507470, 3794966; 507472, 3794972; 507474, 3794977; 507473, 3794979; 507473, 3794979.

(ii) Note: Unit 4 for Taraxacum californicum is depicted on Map 2 in paragraph (6)(ii) of this entry.

(9) Unit 5 for Taraxacum californicum and Poa atropurpurea: Bluff Meadow, San Bernardino County, California.

(i) From USGS 1:24:000 quadrangle map Big Bear Lake. Land bounded by the following UTM NAD27 coordinates (E, N): 503026, 3786299; 503217, 3786627; 503222, 3786623; 503228, 3786620; 503233, 3786615; 503237, 3786611; 503242, 3786606; 503245, 3786602; 503256, 3786592; 503266, 3786584; 503266, 3786584; 503271, 3786580; 503272, 3786578; 503278, 3786577; 503284, 3786576; 503290, 3786574; 503296, 3786572; 503302, 3786569; 503308, 3786566; 503314, 3786562; 503319, 3786559; 503324, 3786554; 503329, 3786550; 503342, 3786537; 503345, 3786534; 503359, 3786518; 503368, 3786514; 503374, 3786513; 503412, 3786521; 503433, 3786531; 503433, 3786580; 503434, 3786587; 503434, 3786592; 503434, 3786593; 503435, 3786600; 503437, 3786606; 503439, 3786612; 503441, 3786618; 503444, 3786624; 503447, 3786630; 503450, 3786636; 503454, 3786641; 503456, 3786644; 503465, 3786646; 503488, 3786649; 503508, 3786665; 503527, 3786673; 503547, 3786673; 503559, 3786669; 503582, 3786657; 503594, 3786642; 503606, 3786618; 503606, 3786606; 503606, 3786606; 503607, 3786606; 503607, 3786606; 503616, 3786600; 503619, 3786600; 503619, 3786598; 503643, 3786582; 503677, 3786540; 503679, 3786540; 503679, 3786537; 503681, 3786535; 503687, 3786512; 503696, 3786513; 503742, 3786508; 503806, 3786485; 503848, 3786457; 503891, 3786432; 503921, 3786405; 503932, 3786368; 503920, 3786340; 503915, 3786339; 503914, 3786338; 503892, 3786331; 503888, 3786331; 503863, 3786323; 503825, 3786328; 503822, 3786328; 503850, 3786318; 503933, 3786283; 503977, 3786258; 503975, 3786257; 503970, 3786254; 503964, 3786251; 503958, 3786248; 503952, 3786246; 503949, 3786245; 503934, 3786240; 503937, 3786240; 503921, 3786235; 503964, 3786214; 503996, 3786199; 503998, 3786198; 504004, 3786195; 504010, 3786192; 504015, 3786188; 504019, 3786184; 504050, 3786158; 504129, 3786105; 504129, 3786105; 504134, 3786101; 504139, 3786097; 504141, 3786096; 504169, 3786070; 504191, 3786053; 504210, 3786039; 504211, 3786038; 504216, 3786034; 504219, 3786031; 504220, 3786029; 504225, 3786024; 504226, 3786024; 504241, 3786006; 504244, 3786002; 504248, 3785996; 504252, 3785991; 504255, 3785985; 504257, 3785979; 504260, 3785973; 504262, 3785967; 504263, 3785960; 504264, 3785954; 504265, 3785947; 504265, 3785941; 504265, 3785940; 504265, 3785926; 504265, 3785919; 504264, 3785912; 504263, 3785906; 504262, 3785900; 504260, 3785893; 504257, 3785887; 504255, 3785881; 504252, 3785876; 504248, 3785870; 504244, 3785865; 504240, 3785860; 504236, 3785855; 504231, 3785850; 504226, 3785845; 504221, 3785841; 504215, 3785837; 504210, 3785834; 504204, 3785831; 504198, 3785828; 504192, 3785826; 504189, 3785825; 504186, 3785824; 504179, 3785822; 504173, 3785821; 504166, 3785821; 504160, 3785820; 504159, 3785820; 504137, 3785820; 504130, 3785821; 504124, 3785821; 504118, 3785822; 504111, 3785824; 504105, 3785826; 504099, 3785828; 504093, 3785831; 504087, 3785834; 504087, 3785834; 504056, 3785852; 504052, 3785854; 504002, 3785887; 503979, 3785902; 503966, 3785910; 503953, 3785918; 503943, 3785922; 503938, 3785925; 503935, 3785926; 503892, 3785949; 503889, 3785951; 503883, 3785954; 503879, 3785957; 503869, 3785965; 503868, 3785966; 503864, 3785969; 503862, 3785970; 503859, 3785972; 503853, 3785976; 503829, 3785988; 503827, 3785989; 503809, 3785994; 503802, 3785996; 503799, 3785996; 503764, 3785996; 503757, 3785996; 503751, 3785996; 503731, 3785999; 503730, 3785999; 503726, 3786000; 503716, 3786001; 503711, 3786000; 503707, 3785997; 503702, 3785993; 503696, 3785990; 503690, 3785987; 503684, 3785984; 503678, 3785982; 503672, 3785980; 503666, 3785978; 503659, 3785977; 503653, 3785976; 503646, 3785976; 503640, 3785976; 503638, 3785977; 503636, 3785976; 503630, 3785976; 503623, 3785976; 503619, 3785977; 503616, 3785977; 503610, 3785978; 503604, 3785980; 503597, 3785982; 503591, 3785984; 503589, 3785985; 503585, 3785987; 503580, 3785990; 503574, 3785993; 503570, 3785996; 503570, 3785996; 503558, 3785996; 503551, 3785996; 503545, 3785997; 503538, 3785998; 503532, 3785999; 503529, 3786000; 503526, 3786001; 503520, 3786003; 503477, 3786021; 503476, 3786021; 503471, 3786024; 503465, 3786027; 503459, 3786030; 503454, 3786034; 503449, 3786038; 503444, 3786043; 503440, 3786048; 503435, 3786053; 503432, 3786058; 503428, 3786063; 503427, 3786066; 503412, 3786092; 503400, 3786113; 503399, 3786114; 503396, 3786115; 503390, 3786118; 503384, 3786120; 503380, 3786122; 503377, 3786124; 503364, 3786118; 503363, 3786118; 503357, 3786115; 503351, 3786113; 503348, 3786112; 503322, 3786104; 503320, 3786103; 503313, 3786102; 503288, 3786097; 503288, 3786097; 503281, 3786096; 503275, 3786095; 503268, 3786095; 503229, 3786095; 503225, 3786095; 503219, 3786095; 503212, 3786096; 503207, 3786096; 503179, 3786101; 503178, 3786102; 503171, 3786103; 503165, 3786105; 503159, 3786107; 503153, 3786110; 503147, 3786113; 503142, 3786117; 503137, 3786120; 503131, 3786120; 503109, 3786120; 503079, 3786120; 503079, 3786150; 503049, 3786150; 503049, 3786180; 503019, 3786180; 502989, 3786180; 502981, 3786180; 502981, 3786182; 502978, 3786188; 502976, 3786194; 502975, 3786199; 502969, 3786197; 502963, 3786196; 502956, 3786195; 502937, 3786192; 502925, 3786186; 502921, 3786184; 502915, 3786181; 502909, 3786179; 502909, 3786179; 502899, 3786175; 502871, 3786166; 502869, 3786165; 502865, 3786164; 502859, 3786163; 502852, 3786162; 502846, 3786161; 502843, 3786161; 502809, 3786160; 502795, 3786159; 502779, 3786152; 502770, 3786147; 502766, 3786146; 502764, 3786145; 502759, 3786143; 502753, 3786141; 502747, 3786140; 502740, 3786139; 502738, 3786138; 502690, 3786133; 502686, 3786133; 502659, 3786131; 502651, 3786131; 502650, 3786131; 502644, 3786130; 502637, 3786131; 502630, 3786131; 502624, 3786132; 502618, 3786134; 502611, 3786136; 502608, 3786137; 502604, 3786139; 502599, 3786135; 502591, 3786129; 502590, 3786128; 502585, 3786124; 502579, 3786121; 502578, 3786120; 502573, 3786118; 502567, 3786115; 502561, 3786113; 502555, 3786111; 502549, 3786109; 502544, 3786109; 502511, 3786104; 502509, 3786103; 502503, 3786103; 502496, 3786102; 502490, 3786103; 502483, 3786103; 502477, 3786104; 502470, 3786106; 502464, 3786108; 502458, 3786110; 502456, 3786111; 502433, 3786121; 502429, 3786123; 502423, 3786126; 502418, 3786129; 502412, 3786133; 502407, 3786137; 502403, 3786142; 502398, 3786147; 502394, 3786152; 502390, 3786157; 502389, 3786159; 502387, 3786163; 502384, 3786168; 502381, 3786174; 502381, 3786174; 502377, 3786176; 502371, 3786179; 502370, 3786179; 502350, 3786189; 502345, 3786192; 502343, 3786193; 502319, 3786207; 502311, 3786207; 502310, 3786207; 502303, 3786207; 502297, 3786207; 502295, 3786207; 502264, 3786209; 502260, 3786210; 502259, 3786210; 502253, 3786211; 502247, 3786212; 502241, 3786214; 502234, 3786217; 502228, 3786219; 502223, 3786222; 502217, 3786226; 502212, 3786230; 502208, 3786233; 502190, 3786248; 502189, 3786249; 502184, 3786254; 502180, 3786258; 502176, 3786263; 502172, 3786269; 502171, 3786270; 502168, 3786274; 502165, 3786280; 502163, 3786286; 502160, 3786292; 502158, 3786298; 502157, 3786305; 502156, 3786311; 502155, 3786318; 502155, 3786324; 502155, 3786331; 502156, 3786335; 502158, 3786358; 502158, 3786360; 502159, 3786367; 502161, 3786373; 502163, 3786379; 502165, 3786385; 502166, 3786389; 502179, 3786416; 502180, 3786419; 502184, 3786425; 502187, 3786431; 502191, 3786436; 502195, 3786441; 502199, 3786446; 502204, 3786450; 502209, 3786454; 502215, 3786458; 502220, 3786462; 502226, 3786465; 502231, 3786467; 502239, 3786470; 502249, 3786475; 502250, 3786475; 502256, 3786477; 502262, 3786479; 502268, 3786481; 502275, 3786482; 502281, 3786482; 502288, 3786483; 502294, 3786482; 502301, 3786482; 502306, 3786481; 502334, 3786476; 502335, 3786476; 502365, 3786470; 502367, 3786471; 502374, 3786472; 502380, 3786472; 502387, 3786473; 502393, 3786472; 502419, 3786471; 502434, 3786470; 502434, 3786470; 502441, 3786469; 502447, 3786468; 502453, 3786467; 502460, 3786465; 502466, 3786462; 502472, 3786460; 502477, 3786457; 502495, 3786447; 502495, 3786446; 502501, 3786443; 502505, 3786440; 502526, 3786425; 502531, 3786425; 502538, 3786425; 502544, 3786424; 502551, 3786423; 502557, 3786422; 502559, 3786421; 502560, 3786421; 502567, 3786420; 502573, 3786418; 502579, 3786417; 502588, 3786413; 502595, 3786412; 502601, 3786411; 502607, 3786409; 502613, 3786407; 502619, 3786404; 502625, 3786401; 502630, 3786397; 502636, 3786393; 502641, 3786389; 502646, 3786385; 502649, 3786382; 502671, 3786396; 502717, 3786426; 502745, 3786447; 502747, 3786450; 502749, 3786452; 502763, 3786466; 502764, 3786467; 502768, 3786471; 502770, 3786472; 502816, 3786510; 502819, 3786513; 502824, 3786517; 502830, 3786520; 502836, 3786523; 502840, 3786525; 502872, 3786539; 502901, 3786555; 502904, 3786556; 502954, 3786581; 502955, 3786582; 502961, 3786584; 502967, 3786587; 502973, 3786589; 502980, 3786590; 502985, 3786591; 503002, 3786593; 503038, 3786599; 503039, 3786599; 503044, 3786599; 503047, 3786602; 503051, 3786606; 503057, 3786610; 503062, 3786614; 503067, 3786618; 503073, 3786621; 503079, 3786624; 503085, 3786626; 503092, 3786628; 503098, 3786629; 503104, 3786630; 503111, 3786631; 503113, 3786631; 503117, 3786632; 503123, 3786634; 503129, 3786636; 503135, 3786637; 503153, 3786639; 503154, 3786639; 503160, 3786640; 503167, 3786640; 503173, 3786640; 503180, 3786639; 503186, 3786638; 503193, 3786637; 503199, 3786635; 503205, 3786633; 503211, 3786630; 503217, 3786627; 503026, 3786299.

(ii) Note: Unit 5 for Taraxacum californicum is depicted on Map 2 in paragraph (6)(ii) of this entry.

(10) Unit 6: North Shay Meadow, San Bernardino County, California.

(i) From USGS 1:24:000 quadrangle map Big Bear City. Land bounded by the following UTM NAD27 coordinates (E, N): 517452, 37991854; 517196, 37991888; 517196, 37991904; 517240, 37991919; 517315, 37991927; 517405, 37991930; 517486, 37991923; 517594, 37991902; 517674, 37991877; 517734, 37991836; 517815, 37991781; 517839, 37991756; 517766, 37991756; 517730, 37991757; 517694, 37991757; 517675, 37991757; 517619, 37991758; 517577, 37991758; 517502, 37991759; 517469, 37991759; 517422, 37991759; 517367, 37991760; 517344, 37991760; 517310, 37991760; 517280, 37991761; 517243, 37991761; 517195, 37991762; 517195, 37991777; 517195, 37991798; 517195, 37991829; 517196, 37991866; 517196, 37991888; 517452, 37991854.

(ii) Note: Map of Unit 6 for Taraxacum californicum (Map 3) follows:

BILLING CODE 4310-55-P

(11) Unit 7: Horse Meadow, San Bernardino County, California.

(i) From USGS 1:24:000 quadrangle map Moonridge. Land bounded by the following UTM NAD27 coordinates (E,N): 512365, 3779133; 512329, 3779237; 512402, 3779220; 512461, 3779223; 512527, 3779265; 512638, 3779227; 512725, 3779175; 512784, 3779116; 512843, 3779078; 512888, 3779019; 512919, 3778956; 512926, 3778935; 512922, 3778873; 512791, 3778848; 512659, 3778876; 512537, 3778887; 512433, 3778890; 512350, 3778900; 512284, 3778966; 512159, 3778994; 512061, 3778963; 512020, 3779039; 511975, 3779095; 511947, 3779199; 511936, 3779293; 511968, 3779345; 512051, 3779355; 512145, 3779331; 512190, 3779296; 512249, 3779265; 512329, 3779237; 512365, 3779133.

(ii) Note: Map of Units 7, 8, 9, 10, and 12 for Taraxacum californicum (Map 4) follows:

BILLING CODE 4310-55-C

(12) Unit 8: Fish Creek Meadow, San Bernardino County, California.

(i) From USGS 1:24:000 quadrangle map Moonridge and San Gorgornio Mountain. Land bounded by the following UTM NAD27 coordinates (E, N): 520732, 3776069; 521043, 3776130; 521043, 3776107; 521043, 3776100; 521042, 3776094; 521041, 3776087; 521040, 3776081; 521039, 3776080; 521042, 3776075; 521042, 3776075; 521045, 3776069; 521047, 3776063; 521049, 3776056; 521051, 3776050; 521052, 3776043; 521052, 3776039; 521055, 3776005; 521056, 3776002; 521056, 3775996; 521056, 3775973; 521056, 3775967; 521055, 3775960; 521054, 3775954; 521052, 3775947; 521050, 3775941; 521048, 3775935; 521045, 3775929; 521045, 3775929; 521036, 3775910; 521033, 3775904; 521029, 3775899; 521026, 3775893; 521021, 3775888; 521019, 3775886; 521019, 3775890; 520989, 3775890; 520989, 3775920; 520959, 3775920; 520959, 3775950; 520941, 3775950; 520930, 3775942; 520899, 3775936; 520899, 3775920; 520869, 3775920; 520839, 3775920; 520811, 3775920; 520787, 3775916; 520762, 3775916; 520743, 3775916; 520737, 3775920; 520719, 3775920; 520719, 3775931; 520718, 3775932; 520699, 3775945; 520689, 3775950; 520689, 3775950; 520659, 3775950; 520634, 3775950; 520629, 3775949; 520629, 3775920; 520607, 3775920; 520600, 3775910; 520600, 3775910; 520599, 3775902; 520599, 3775892; 520605, 3775871; 520617, 3775816; 520649, 3775772; 520662, 3775739; 520668, 3775689; 520655, 3775653; 520642, 3775633; 520622, 3775612; 520584, 3775595; 520576, 3775604; 520572, 3775627; 520577, 3775666; 520577, 3775721; 520557, 3775780; 520524, 3775816; 520504, 3775848; 520488, 3775878; 520471, 3775893; 520445, 3775897; 520419, 3775875; 520410, 3775866; 520399, 3775864; 520380, 3775855; 520358, 3775837; 520271, 3775795; 520217, 3775748; 520191, 3775699; 520179, 3775662; 520164, 3775648; 520137, 3775633; 520081, 3775624; 520046, 3775620; 519990, 3775611; 519949, 3775631; 519921, 3775634; 519862, 3775646; 519823, 3775660; 519787, 3775685; 519766, 3775724; 519765, 3775743; 519769, 3775766; 519787, 3775787; 519842, 3775797; 519886, 3775793; 519933, 3775793; 519990, 3775805; 520046, 3775812; 520059, 3775814; 520059, 3775830; 520089, 3775830; 520119, 3775830; 520119, 3775860; 520149, 3775860; 520159, 3775860; 520171, 3775871; 520179, 3775877; 520179, 3775890; 520198, 3775890; 520209, 3775897; 520209, 3775920; 520236, 3775920; 520238, 3775922; 520255, 3775970; 520267, 3775992; 520267, 3775993; 520269, 3775995; 520269, 3775995; 520269, 3776010; 520277, 3776010; 520281, 3776016; 520333, 3776059; 520380, 3776068; 520419, 3776062; 520419, 3776070; 520449, 3776070; 520449, 3776100; 520449, 3776130; 520479, 3776130; 520479, 3776160; 520509, 3776160; 520509, 3776130; 520539, 3776130; 520539, 3776120; 520569, 3776142; 520569, 3776160; 520539, 3776160; 520539, 3776190; 520539, 3776220; 520539, 3776247; 520541, 3776249; 520546, 3776253; 520551, 3776256; 520556, 3776260; 520560, 3776262; 520564, 3776266; 520569, 3776271; 520574, 3776275; 520580, 3776279; 520585, 3776282; 520591, 3776285; 520593, 3776286; 520593, 3776289; 520592, 3776294; 520592, 3776300; 520592, 3776307; 520593, 3776311; 520596, 3776340; 520596, 3776342; 520597, 3776348; 520599, 3776355; 520601, 3776361; 520603, 3776367; 520606, 3776373; 520609, 3776379; 520612, 3776384; 520616, 3776390; 520620, 3776395; 520625, 3776400; 520629, 3776404; 520635, 3776408; 520640, 3776412; 520645, 3776415; 520651, 3776419; 520657, 3776421; 520663, 3776424; 520667, 3776425; 520698, 3776434; 520701, 3776435; 520708, 3776436; 520714, 3776438; 520719, 3776438; 520719, 3776430; 520719, 3776400; 520719, 3776370; 520749, 3776370; 520779, 3776370; 520779, 3776340; 520809, 3776340; 520809, 3776310; 520809, 3776280; 520809, 3776250; 520839, 3776250; 520839, 3776220; 520840, 3776220; 520869, 3776220; 520899, 3776220; 520929, 3776220; 520959, 3776220; 520959, 3776190; 520989, 3776190; 520989, 3776160; 521019, 3776160; 521019, 3776130; 521043, 3776130; 520732, 3776069.

(ii) Note: Unit 8 for Taraxacum californicum is depicted on Map 4 in paragraph (11)(ii) of this entry.

(13) Unit 9: Broom Flat Meadow, San Bernardino County, California.

(i) From USGS 1:24:000 quadrangle map Onyx Peak. Land bounded by the following UTM NAD27 coordinates (E, N): 525279, 3786553; 524842, 3786873; 524848, 3786876; 524854, 3786878; 524860, 3786880; 524865, 3786881; 524874, 3786883; 524869, 3786900; 524869, 3786902; 524867, 3786908; 524866, 3786914; 524866, 3786921; 524865, 3786927; 524866, 3786934; 524866, 3786941; 524867, 3786947; 524869, 3786953; 524871, 3786960; 524873, 3786966; 524876, 3786972; 524879, 3786977; 524882, 3786983; 524884, 3786986; 524893, 3786998; 524895, 3787000; 524895, 3787001; 524901, 3787009; 524905, 3787013; 524910, 3787018; 524914, 3787023; 524919, 3787027; 524925, 3787031; 524930, 3787034; 524936, 3787037; 524942, 3787040; 524948, 3787042; 524949, 3787042; 524959, 3787046; 524962, 3787047; 524968, 3787049; 524974, 3787051; 524980, 3787053; 524987, 3787054; 524993, 3787054; 524999, 3787054; 525018, 3787055; 525019, 3787055; 525025, 3787055; 525032, 3787054; 525038, 3787053; 525045, 3787051; 525051, 3787049; 525057, 3787047; 525061, 3787045; 525071, 3787041; 525078, 3787039; 525079, 3787039; 525086, 3787037; 525092, 3787034; 525093, 3787034; 525100, 3787031; 525103, 3787036; 525107, 3787041; 525108, 3787042; 525116, 3787052; 525119, 3787056; 525122, 3787059; 525126, 3787064; 525129, 3787066; 525133, 3787071; 525138, 3787075; 525141, 3787077; 525143, 3787079; 525143, 3787080; 525153, 3787094; 525156, 3787097; 525160, 3787102; 525164, 3787107; 525169, 3787112; 525174, 3787116; 525179, 3787120; 525185, 3787123; 525191, 3787126; 525197, 3787129; 525203, 3787131; 525209, 3787133; 525215, 3787135; 525222, 3787136; 525222, 3787136; 525247, 3787139; 525254, 3787139; 525260, 3787140; 525267, 3787139; 525270, 3787139; 525273, 3787139; 525275, 3787139; 525294, 3787136; 525296, 3787136; 525313, 3787133; 525316, 3787132; 525319, 3787131; 525347, 3787125; 525350, 3787124; 525357, 3787122; 525357, 3787122; 525390, 3787111; 525396, 3787109; 525402, 3787106; 525407, 3787103; 525413, 3787099; 525418, 3787096; 525423, 3787091; 525427, 3787088; 525448, 3787068; 525468, 3787050; 525468, 3787050; 525473, 3787046; 525477, 3787041; 525493, 3787024; 525493, 3787023; 525494, 3787023; 525509, 3787006; 525512, 3787001; 525516, 3786996; 525525, 3786983; 525525, 3786983; 525529, 3786977; 525532, 3786971; 525534, 3786965; 525537, 3786959; 525539, 3786953; 525540, 3786947; 525541, 3786940; 525542, 3786934; 525542, 3786927; 525542, 3786920; 525542, 3786919; 525541, 3786907; 525540, 3786902; 525539, 3786895; 525538, 3786889; 525536, 3786883; 525533, 3786877; 525531, 3786871; 525528, 3786865; 525522, 3786855; 525522, 3786855; 525518, 3786849; 525515, 3786844; 525512, 3786840; 525506, 3786833; 525505, 3786831; 525508, 3786828; 525511, 3786822; 525514, 3786816; 525517, 3786810; 525517, 3786809; 525518, 3786809; 525519, 3786808; 525519, 3786799; 525519, 3786780; 525549, 3786780; 525559, 3786780; 525568, 3786773; 525570, 3786771; 525575, 3786767; 525579, 3786762; 525579, 3786750; 525588, 3786750; 525589, 3786749; 525605, 3786724; 525605, 3786722; 525610, 3786718; 525610, 3786718; 525620, 3786710; 525646, 3786693; 525658, 3786686; 525661, 3786686; 525668, 3786686; 525684, 3786686; 525691, 3786686; 525698, 3786685; 525704, 3786684; 525709, 3786683; 525726, 3786679; 525727, 3786678; 525729, 3786678; 525729, 3786660; 525759, 3786660; 525783, 3786660; 525789, 3786658; 525791, 3786657; 525794, 3786656; 525839, 3786639; 525841, 3786638; 525847, 3786636; 525853, 3786632; 525856, 3786631; 525862, 3786627; 525880, 3786627; 525884, 3786627; 525890, 3786627; 525895, 3786627; 525926, 3786623; 525927, 3786623; 525931, 3786623; 525954, 3786619; 525957, 3786618; 525963, 3786617; 525968, 3786615; 525983, 3786610; 525985, 3786610; 525991, 3786607; 525997, 3786605; 526003, 3786602; 526006, 3786600; 525999, 3786600; 525999, 3786570; 525969, 3786570; 525969, 3786540; 525999, 3786540; 525999, 3786510; 526029, 3786510; 526059, 3786510; 526059, 3786480; 526089, 3786480; 526119, 3786480; 526149, 3786480; 526149, 3786510; 526179, 3786510; 526209, 3786510; 526239, 3786510; 526269, 3786510; 526269, 3786540; 526299, 3786540; 526299, 3786570; 526269, 3786570; 526269, 3786596; 526270, 3786597; 526277, 3786598; 526283, 3786598; 526287, 3786598; 526319, 3786599; 526321, 3786599; 526326, 3786599; 526341, 3786598; 526342, 3786598; 526343, 3786598; 526354, 3786598; 526360, 3786597; 526362, 3786597; 526393, 3786592; 526397, 3786591; 526401, 3786590; 526432, 3786583; 526463, 3786577; 526468, 3786575; 526473, 3786574; 526523, 3786558; 526525, 3786558; 526544, 3786551; 526544, 3786551; 526550, 3786549; 526553, 3786548; 526583, 3786534; 526596, 3786529; 526601, 3786526; 526607, 3786523; 526612, 3786520; 526617, 3786516; 526622, 3786512; 526627, 3786507; 526632, 3786503; 526636, 3786498; 526640, 3786492; 526643, 3786487; 526646, 3786481; 526649, 3786475; 526651, 3786469; 526653, 3786463; 526655, 3786456; 526656, 3786450; 526656, 3786443; 526656, 3786437; 526656, 3786430; 526656, 3786427; 526655, 3786420; 526629, 3786420; 526629, 3786390; 526599, 3786390; 526599, 3786360; 526569, 3786360; 526539, 3786360; 526509, 3786360; 526479, 3786360; 526449, 3786360; 526449, 3786390; 526419, 3786390; 526389, 3786390; 526359, 3786390; 526359, 3786420; 526329, 3786420; 526299, 3786420; 526299, 3786390; 526269, 3786390; 526269, 3786360; 526299, 3786360; 526329, 3786360; 526359, 3786360; 526359, 3786330; 526389, 3786330; 526419, 3786330; 526431, 3786330; 526429, 3786330; 526422, 3786329; 526420, 3786328; 526380, 3786324; 526376, 3786324; 526370, 3786324; 526363, 3786324; 526361, 3786324; 526338, 3786326; 526315, 3786326; 526276, 3786324; 526256, 3786322; 526231, 3786317; 526210, 3786312; 526192, 3786305; 526172, 3786295; 526166, 3786293; 526160, 3786291; 526154, 3786289; 526149, 3786288; 526149, 3786300; 526119, 3786300; 526119, 3786330; 526119, 3786360; 526089, 3786360; 526089, 3786390; 526059, 3786390; 526059, 3786420; 526029, 3786420; 525999, 3786420; 525969, 3786420; 525939, 3786420; 525909, 3786420; 525879, 3786420; 525849, 3786420; 525849, 3786390; 525819, 3786390; 525789, 3786390; 525759, 3786390; 525729, 3786390; 525729, 3786360; 525699, 3786360; 525669, 3786360; 525669, 3786330; 525639, 3786330; 525609, 3786330; 525579, 3786330; 525579, 3786360; 525549, 3786360; 525519, 3786360; 525519, 3786390; 525489, 3786390; 525489, 3786380; 525488, 3786380; 525482, 3786381; 525475, 3786383; 525469, 3786385; 525463, 3786387; 525460, 3786388; 525438, 3786398; 525435, 3786400; 525430, 3786403; 525424, 3786406; 525419, 3786410; 525414, 3786414; 525409, 3786419; 525404, 3786423; 525400, 3786428; 525396, 3786434; 525393, 3786439; 525390, 3786445; 525387, 3786451; 525385, 3786457; 525384, 3786460; 525377, 3786483; 525376, 3786486; 525375, 3786491; 525372, 3786502; 525372, 3786503; 525371, 3786510; 525371, 3786511; 525370, 3786511; 525364, 3786508; 525358, 3786506; 525352, 3786504; 525346, 3786503; 525339, 3786502; 525339, 3786502; 525339, 3786510; 525309, 3786510; 525309, 3786501; 525304, 3786501; 525297, 3786501; 525291, 3786502; 525284, 3786503; 525283, 3786503; 525283, 3786503; 525279, 3786498; 525274, 3786493; 525271, 3786489; 525263, 3786482; 525262, 3786481; 525257, 3786477; 525251, 3786473; 525246, 3786470; 525240, 3786467; 525234, 3786464; 525231, 3786463; 525228, 3786458; 525227, 3786456; 525221, 3786448; 525219, 3786445; 525215, 3786440; 525213, 3786438; 525203, 3786427; 525200, 3786424; 525198, 3786422; 525193, 3786417; 525190, 3786414; 525185, 3786410; 525180, 3786406; 525174, 3786403; 525168, 3786400; 525162, 3786397; 525156, 3786395; 525153, 3786394; 525152, 3786393; 525148, 3786388; 525144, 3786383; 525140, 3786378; 525135, 3786374; 525130, 3786369; 525125, 3786366; 525119, 3786362; 525118, 3786361; 525106, 3786355; 525102, 3786353; 525096, 3786350; 525090, 3786348; 525083, 3786346; 525077, 3786344; 525071, 3786343; 525064, 3786342; 525057, 3786342; 525051, 3786342; 525044, 3786343; 525038, 3786344; 525032, 3786346; 525025, 3786348; 525019, 3786350; 525016, 3786351; 525011, 3786354; 525008, 3786355; 525002, 3786358; 524996, 3786362; 524991, 3786365; 524986, 3786370; 524981, 3786374; 524977, 3786379; 524973, 3786384; 524969, 3786389; 524965, 3786395; 524962, 3786401; 524960, 3786406; 524957, 3786413; 524955, 3786419; 524954, 3786425; 524953, 3786432; 524952, 3786438; 524952, 3786445; 524952, 3786451; 524953, 3786458; 524954, 3786464; 524955, 3786471; 524959, 3786485; 524959, 3786485; 524961, 3786490; 524963, 3786497; 524963, 3786498; 524959, 3786498; 524952, 3786498; 524946, 3786498; 524939, 3786499; 524935, 3786499; 524933, 3786498; 524929, 3786496; 524923, 3786493; 524917, 3786491; 524910, 3786489; 524908, 3786489; 524900, 3786483; 524900, 3786481; 524900, 3786475; 524900, 3786468; 524899, 3786461; 524898, 3786455; 524897, 3786449; 524895, 3786442; 524892, 3786436; 524890, 3786430; 524887, 3786425; 524883, 3786419; 524879, 3786414; 524875, 3786409; 524871, 3786404; 524866, 3786399; 524861, 3786395; 524858, 3786393; 524846, 3786385; 524844, 3786383; 524838, 3786380; 524832, 3786377; 524829, 3786375; 524829, 3786390; 524799, 3786390; 524799, 3786420; 524769, 3786420; 524739, 3786420; 524739, 3786450; 524709, 3786450; 524709, 3786480; 524679, 3786480; 524649, 3786480; 524649, 3786510; 524649, 3786540; 524619, 3786540; 524589, 3786540; 524589, 3786570; 524559, 3786570; 524529, 3786570; 524514, 3786570; 524514, 3786573; 524515, 3786580; 524517, 3786586; 524519, 3786592; 524521, 3786599; 524524, 3786604; 524527, 3786610; 524530, 3786616; 524534, 3786621; 524539, 3786627; 524540, 3786630; 524559, 3786630; 524589, 3786630; 524589, 3786660; 524619, 3786660; 524649, 3786660; 524679, 3786660; 524709, 3786660; 524739, 3786660; 524739, 3786690; 524769, 3786690; 524799, 3786690; 524829, 3786690; 524829, 3786720; 524829, 3786750; 524799, 3786750; 524769, 3786750; 524739, 3786750; 524709, 3786750; 524679, 3786750; 524649, 3786750; 524649, 3786750; 524651, 3786751; 524657, 3786754; 524662, 3786757; 524669, 3786759; 524675, 3786761; 524681, 3786763; 524686, 3786764; 524712, 3786768; 524714, 3786768; 524720, 3786769; 524727, 3786769; 524729, 3786769; 524743, 3786768; 524743, 3786768; 524755, 3786768; 524760, 3786768; 524766, 3786767; 524771, 3786767; 524780, 3786765; 524782, 3786765; 524782, 3786777; 524782, 3786782; 524783, 3786789; 524784, 3786795; 524785, 3786801; 524787, 3786808; 524789, 3786814; 524792, 3786820; 524793, 3786821; 524797, 3786829; 524799, 3786833; 524803, 3786839; 524806, 3786844; 524811, 3786849; 524815, 3786854; 524820, 3786858; 524825, 3786863; 524830, 3786866; 524836, 3786870; 524842, 3786873; 525279, 3786553.

(ii) Note: Unit 9 for Taraxacum californicum is depicted on Map 4 in paragraph (11)(ii) of this entry.

(14) Unit 10: Wildhorse Meadow, San Bernardino County, California.

(i) From USGS 1:24:000 quadrangle map Moonridge. Land bounded by the following UTM NAD27 coordinates (E, N): 520986, 3784179; 521409, 3784620; 521409, 3784590; 521439, 3784590; 521469, 3784590; 521469, 3784616; 521469, 3784616; 521477, 3784610; 521479, 3784609; 521484, 3784604; 521489, 3784600; 521493, 3784595; 521505, 3784582; 521505, 3784582; 521509, 3784577; 521513, 3784572; 521514, 3784571; 521521, 3784559; 521524, 3784554; 521527, 3784548; 521530, 3784543; 521532, 3784537; 521536, 3784525; 521536, 3784525; 521537, 3784524; 521539, 3784517; 521543, 3784514; 521548, 3784509; 521552, 3784504; 521556, 3784499; 521557, 3784499; 521557, 3784498; 521559, 3784496; 521559, 3784470; 521529, 3784470; 521529, 3784440; 521499, 3784440; 521499, 3784410; 521499, 3784398; 521502, 3784394; 521504, 3784377; 521494, 3784365; 521485, 3784361; 521476, 3784360; 521469, 3784360; 521469, 3784350; 521439, 3784350; 521409, 3784350; 521379, 3784350; 521379, 3784380; 521380, 3784410; 521349, 3784410; 521349, 3784380; 521319, 3784380; 521289, 3784380; 521289, 3784350; 521259, 3784350; 521259, 3784320; 521229, 3784320; 521199, 3784320; 521195, 3784320; 521185, 3784314; 521156, 3784289; 521153, 3784284; 521155, 3784280; 521152, 3784275; 521150, 3784267; 521144, 3784259; 521139, 3784249; 521124, 3784245; 521109, 3784236; 521109, 3784230; 521109, 3784200; 521139, 3784200; 521139, 3784170; 521139, 3784140; 521109, 3784140; 521109, 3784170; 521079, 3784170; 521049, 3784170; 521019, 3784170; 520989, 3784170; 520989, 3784140; 520959, 3784140; 520929, 3784140; 520899, 3784140; 520883, 3784131; 520869, 3784128; 520869, 3784110; 520839, 3784110; 520809, 3784110; 520809, 3784110; 520809, 3784080; 520779, 3784080; 520779, 3784050; 520749, 3784050; 520719, 3784050; 520712, 3784050; 520706, 3784046; 520689, 3784029; 520689, 3784020; 520679, 3784020; 520659, 3784003; 520659, 3783990; 520644, 3783990; 520629, 3783976; 520629, 3783960; 520609, 3783960; 520601, 3783954; 520577, 3783939; 520569, 3783934; 520569, 3783930; 520563, 3783930; 520550, 3783923; 520539, 3783920; 520539, 3783900; 520509, 3783900; 520509, 3783870; 520479, 3783870; 520449, 3783870; 520449, 3783840; 520419, 3783840; 520414, 3783840; 520402, 3783835; 520389, 3783826; 520389, 3783810; 520365, 3783810; 520357, 3783805; 520338, 3783793; 520329, 3783787; 520329, 3783780; 520322, 3783780; 520308, 3783765; 520307, 3783763; 520302, 3783758; 520300, 3783756; 520300, 3783756; 520299, 3783755; 520299, 3783750; 520293, 3783750; 520291, 3783748; 520274, 3783733; 520252, 3783711; 520223, 3783691; 520193, 3783657; 520165, 3783622; 520137, 3783600; 520111, 3783595; 520096, 3783595; 520079, 3783611; 520071, 3783630; 520074, 3783669; 520100, 3783717; 520129, 3783747; 520177, 3783775; 520227, 3783805; 520236, 3783810; 520209, 3783810; 520179, 3783810; 520179, 3783840; 520209, 3783840; 520239, 3783840; 520269, 3783840; 520282, 3783840; 520299, 3783855; 520299, 3783870; 520315, 3783870; 520320, 3783874; 520329, 3783880; 520329, 3783900; 520348, 3783900; 520349, 3783901; 520359, 3783908; 520359, 3783930; 520389, 3783930; 520391, 3783930; 520412, 3783942; 520419, 3783945; 520419, 3783960; 520419, 3783990; 520419, 3784020; 520449, 3784020; 520449, 3783990; 520449, 3783960; 520453, 3783960; 520479, 3783974; 520479, 3783990; 520505, 3783990; 520526, 3784004; 520539, 3784013; 520539, 3784020; 520549, 3784020; 520569, 3784034; 520569, 3784050; 520597, 3784050; 520600, 3784052; 520629, 3784069; 520629, 3784080; 520653, 3784080; 520659, 3784082; 520659, 3784110; 520659, 3784140; 520689, 3784140; 520689, 3784110; 520710, 3784110; 520717, 3784114; 520719, 3784116; 520719, 3784140; 520749, 3784140; 520753, 3784140; 520754, 3784141; 520777, 3784155; 520779, 3784155; 520779, 3784170; 520809, 3784170; 520813, 3784170; 520839, 3784182; 520839, 3784200; 520869, 3784200; 520869, 3784230; 520869, 3784260; 520869, 3784290; 520899, 3784290; 520929, 3784290; 520929, 3784260; 520953, 3784260; 520957, 3784264; 520959, 3784265; 520959, 3784290; 520989, 3784290; 521006, 3784290; 521006, 3784290; 521019, 3784298; 521019, 3784320; 521019, 3784350; 521049, 3784350; 521079, 3784350; 521079, 3784380; 521109, 3784380; 521139, 3784380; 521139, 3784410; 521169, 3784410; 521197, 3784410; 521199, 3784411; 521199, 3784440; 521169, 3784440; 521169, 3784470; 521169, 3784500; 521199, 3784500; 521229, 3784500; 521229, 3784470; 521259, 3784470; 521289, 3784470; 521289, 3784500; 521259, 3784500; 521259, 3784530; 521259, 3784560; 521259, 3784564; 521276, 3784574; 521301, 3784590; 521319, 3784590; 521319, 3784603; 521328, 3784609; 521331, 3784612; 521337, 3784615; 521343, 3784618; 521346, 3784620; 521349, 3784620; 521349, 3784621; 521350, 3784622; 521363, 3784627; 521368, 3784629; 521374, 3784631; 521381, 3784632; 521387, 3784633; 521390, 3784634; 521400, 3784635; 521404, 3784635; 521409, 3784635; 521409, 3784620; 520986, 3784179.

(ii) Note: Unit 10 for Taraxacum californicum is depicted on Map 4 in paragraph (11)(ii) of this entry.

(15) Unit 11 for Taraxacum californicum and Poa atropurpurea: Cienega Seca Meadow, San Bernardino County, California.

(i) From USGS 1:24:000 quadrangle map Onyx Peak. Land bounded by the following UTM NAD27 coordinates (E, N): 525801, 3782531; 525489, 3782961; 525489, 3782940; 525489, 3782910; 525519, 3782910; 525519, 3782880; 525519, 3782850; 525549, 3782850; 525549, 3782827; 525553, 3782820; 525579, 3782820; 525579, 3782790; 525609, 3782790; 525609, 3782760; 525639, 3782760; 525669, 3782760; 525699, 3782760; 525699, 3782730; 525729, 3782730; 525759, 3782730; 525759, 3782760; 525789, 3782760; 525789, 3782730; 525803, 3782730; 525816, 3782735; 525819, 3782735; 525819, 3782760; 525849, 3782760; 525849, 3782790; 525879, 3782790; 525909, 3782790; 525939, 3782790; 525939, 3782820; 525939, 3782850; 525969, 3782850; 525999, 3782850; 525999, 3782855; 526001, 3782855; 526008, 3782855; 526010, 3782854; 526026, 3782852; 526030, 3782851; 526037, 3782850; 526038, 3782849; 526043, 3782848; 526049, 3782845; 526055, 3782843; 526058, 3782841; 526080, 3782829; 526082, 3782828; 526087, 3782825; 526089, 3782824; 526089, 3782820; 526089, 3782790; 526089, 3782760; 526089, 3782730; 526119, 3782730; 526119, 3782700; 526119, 3782670; 526149, 3782670; 526149, 3782640; 526149, 3782610; 526179, 3782610; 526179, 3782580; 526179, 3782550; 526179, 3782542; 526179, 3782541; 526172, 3782529; 526169, 3782525; 526165, 3782520; 526149, 3782520; 526149, 3782503; 526141, 3782495; 526139, 3782494; 526135, 3782490; 526134, 3782490; 526119, 3782490; 526119, 3782478; 526117, 3782477; 526107, 3782468; 526104, 3782465; 526087, 3782452; 526086, 3782450; 526085, 3782450; 526074, 3782442; 526069, 3782438; 526064, 3782435; 526058, 3782432; 526050, 3782428; 526050, 3782428; 526044, 3782425; 526038, 3782423; 526032, 3782421; 526025, 3782419; 526019, 3782418; 526012, 3782417; 526006, 3782417; 525999, 3782417; 525998, 3782418; 525972, 3782420; 525967, 3782420; 525961, 3782421; 525954, 3782423; 525948, 3782425; 525942, 3782427; 525936, 3782430; 525930, 3782433; 525925, 3782436; 525919, 3782440; 525916, 3782442; 525915, 3782443; 525914, 3782442; 525914, 3782442; 525914, 3782442; 525900, 3782421; 525897, 3782416; 525892, 3782411; 525888, 3782406; 525884, 3782403; 525881, 3782400; 525879, 3782400; 525849, 3782400; 525819, 3782400; 525819, 3782370; 525789, 3782370; 525759, 3782370; 525759, 3782340; 525737, 3782340; 525733, 3782332; 525729, 3782323; 525729, 3782310; 525729, 3782280; 525759, 3782280; 525789, 3782280; 525789, 3782250; 525789, 3782234; 525777, 3782220; 525759, 3782220; 525729, 3782220; 525699, 3782220; 525669, 3782220; 525669, 3782190; 525639, 3782190; 525639, 3782160; 525609, 3782160; 525609, 3782130; 525609, 3782104; 525609, 3782100; 525609, 3782070; 525639, 3782070; 525639, 3782040; 525609, 3782040; 525609, 3782010; 525609, 3781980; 525579, 3781980; 525579, 3782010; 525549, 3782010; 525549, 3782030; 525547, 3782031; 525545, 3782042; 525545, 3782068; 525534, 3782100; 525519, 3782100; 525519, 3782104; 525519, 3782130; 525519, 3782140; 525514, 3782154; 525507, 3782172; 525501, 3782190; 525489, 3782190; 525489, 3782220; 525489, 3782234; 525488, 3782236; 525481, 3782250; 525459, 3782250; 525459, 3782280; 525429, 3782280; 525399, 3782280; 525369, 3782280; 525369, 3782310; 525341, 3782310; 525339, 3782316; 525339, 3782340; 525329, 3782340; 525324, 3782356; 525323, 3782358; 525321, 3782364; 525320, 3782370; 525319, 3782377; 525318, 3782383; 525318, 3782390; 525318, 3782396; 525319, 3782403; 525319, 3782407; 525322, 3782422; 525322, 3782424; 525324, 3782430; 525339, 3782430; 525369, 3782430; 525369, 3782460; 525399, 3782460; 525399, 3782490; 525429, 3782490; 525429, 3782520; 525429, 3782550; 525429, 3782580; 525429, 3782606; 525420, 3782610; 525399, 3782610; 525399, 3782622; 525388, 3782631; 525381, 3782640; 525369, 3782640; 525369, 3782653; 525348, 3782670; 525339, 3782670; 525339, 3782700; 525349, 3782700; 525350, 3782704; 525351, 3782705; 525359, 3782721; 525369, 3782726; 525369, 3782730; 525369, 3782760; 525369, 3782790; 525369, 3782820; 525379, 3782820; 525388, 3782836; 525399, 3782840; 525399, 3782850; 525429, 3782850; 525429, 3782880; 525399, 3782880; 525399, 3782910; 525399, 3782940; 525429, 3782940; 525429, 3782951; 525434, 3782953; 525438, 3782955; 525445, 3782957; 525451, 3782958; 525457, 3782959; 525464, 3782960; 525467, 3782960; 525489, 3782961; 525801, 3782531.

(ii) Note: Map of Unit 11 for Taraxacum californicum (Map 5) follows:

BILLING CODE 4310-55-P

BILLING CODE 4310-55-C

(16) Unit 12: South Fork Meadow, San Bernardino County, California.

(i) From USGS 1:24:000 quadrangle map Moonridge. Land bounded by the following UTM NAD27 coordinates (E, N): 514285, 3775859; 514256, 3775878; 514234, 3775891; 514215, 3775891; 514206, 3775893; 514194, 3775933; 514194, 3775971; 514201, 3775992; 514203, 3775992; 514234, 3776002; 514260, 3776015; 514288, 3776030; 514301, 3776045; 514298, 3776087; 514316, 3776131; 514337, 3776179; 514377, 3776210; 514397, 3776207; 514406, 3776215; 514428, 3776246; 514447, 3776272; 514469, 3776342; 514479, 3776377; 514485, 3776392; 514494, 3776392; 514489, 3776412; 514495, 3776489; 514483, 3776577; 514469, 3776633; 514469, 3776716; 514448, 3776804; 514416, 3776866; 514410, 3776934; 514357, 3776975; 514321, 3777040; 514280, 3777087; 514261, 3777109; 514255, 3777108; 514239, 3777118; 514229, 3777134; 514214, 3777153; 514204, 3777175; 514191, 3777200; 514172, 3777216; 514147, 3777229; 514139, 3777237; 514134, 3777242; 514137, 3777270; 514163, 3777305; 514169, 3777324; 514176, 3777353; 514198, 3777381; 514204, 3777413; 514204, 3777448; 514204, 3777473; 514137, 3777515; 514090, 3777521; 514087, 3777521; 514055, 3777521; 514010, 3777531; 513975, 3777556; 513956, 3777585; 513931, 3777635; 513918, 3777674; 513883, 3777743; 513852, 3777762; 513817, 3777797; 513801, 3777820; 513810, 3777848; 513829, 3777861; 513858, 3777877; 513871, 3777902; 513877, 3777908; 513925, 3777902; 513944, 3777915; 513945, 3777913; 513947, 3777915; 513975, 3777928; 514008, 3777938; 514063, 3777951; 514076, 3777947; 514080, 3777959; 514093, 3777972; 514099, 3778013; 514112, 3778016; 514122, 3777985; 514122, 3777956; 514131, 3777934; 514137, 3777918; 514141, 3777893; 514150, 3777854; 514150, 3777823; 514150, 3777797; 514150, 3777759; 514141, 3777731; 514134, 3777702; 514139, 3777681; 514152, 3777678; 514177, 3777666; 514185, 3777630; 514190, 3777594; 514195, 3777585; 514207, 3777553; 514229, 3777518; 514255, 3777483; 514268, 3777454; 514280, 3777423; 514283, 3777388; 514306, 3777346; 514325, 3777299; 514353, 3777264; 514369, 3777239; 514379, 3777207; 514385, 3777178; 514388, 3777161; 514392, 3777152; 514439, 3777087; 514469, 3777048; 514522, 3776992; 514584, 3776910; 514589, 3776842; 514595, 3776772; 514634, 3776660; 514631, 3776574; 514642, 3776512; 514645, 3776451; 514672, 3776380; 514671, 3776375; 514731, 3776327; 514781, 3776230; 514834, 3776138; 514854, 3776094; 514853, 3776077; 514848, 3776039; 514846, 3776032; 514796, 3776029; 514772, 3776029; 514742, 3776035; 514715, 3776046; 514698, 3776065; 514681, 3776075; 514675, 3776087; 514653, 3776103; 514637, 3776106; 514616, 3776079; 514610, 3776058; 514590, 3776033; 514589, 3776018; 514580, 3776005; 514571, 3775974; 514538, 3775945; 514509, 3775926; 514476, 3775916; 514438, 3775898; 514405, 3775889; 514392, 3775878; 514372, 3775876; 514368, 3775869; 514352, 3775859; 514350, 3775858; 514287, 3775858; 514285, 3775859; 514285, 3775859.

(ii) Note: Map of Unit 12 for Taraxacum californicum is depicted on Map 4 in paragraph (11)(ii) of this entry.

* * * * *

Family Poaceae: Poa atropurpurea (San Bernardino bluegrass)

(1) Critical habitat units for this species are found in San Diego and San Bernardino counties, California.

(2) The primary constituent elements of critical habitat for Poa atropurpurea are:

(i) Wet meadows subject to flooding during wet years in the San Bernardino Mountains in San Bernardino County at elevations of 6, 700 to 8,100 feet (2, 000 to 2,469 meters), and in the Laguna and Palomar Mountains of San Diego County at elevations of 6,000 to 7,500 feet (1,800 to 2,300 meters), that provide space for individual and population growth, reproduction, and dispersal; and

(ii) Well-drained, loamy alluvial to sandy loam soils occurring in the wet meadow system, with a 0 to 16 percent slope, to provide water, air, minerals, and other nutritional or physiological requirements to the species.

(3) Critical habitat does not include manmade structures (such as buildings, aqueducts, runways, roads, and other paved areas) and the land on which they are located existing within the legal boundaries on the effective date of this rule.

(4) Critical habitat map units. Data layers defining map units were created on a base of USGS 1:24, 0000 maps, and critical habitat units were then mapped using Universal Transverse Mercator (UTM) coordinates.

(5) Note: Index map of critical habitat units for Family Poaceae: Poa atropurpurea (San Bernardino bluegrass) (Map 1) follows:

BILLING CODE 4310-55-P

(6) Unit 1: Pan Hot Springs Meadow, San Bernardino County, California.

(i) From USGS 1:24:000 quadrangle map Big Bear City. Land bounded by the following UTM NAD27 coordinates (E, N): 515298, 3792133; 515169, 3792570; 515212, 3792570; 515239, 3792570; 515242, 3792563; 515250, 3792549; 515255, 3792547; 515271, 3792542; 515292, 3792542; 515328, 3792542; 515330, 3792542; 515336, 3792542; 515343, 3792541; 515345, 3792541; 515349, 3792541; 515349, 3792540; 515352, 3792540; 515379, 3792536; 515379, 3792450; 515409, 3792450; 515409, 3792420; 515559, 3792420; 515559, 3792390; 515619, 3792390; 515619, 3792420; 515769, 3792420; 515769, 3792460; 515770, 3792459; 515775, 3792455; 515780, 3792451; 515785, 3792446; 515789, 3792441; 515790, 3792439; 515804, 3792420; 515799, 3792420; 515799, 3792374; 515799, 3792360; 515799, 3792330; 515817, 3792330; 515829, 3792330; 515829, 3792300; 515817, 3792300; 515729, 3792300; 515721, 3792272; 515720, 3792270; 515799, 3792270; 515799, 3792240; 515816, 3792240; 515815, 3792240; 515813, 3792233; 515812, 3792230; 515767, 3792244; 515699, 3792237; 515686, 3792218; 515672, 3792201; 515660, 3792166; 515653, 3792121; 515654, 3792091; 515664, 3792042; 515671, 3791995; 515682, 3791931; 515691, 3791884; 515710, 3791819; 515723, 3791785; 515747, 3791787; 515750, 3791780; 515732, 3791762; 515734, 3791755; 515757, 3791692; 515779, 3791640; 515788, 3791635; 515788, 3791600; 515792, 3791583; 515788, 3791581; 515740, 3791576; 515709, 3791604; 515676, 3791607; 515653, 3791627; 515618, 3791619; 515609, 3791630; 515592, 3791652; 515584, 3791675; 515565, 3791697; 515523, 3791728; 515491, 3791746; 515458, 3791746; 515432, 3791727; 515411, 3791713; 515387, 3791695; 515374, 3791690; 515346, 3791680; 515318, 3791670; 515283, 3791654; 515237, 3791630; 515203, 3791617; 515177, 3791613; 515142, 3791615; 515117, 3791621; 515091, 3791602; 515067, 3791586; 515034, 3791573; 515030, 3791936; 514966, 3791942; 514967, 3792008; 514940, 3792012; 514940, 3792261; 515178, 3792375; 515169, 3792570; 515298, 3792133.

(ii) Note: Map of Unit 1 for Poa atropupurea (Map 2) follows:

BILLING CODE 4310-55-C

(7) Unit 2: North Baldwin Meadow, San Bernardino County, California. The legal description and map of Unit 2 for Poa atropurpurea are in paragraphs (6)(i) and (6)(ii), respectively, of the entry for Family Asteraceae: Taraxacum californicum (California taraxacum) in this section.

(8) Unit 3: Belleville Meadow, San Bernardino County, California. The legal description and map of Unit 3 for Poa atropurpurea are in paragraphs (7)(i) and (6)(ii), respectively, of the entry for Family Asteraceae: Taraxacum californicum (California taraxacum) in this section.

(9) Unit 4: Hitchcock Meadow, San Bernardino County, California. The legal description and map of Unit 4 for Poa atropurpurea are in paragraphs (8)(i) and (6)(ii), respectively, of the entry for Family Asteraceae: Taraxacum californicum (California taraxacum) in this section.

(10) Unit 5: Bluff Meadow, San Bernardino County, California. The legal description and map of Unit 5 for Poa atropurpurea are in paragraphs (9)(i) and (6)(ii), respectively, of the entry for Family Asteraceae: Taraxacum californicum (California taraxacum) in this section.

(11) Unit 11: Cienega Seca Meadow, San Bernardino County, California. The legal description and map of Unit 11 for Poa atropurpurea are in paragraphs (15)(i) and (11)(ii), respectively, of the entry for Family Asteraceae: Taraxacum californicum (California taraxacum) in this section.

(12) Unit 13: Mendenhall Valley, San Diego County, California.

(i) From USGS 1:24:000 quadrangle map Palomar Observatory. Land bounded by the following UTM NAD27 coordinates (E, N): 549685, 3640036; 549692, 3640037; 549698, 3640037; 549699, 3640037; 549699, 3640020; 549729, 3640020; 549729, 3640037; 549736, 3640037; 549773, 3640058; 549778, 3640060; 549784, 3640063; 549790, 3640065; 549793, 3640066; 549836, 3640080; 549870, 3640094; 549883, 3640110; 549969, 3640110; 549969, 3640140; 549999, 3640140; 549999, 3640170; 549969, 3640170; 549969, 3640191; 549974, 3640193; 549981, 3640195; 549987, 3640197; 549993, 3640198; 550000, 3640198; 550006, 3640199; 550013, 3640198; 550013, 3640198; 550059, 3640195; 550059, 3640170; 550029, 3640170; 550029, 3640080; 550059, 3640080; 550059, 3640050; 550089, 3640050; 550089, 3640020; 550059, 3640020; 550059, 3639990; 550089, 3639990; 550089, 3639960; 550149, 3639960; 550149, 3639990; 550263, 3639990; 550268, 3639971; 550270, 3639950; 550270, 3639923; 550272, 3639920; 550271, 3639915; 550268, 3639883; 550268, 3639854; 550268, 3639848; 550267, 3639841; 550266, 3639835; 550265, 3639828; 550263, 3639822; 550260, 3639816; 550258, 3639810; 550258, 3639810; 550239, 3639810; 550239, 3639773; 550236, 3639769; 550232, 3639763; 550228, 3639758; 550224, 3639754; 550219, 3639749; 550214, 3639745; 550213, 3639744; 550224, 3639735; 550225, 3639735; 550230, 3639730; 550235, 3639726; 550239, 3639721; 550244, 3639716; 550247, 3639711; 550250, 3639707; 550242, 3639701; 550243, 3639696; 550244, 3639690; 550149, 3639690; 550149, 3639630; 550264, 3639630; 550264, 3639618; 550264, 3639617; 550299, 3639606; 550299, 3639600; 550239, 3639600; 550239, 3639570; 550336, 3639570; 550338, 3639566; 550338, 3639563; 550341, 3639563; 550360, 3639554; 550377, 3639542; 550379, 3639540; 550239, 3639540; 550239, 3639510; 550209, 3639510; 550209, 3639480; 550239, 3639480; 550239, 3639450; 550329, 3639450; 550329, 3639420; 550299, 3639420; 550299, 3639390; 550329, 3639390; 550329, 3639360; 550359, 3639360; 550359, 3639330; 550389, 3639330; 550389, 3639240; 550359, 3639240; 550359, 3639210; 550449, 3639210; 550449, 3639180; 550479, 3639180; 550479, 3639150; 550539, 3639150; 550539, 3639134; 550538, 3639132; 550536, 3639126; 550532, 3639121; 550529, 3639115; 550525, 3639110; 550521, 3639105; 550517, 3639100; 550512, 3639096; 550507, 3639091; 550501, 3639088; 550496, 3639084; 550490, 3639081; 550484, 3639078; 550478, 3639076; 550472, 3639074; 550465, 3639073; 550460, 3639072; 550434, 3639068; 550433, 3639068; 550426, 3639067; 550420, 3639067; 550413, 3639067; 550412, 3639067; 550402, 3639068; 550420, 3639056; 550422, 3639055; 550468, 3639025; 550468, 3639025; 550473, 3639021; 550478, 3639017; 550483, 3639012; 550487, 3639008; 550491, 3639002; 550495, 3638997; 550495, 3638997; 550525, 3638952; 550529, 3638947; 550532, 3638941; 550535, 3638935; 550537, 3638929; 550539, 3638923; 550545, 3638899; 550545, 3638898; 550546, 3638897; 550550, 3638882; 550550, 3638881; 550550, 3638880; 550539, 3638880; 550539, 3638910; 550509, 3638910; 550509, 3638880; 550479, 3638880; 550479, 3638790; 550509, 3638790; 550509, 3638760; 550539, 3638760; 550539, 3638640; 550569, 3638640; 550569, 3638629; 550567, 3638625; 550562, 3638620; 550560, 3638617; 550559, 3638614; 550558, 3638608; 550556, 3638601; 550553, 3638595; 550551, 3638589; 550548, 3638584; 550544, 3638578; 550540, 3638573; 550536, 3638568; 550527, 3638558; 550525, 3638546; 550524, 3638540; 550522, 3638534; 550514, 3638510; 550512, 3638499; 550497, 3638484; 550497, 3638472; 550497, 3638469; 550500, 3638467; 550502, 3638465; 550504, 3638463; 550502, 3638458; 550500, 3638454; 550501, 3638453; 550505, 3638449; 550509, 3638445; 550509, 3638430; 550520, 3638430; 550521, 3638428; 550524, 3638422; 550527, 3638416; 550529, 3638410; 550531, 3638404; 550532, 3638402; 550539, 3638374; 550539, 3638370; 550540, 3638370; 550540, 3638368; 550541, 3638361; 550542, 3638355; 550542, 3638348; 550542, 3638342; 550541, 3638336; 550538, 3638312; 550538, 3638291; 550543, 3638260; 550542, 3638259; 550541, 3638256; 550543, 3638249; 550545, 3638228; 550545, 3638174; 550546, 3638171; 550547, 3638160; 550539, 3638160; 550539, 3638220; 550479, 3638220; 550479, 3638190; 550471, 3638190; 550449, 3638190; 550449, 3638265; 550449, 3638280; 550440, 3638280; 550419, 3638280; 550419, 3638370; 550423, 3638370; 550479, 3638370; 550479, 3638430; 550410, 3638430; 550359, 3638430; 550359, 3638400; 550329, 3638400; 550329, 3638280; 550359, 3638280; 550359, 3638220; 550389, 3638220; 550389, 3638160; 550419, 3638160; 550419, 3638100; 550449, 3638100; 550449, 3638040; 550479, 3638040; 550479, 3638010; 550509, 3638010; 550509, 3637950; 550479, 3637950; 550479, 3637884; 550486, 3637879; 550497, 3637870; 550497, 3637860; 550509, 3637860; 550509, 3637890; 550539, 3637890; 550539, 3637980; 550550, 3637980; 550569, 3637980; 550569, 3638010; 550599, 3638010; 550599, 3638065; 550602, 3638063; 550617, 3638048; 550629, 3638031; 550629, 3638010; 550642, 3638010; 550643, 3638007; 550646, 3638002; 550647, 3638002; 550650, 3637994; 550657, 3637995; 550659, 3637995; 550659, 3637920; 550689, 3637920; 550689, 3637830; 550659, 3637830; 550659, 3637800; 550629, 3637800; 550629, 3637770; 550627, 3637770; 550599, 3637770; 550599, 3637740; 550539, 3637740; 550539, 3637710; 550639, 3637710; 550659, 3637710; 550659, 3637770; 550689, 3637770; 550689, 3637800; 550719, 3637800; 550719, 3637830; 550749, 3637830; 550749, 3637920; 550719, 3637920; 550719, 3637950; 550689, 3637950; 550689, 3637980; 550749, 3637980; 550749, 3638010; 550839, 3638010; 550839, 3638040; 550869, 3638040; 550869, 3638100; 550839, 3638100; 550839, 3638070; 550814, 3638070; 550814, 3638071; 550810, 3638077; 550807, 3638082; 550796, 3638104; 550796, 3638105; 550793, 3638111; 550791, 3638117; 550789, 3638123; 550787, 3638130; 550786, 3638136; 550786, 3638142; 550785, 3638149; 550786, 3638156; 550786, 3638162; 550787, 3638169; 550789, 3638175; 550791, 3638181; 550793, 3638187; 550796, 3638193; 550799, 3638199; 550801, 3638203; 550812, 3638220; 550869, 3638220; 550869, 3638250; 550830, 3638250; 550846, 3638280; 550847, 3638280; 551049, 3638280; 551049, 3638310; 551079, 3638310; 551079, 3638400; 551049, 3638400; 551049, 3638520; 551019, 3638520; 551019, 3638550; 550989, 3638550; 550989, 3638640; 550959, 3638640; 550959, 3638700; 550909, 3638700; 550909, 3638702; 550912, 3638708; 550914, 3638712; 550937, 3638753; 550938, 3638755; 550941, 3638761; 550945, 3638766; 550949, 3638771; 550954, 3638776; 550958, 3638780; 550959, 3638780; 550977, 3638796; 550991, 3638820; 550994, 3638824; 550998, 3638830; 551002, 3638835; 551006, 3638840; 551011, 3638844; 551016, 3638848; 551019, 3638850; 551049, 3638850; 551049, 3638880; 551109, 3638880; 551109, 3638910; 551079, 3638910; 551079, 3638933; 551092, 3638943; 551089, 3638946; 551084, 3638951; 551080, 3638956; 551076, 3638961; 551073, 3638967; 551070, 3638972; 551067, 3638978; 551065, 3638985; 551063, 3638991; 551062, 3638997; 551061, 3639000; 551109, 3639000; 551109, 3639030; 551199, 3639030; 551199, 3639060; 551049, 3639060; 551049, 3639090; 551139, 3639090; 551139, 3639120; 551033, 3639120; 551033, 3639150; 551169, 3639150; 551169, 3639180; 551199, 3639180; 551199, 3639240; 551229, 3639240; 551229, 3639255; 551233, 3639255; 551239, 3639254; 551246, 3639252; 551251, 3639251; 551285, 3639239; 551286, 3639239; 551292, 3639237; 551298, 3639234; 551303, 3639231; 551309, 3639228; 551314, 3639224; 551319, 3639220; 551324, 3639215; 551327, 3639212; 551337, 3639201; 551386, 3639230; 551388, 3639231; 551393, 3639234; 551399, 3639237; 551405, 3639239; 551412, 3639241; 551418, 3639243; 551424, 3639244; 551431, 3639244; 551438, 3639244; 551444, 3639244; 551451, 3639244; 551457, 3639243; 551463, 3639241; 551470, 3639239; 551476, 3639237; 551482, 3639234; 551488, 3639231; 551491, 3639229; 551533, 3639202; 551534, 3639201; 551540, 3639197; 551545, 3639193; 551550, 3639189; 551554, 3639184; 551558, 3639179; 551562, 3639174; 551565, 3639168; 551569, 3639162; 551571, 3639156; 551574, 3639150; 551575, 3639144; 551577, 3639138; 551578, 3639131; 551579, 3639125; 551579, 3639118; 551579, 3639081; 551579, 3639074; 551578, 3639068; 551577, 3639061; 551575, 3639055; 551574, 3639048; 551571, 3639042; 551569, 3639036; 551565, 3639031; 551562, 3639025; 551558, 3639020; 551554, 3639015; 551552, 3639013; 551509, 3638966; 551494, 3638947; 551492, 3638927; 551492, 3638922; 551487, 3638886; 551495, 3638866; 551518, 3638820; 551541, 3638781; 551543, 3638771; 551545, 3638750; 551545, 3638738; 551545, 3638640; 551499, 3638640; 551499, 3638460; 551529, 3638460; 551529, 3638430; 551544, 3638430; 551544, 3638430; 551545, 3638424; 551545, 3638421; 551545, 3638400; 551543, 3638379; 551538, 3638359; 551529, 3638340; 551520, 3638327; 551520, 3638325; 551518, 3638304; 551513, 3638284; 551504, 3638265; 551492, 3638248; 551477, 3638233; 551460, 3638221; 551441, 3638212; 551420, 3638207; 551420, 3638206; 551420, 3638200; 551419, 3638188; 551413, 3638186; 551407, 3638184; 551404, 3638183; 551401, 3638182; 551396, 3638160; 551395, 3638157; 551393, 3638151; 551391, 3638145; 551388, 3638139; 551385, 3638133; 551383, 3638130; 551319, 3638130; 551319, 3638100; 551368, 3638100; 551367, 3638098; 551368, 3638096; 551370, 3638075; 551370, 3638026; 551370, 3638024; 551370, 3638015; 551369, 3638015; 551367, 3638010; 551349, 3638010; 551349, 3637981; 551339, 3637965; 551326, 3637944; 551329, 3637947; 551335, 3637950; 551341, 3637953; 551347, 3637956; 551353, 3637958; 551359, 3637960; 551363, 3637961; 551363, 3637959; 551354, 3637940; 551342, 3637923; 551339, 3637920; 551319, 3637920; 551319, 3637902; 551317, 3637901; 551319, 3637899; 551319, 3637890; 551325, 3637890; 551329, 3637885; 551338, 3637866; 551342, 3637852; 551346, 3637846; 551352, 3637842; 551367, 3637827; 551379, 3637810; 551388, 3637791; 551388, 3637789; 551404, 3637793; 551425, 3637795; 551443, 3637795; 551450, 3637794; 551454, 3637794; 551464, 3637795; 551469, 3637795; 551469, 3637770; 551349, 3637770; 551349, 3637740; 551529, 3637740; 551529, 3637710; 551595, 3637710; 551598, 3637702; 551599, 3637700; 551611, 3637669; 551632, 3637645; 551633, 3637644; 551637, 3637639; 551649, 3637624; 551649, 3637590; 551669, 3637590; 551670, 3637575; 551669, 3637572; 551672, 3637570; 551677, 3637567; 551692, 3637552; 551696, 3637546; 551702, 3637542; 551717, 3637527; 551729, 3637510; 551730, 3637508; 551730, 3637410; 551619, 3637410; 551619, 3637380; 551559, 3637380; 551559, 3637350; 551529, 3637350; 551529, 3637320; 551559, 3637320; 551559, 3637289; 551534, 3637266; 551497, 3637220; 551494, 3637215; 551490, 3637211; 551485, 3637206; 551480, 3637202; 551479, 3637201; 551434, 3637168; 551431, 3637166; 551368, 3637121; 551365, 3637119; 551360, 3637116; 551354, 3637113; 551348, 3637110; 551342, 3637108; 551336, 3637106; 551329, 3637104; 551323, 3637103; 551320, 3637103; 551319, 3637103; 551319, 3637110; 551229, 3637110; 551229, 3637080; 551199, 3637080; 551199, 3637020; 551169, 3637020; 551169, 3636930; 551139, 3636930; 551139, 3636840; 551169, 3636840; 551169, 3636810; 551139, 3636810; 551139, 3636750; 551169, 3636750; 551169, 3636720; 551199, 3636720; 551199, 3636690; 551229, 3636690; 551229, 3636630; 551259, 3636630; 551259, 3636600; 551289, 3636600; 551289, 3636570; 551319, 3636570; 551319, 3636540; 551349, 3636540; 551349, 3636510; 551469, 3636510; 551469, 3636480; 551499, 3636480; 551499, 3636450; 551529, 3636450; 551529, 3636390; 551559, 3636390; 551559, 3636300; 551589, 3636300; 551589, 3636330; 551661, 3636330; 551661, 3636325; 551660, 3636319; 551658, 3636313; 551656, 3636306; 551654, 3636300; 551651, 3636294; 551648, 3636289; 551645, 3636283; 551641, 3636278; 551637, 3636273; 551632, 3636268; 551627, 3636263; 551622, 3636259; 551617, 3636255; 551612, 3636252; 551610, 3636251; 551576, 3636232; 551572, 3636230; 551566, 3636227; 551560, 3636225; 551554, 3636223; 551547, 3636222; 551541, 3636221; 551534, 3636220; 551528, 3636220; 551498, 3636220; 551491, 3636220; 551485, 3636221; 551478, 3636222; 551472, 3636223; 551466, 3636225; 551459, 3636227; 551453, 3636230; 551448, 3636233; 551442, 3636237; 551437, 3636240; 551432, 3636245; 551427, 3636249; 551422, 3636254; 551418, 3636259; 551418, 3636260; 551417, 3636261; 551381, 3636261; 551375, 3636261; 551374, 3636261; 551322, 3636265; 551316, 3636266; 551309, 3636267; 551303, 3636268; 551297, 3636270; 551290, 3636272; 551284, 3636275; 551283, 3636276; 551278, 3636276; 551278, 3636270; 551278, 3636263; 551278, 3636230; 551278, 3636223; 551278, 3636217; 551278, 3636216; 551273, 3636180; 551259, 3636180; 551259, 3636300; 551229, 3636300; 551229, 3636270; 551199, 3636270; 551199, 3636090; 551169, 3636090; 551169, 3636030; 551199, 3636030; 551199, 3636000; 551229, 3636000; 551229, 3635970; 551259, 3635970; 551259, 3635940; 551319, 3635940; 551319, 3635910; 551361, 3635910; 551381, 3635891; 551385, 3635886; 551389, 3635881; 551392, 3635878; 551411, 3635850; 551436, 3635827; 551441, 3635823; 551445, 3635819; 551449, 3635813; 551453, 3635808; 551457, 3635803; 551459, 3635797; 551473, 3635770; 551502, 3635720; 551505, 3635714; 551507, 3635708; 551510, 3635702; 551512, 3635696; 551513, 3635689; 551514, 3635685; 551520, 3635643; 551528, 3635619; 551544, 3635583; 551545, 3635580; 551529, 3635580; 551529, 3635550; 551499, 3635550; 551499, 3635490; 551469, 3635490; 551469, 3635460; 551499, 3635460; 551499, 3635430; 551529, 3635430; 551529, 3635400; 551559, 3635400; 551559, 3635370; 551529, 3635370; 551529, 3635250; 551499, 3635250; 551499, 3635220; 551529, 3635220; 551529, 3635190; 551499, 3635190; 551499, 3635160; 551469, 3635160; 551469, 3635056; 551454, 3635057; 551434, 3635062; 551415, 3635071; 551409, 3635075; 551409, 3635160; 551379, 3635160; 551379, 3635220; 551349, 3635220; 551349, 3635340; 551319, 3635340; 551319, 3635370; 551349, 3635370; 551349, 3635400; 551319, 3635400; 551319, 3635610; 551289, 3635610; 551289, 3635640; 551259, 3635640; 551259, 3635700; 551229, 3635700; 551229, 3635760; 551199, 3635760; 551199, 3635850; 551169, 3635850; 551169, 3635880; 551139, 3635880; 551139, 3635940; 551079, 3635940; 551079, 3635910; 551049, 3635910; 551049, 3635881; 551033, 3635907; 551032, 3635909; 551029, 3635915; 551026, 3635921; 551024, 3635927; 551022, 3635933; 551020, 3635940; 551019, 3635946; 551019, 3635947; 551019, 3635947; 551019, 3635970; 551049, 3635970; 551049, 3636210; 551019, 3636210; 551019, 3636240; 550989, 3636240; 550989, 3636330; 550959, 3636330; 550959, 3636390; 550929, 3636390; 550929, 3636420; 550899, 3636420; 550899, 3636270; 550929, 3636270; 550929, 3636150; 550899, 3636150; 550899, 3636180; 550869, 3636180; 550869, 3636210; 550809, 3636210; 550809, 3636180; 550779, 3636180; 550779, 3636060; 550787, 3636060; 550761, 3636008; 550748, 3635967; 550747, 3635965; 550745, 3635958; 550742, 3635953; 550739, 3635947; 550736, 3635941; 550732, 3635936; 550728, 3635931; 550723, 3635926; 550718, 3635922; 550713, 3635917; 550708, 3635914; 550703, 3635910; 550697, 3635907; 550691, 3635904; 550685, 3635902; 550678, 3635900; 550672, 3635899; 550666, 3635898; 550659, 3635897; 550653, 3635897; 550646, 3635897; 550639, 3635898; 550633, 3635899; 550627, 3635900; 550620, 3635902; 550614, 3635904; 550608, 3635907; 550603, 3635910; 550597, 3635914; 550592, 3635917; 550587, 3635922; 550582, 3635926; 550577, 3635931; 550573, 3635936; 550569, 3635941; 550566, 3635947; 550563, 3635953; 550560, 3635958; 550558, 3635965; 550556, 3635971; 550554, 3635977; 550553, 3635984; 550553, 3635990; 550553, 3635991; 550549, 3636057; 550539, 3636116; 550526, 3636174; 550515, 3636171; 550513, 3636171; 550507, 3636169; 550500, 3636168; 550494, 3636167; 550487, 3636167; 550486, 3636167; 550486, 3636166; 550486, 3636159; 550485, 3636153; 550484, 3636146; 550482, 3636140; 550481, 3636134; 550478, 3636127; 550476, 3636122; 550472, 3636116; 550472, 3636116; 550469, 3636110; 550462, 3636099; 550461, 3636099; 550458, 3636094; 550453, 3636089; 550449, 3636084; 550444, 3636079; 550439, 3636075; 550434, 3636071; 550428, 3636068; 550423, 3636065; 550417, 3636062; 550410, 3636060; 550404, 3636058; 550398, 3636056; 550391, 3636055; 550385, 3636055; 550378, 3636054; 550277, 3636054; 550270, 3636055; 550264, 3636055; 550257, 3636056; 550251, 3636058; 550245, 3636060; 550239, 3636062; 550233, 3636065; 550227, 3636068; 550221, 3636071; 550216, 3636075; 550211, 3636079; 550206, 3636084; 550195, 3636095; 550190, 3636100; 550186, 3636105; 550182, 3636110; 550182, 3636111; 550177, 3636112; 550171, 3636115; 550165, 3636117; 550159, 3636120; 550154, 3636124; 550148, 3636128; 550143, 3636132; 550139, 3636136; 550134, 3636141; 550130, 3636146; 550126, 3636152; 550123, 3636157; 550120, 3636163; 550117, 3636169; 550115, 3636175; 550113, 3636181; 550111, 3636188; 550110, 3636194; 550109, 3636201; 550109, 3636207; 550109, 3636214; 550110, 3636220; 550111, 3636227; 550113, 3636233; 550115, 3636239; 550117, 3636245; 550120, 3636251; 550123, 3636257; 550126, 3636263; 550141, 3636285; 550141, 3636285; 550143, 3636288; 550162, 3636314; 550164, 3636317; 550168, 3636322; 550172, 3636327; 550173, 3636327; 550173, 3636399; 550173, 3636405; 550174, 3636412; 550175, 3636418; 550177, 3636425; 550178, 3636431; 550181, 3636437; 550183, 3636443; 550187, 3636449; 550190, 3636454; 550194, 3636460; 550198, 3636465; 550202, 3636469; 550232, 3636499; 550236, 3636503; 550272, 3636535; 550306, 3636569; 550327, 3636592; 550329, 3636602; 550331, 3636609; 550332, 3636615; 550335, 3636621; 550336, 3636624; 550354, 3636664; 550365, 3636690; 550368, 3636695; 550371, 3636700; 550374, 3636706; 550397, 3636740; 550397, 3636740; 550400, 3636745; 550405, 3636750; 550409, 3636755; 550414, 3636759; 550419, 3636763; 550424, 3636767; 550424, 3636767; 550451, 3636785; 550451, 3636858; 550414, 3636873; 550411, 3636873; 550405, 3636876; 550400, 3636879; 550394, 3636883; 550389, 3636887; 550384, 3636891; 550379, 3636895; 550374, 3636900; 550370, 3636905; 550370, 3636906; 550336, 3636951; 550333, 3636955; 550329, 3636961; 550326, 3636967; 550325, 3636970; 550316, 3636990; 550315, 3636984; 550313, 3636978; 550311, 3636971; 550309, 3636965; 550306, 3636959; 550303, 3636953; 550300, 3636948; 550296, 3636943; 550292, 3636937; 550287, 3636933; 550283, 3636928; 550278, 3636924; 550277, 3636923; 550262, 3636912; 550257, 3636909; 550252, 3636906; 550246, 3636902; 550240, 3636900; 550234, 3636897; 550228, 3636896; 550221, 3636894; 550215, 3636893; 550208, 3636892; 550202, 3636892; 550195, 3636892; 550189, 3636893; 550184, 3636894; 550178, 3636890; 550173, 3636887; 550172, 3636886; 550172, 3636886; 550171, 3636880; 550170, 3636879; 550172, 3636877; 550175, 3636872; 550186, 3636849; 550186, 3636849; 550189, 3636843; 550191, 3636836; 550193, 3636830; 550195, 3636824; 550196, 3636817; 550196, 3636811; 550197, 3636804; 550196, 3636798; 550196, 3636791; 550195, 3636785; 550193, 3636778; 550191, 3636772; 550189, 3636766; 550186, 3636760; 550183, 3636754; 550180, 3636749; 550176, 3636743; 550172, 3636738; 550167, 3636734; 550163, 3636729; 550157, 3636725; 550152, 3636721; 550147, 3636718; 550141, 3636715; 550136, 3636712; 550110, 3636701; 550109, 3636701; 550102, 3636698; 550096, 3636696; 550090, 3636695; 550083, 3636694; 550077, 3636693; 550070, 3636693; 550014, 3636693; 550007, 3636693; 550001, 3636694; 550000, 3636694; 549974, 3636698; 549968, 3636699; 549962, 3636700; 549956, 3636702; 549949, 3636704; 549943, 3636707; 549938, 3636710; 549932, 3636714; 549921, 3636721; 549921, 3636721; 549916, 3636725; 549910, 3636729; 549906, 3636734; 549901, 3636738; 549897, 3636743; 549893, 3636749; 549890, 3636754; 549887, 3636760; 549884, 3636765; 549879, 3636769; 549878, 3636770; 549873, 3636774; 549868, 3636779; 549864, 3636783; 549859, 3636789; 549856, 3636794; 549852, 3636799; 549849, 3636805; 549846, 3636811; 549844, 3636817; 549840, 3636819; 549839, 3636820; 549820, 3636831; 549816, 3636834; 549810, 3636838; 549805, 3636842; 549800, 3636846; 549796, 3636851; 549792, 3636856; 549788, 3636861; 549785, 3636866; 549782, 3636879; 549780, 3636900; 549780, 3636963; 549786, 3636985; 549788, 3636990; 549790, 3636997; 549793, 3637003; 549796, 3637008; 549799, 3637014; 549803, 3637019; 549807, 3637024; 549812, 3637029; 549817, 3637034; 549818, 3637035; 549841, 3637054; 549844, 3637056; 549849, 3637060; 549849, 3637050; 549879, 3637050; 549879, 3637074; 549879, 3637074; 549886, 3637075; 549892, 3637076; 549898, 3637077; 549905, 3637077; 549928, 3637077; 549934, 3637077; 549941, 3637076; 549947, 3637075; 549953, 3637074; 549960, 3637072; 549966, 3637069; 549968, 3637068; 549980, 3637063; 549982, 3637066; 549985, 3637070; 549974, 3637083; 549972, 3637085; 549968, 3637091; 549965, 3637096; 549962, 3637102; 549959, 3637108; 549957, 3637114; 549955, 3637120; 549953, 3637127; 549953, 3637129; 549949, 3637131; 549943, 3637134; 549938, 3637138; 549933, 3637142; 549928, 3637147; 549924, 3637152; 549920, 3637157; 549916, 3637162; 549912, 3637168; 549909, 3637173; 549907, 3637179; 549904, 3637185; 549902, 3637192; 549901, 3637198; 549900, 3637204; 549899, 3637211; 549899, 3637218; 549899, 3637244; 549899, 3637247; 549884, 3637260; 549909, 3637260; 549909, 3637209; 549909, 3637200; 549920, 3637200; 549999, 3637200; 549999, 3637288; 550021, 3637276; 550035, 3637269; 550047, 3637264; 550062, 3637260; 550072, 3637255; 550081, 3637251; 550087, 3637249; 550090, 3637249; 550095, 3637251; 550093, 3637257; 550085, 3637263; 550077, 3637267; 550067, 3637272; 550061, 3637281; 550058, 3637284; 550058, 3637289; 550059, 3637293; 550065, 3637295; 550091, 3637299; 550129, 3637303; 550135, 3637301; 550139, 3637298; 550142, 3637293; 550145, 3637284; 550149, 3637279; 550155, 3637278; 550160, 3637278; 550172, 3637281; 550182, 3637288; 550187, 3637293; 550189, 3637297; 550187, 3637302; 550184, 3637306; 550177, 3637305; 550173, 3637302; 550169, 3637300; 550164, 3637300; 550162, 3637302; 550153, 3637315; 550144, 3637321; 550127, 3637327; 550116, 3637329; 550102, 3637336; 550096, 3637342; 550090, 3637350; 550082, 3637365; 550068, 3637403; 550067, 3637409; 550065, 3637420; 550065, 3637431; 550065, 3637441; 550069, 3637452; 550068, 3637458; 550066, 3637468; 550044, 3637484; 550029, 3637500; 550029, 3637530; 549999, 3637530; 549999, 3637620; 549969, 3637620; 549969, 3637642; 549969, 3637650; 549999, 3637650; 549999, 3637680; 550059, 3637680; 550059, 3637689; 550063, 3637689; 550069, 3637689; 550076, 3637689; 550082, 3637687; 550089, 3637686; 550095, 3637684; 550101, 3637682; 550107, 3637679; 550107, 3637679; 550138, 3637664; 550143, 3637661; 550148, 3637657; 550154, 3637654; 550159, 3637650; 550164, 3637645; 550168, 3637640; 550172, 3637635; 550176, 3637630; 550179, 3637624; 550183, 3637619; 550185, 3637613; 550188, 3637606; 550188, 3637604; 550195, 3637583; 550201, 3637590; 550202, 3637591; 550206, 3637596; 550231, 3637621; 550196, 3637665; 550194, 3637667; 550190, 3637673; 550187, 3637678; 550184, 3637684; 550154, 3637744; 550153, 3637744; 550151, 3637750; 550148, 3637756; 550146, 3637763; 550145, 3637769; 550144, 3637775; 550143, 3637782; 550143, 3637788; 550143, 3637830; 550143, 3637836; 550143, 3637836; 550146, 3637875; 550144, 3637882; 550139, 3637890; 550149, 3637890; 550149, 3637860; 550179, 3637860; 550179, 3638310; 550209, 3638310; 550209, 3638370; 550179, 3638370; 550179, 3638400; 550149, 3638400; 550149, 3638280; 550119, 3638280; 550119, 3638190; 550083, 3638190; 550060, 3638190; 550058, 3638196; 550056, 3638202; 550055, 3638208; 550054, 3638215; 550053, 3638221; 550053, 3638228; 550053, 3638234; 550054, 3638241; 550055, 3638247; 550056, 3638254; 550057, 3638255; 550067, 3638291; 550061, 3638375; 550061, 3638375; 550060, 3638382; 550060, 3638408; 550061, 3638415; 550061, 3638421; 550062, 3638427; 550059, 3638433; 550059, 3638520; 550029, 3638520; 550029, 3638550; 549999, 3638550; 549999, 3638640; 549957, 3638640; 549957, 3638640; 549956, 3638647; 549955, 3638653; 549955, 3638660; 549955, 3638666; 549956, 3638673; 549957, 3638679; 549958, 3638684; 549946, 3638725; 549941, 3638727; 549939, 3638729; 549939, 3638730; 549969, 3638730; 549969, 3638760; 549999, 3638760; 549999, 3638790; 549969, 3638790; 549969, 3638850; 549999, 3638850; 549999, 3638940; 549969, 3638940; 549969, 3639000; 549939, 3639000; 549939, 3639060; 549879, 3639060; 549879, 3639090; 549789, 3639090; 549789, 3639120; 549879, 3639120; 549879, 3639150; 549789, 3639150; 549789, 3639180; 549879, 3639180; 549879, 3639210; 549729, 3639210; 549729, 3639240; 549789, 3639240; 549789, 3639300; 549699, 3639300; 549699, 3639330; 549729, 3639330; 549729, 3639360; 549648, 3639360; 549650, 3639364; 549639, 3639378; 549639, 3639390; 549669, 3639390; 549669, 3639420; 549639, 3639420; 549639, 3639480; 549609, 3639480; 549609, 3639510; 549595, 3639510; 549595, 3639527; 549591, 3639541; 549585, 3639560; 549583, 3639566; 549583, 3639566; 549579, 3639568; 549574, 3639572; 549569, 3639576; 549564, 3639581; 549559, 3639586; 549555, 3639591; 549551, 3639596; 549548, 3639602; 549545, 3639607; 549530, 3639637; 549530, 3639637; 549527, 3639643; 549525, 3639649; 549523, 3639656; 549521, 3639662; 549520, 3639669; 549520, 3639675; 549520, 3639682; 549520, 3639688; 549520, 3639695; 549521, 3639701; 549522, 3639703; 549522, 3639703; 549519, 3639709; 549516, 3639715; 549514, 3639721; 549512, 3639725; 549505, 3639752; 549504, 3639753; 549503, 3639760; 549502, 3639766; 549501, 3639773; 549501, 3639779; 549501, 3639786; 549502, 3639792; 549502, 3639795; 549501, 3639797; 549499, 3639803; 549497, 3639810; 549495, 3639816; 549494, 3639823; 549493, 3639829; 549493, 3639836; 549493, 3639842; 549494, 3639849; 549495, 3639855; 549497, 3639861; 549499, 3639868; 549501, 3639874; 549504, 3639880; 549507, 3639886; 549510, 3639891; 549514, 3639896; 549518, 3639902; 549523, 3639906; 549527, 3639911; 549527, 3639911; 549532, 3639915; 549569, 3639943; 549594, 3639979; 549597, 3639983; 549601, 3639988; 549605, 3639993; 549610, 3639997; 549615, 3640001; 549620, 3640005; 549620, 3640005; 549643, 3640020; 549648, 3640024; 549654, 3640027; 549660, 3640029; 549666, 3640032; 549673, 3640034; 549679, 3640035; 549685, 3640036.

(ii) Note: Map of Unit 13 for Poa atropurpurea (Map 3) follows:

BILLING CODE 4310-55-P

BILLING CODE 4310-55-C

(13) Unit 14: Laguna Meadow, San Diego County, California.

(i) From USGS 1:24:000 quadrangle maps Monument Peak and Mount Laguna. Land bounded by the following UTM NAD27 coordinates (E, N): 549685, 3640036; 549692, 3640037; 549698, 3640037; 549699, 3640037; 549699, 3640020; 549729, 3640020; 549729, 3640037; 549736, 3640037; 549773, 3640058; 549778, 3640060; 549784, 3640063; 549790, 3640065; 549793, 3640066; 549836, 3640080; 549870, 3640094; 549883, 3640110; 549969, 3640110; 549969, 3640140; 549999, 3640140; 549999, 3640170; 549969, 3640170; 549969, 3640191; 549974, 3640193; 549981, 3640195; 549987, 3640197; 549993, 3640198; 550000, 3640198; 550006, 3640199; 550013, 3640198; 550013, 3640198; 550059, 3640195; 550059, 3640170; 550029, 3640170; 550029, 3640080; 550059, 3640080; 550059, 3640050; 550089, 3640050; 550089, 3640020; 550059, 3640020; 550059, 3639990; 550089, 3639990; 550089, 3639960; 550149, 3639960; 550149, 3639990; 550263, 3639990; 550268, 3639971; 550270, 3639950; 550270, 3639923; 550272, 3639920; 550271, 3639915; 550268, 3639883; 550268, 3639854; 550268, 3639848; 550267, 3639841; 550266, 3639835; 550265, 3639828; 550263, 3639822; 550260, 3639816; 550258, 3639810; 550258, 3639810; 550239, 3639810; 550239, 3639773; 550236, 3639769; 550232, 3639763; 550228, 3639758; 550224, 3639754; 550219, 3639749; 550214, 3639745; 550213, 3639744; 550224, 3639735; 550225, 3639735; 550230, 3639730; 550235, 3639726; 550239, 3639721; 550244, 3639716; 550247, 3639711; 550250, 3639707; 550242, 3639701; 550243, 3639696; 550244, 3639690; 550149, 3639690; 550149, 3639630; 550264, 3639630; 550264, 3639618; 550264, 3639617; 550299, 3639606; 550299, 3639600; 550239, 3639600; 550239, 3639570; 550336, 3639570; 550338, 3639566; 550338, 3639563; 550341, 3639563; 550360, 3639554; 550377, 3639542; 550379, 3639540; 550239, 3639540; 550239, 3639510; 550209, 3639510; 550209, 3639480; 550239, 3639480; 550239, 3639450; 550329, 3639450; 550329, 3639420; 550299, 3639420; 550299, 3639390; 550329, 3639390; 550329, 3639360; 550359, 3639360; 550359, 3639330; 550389, 3639330; 550389, 3639240; 550359, 3639240; 550359, 3639210; 550449, 3639210; 550449, 3639180; 550479, 3639180; 550479, 3639150; 550539, 3639150; 550539, 3639134; 550538, 3639132; 550536, 3639126; 550532, 3639121; 550529, 3639115; 550525, 3639110; 550521, 3639105; 550517, 3639100; 550512, 3639096; 550507, 3639091; 550501, 3639088; 550496, 3639084; 550490, 3639081; 550484, 3639078; 550478, 3639076; 550472, 3639074; 550465, 3639073; 550460, 3639072; 550434, 3639068; 550433, 3639068; 550426, 3639067; 550420, 3639067; 550413, 3639067; 550412, 3639067; 550402, 3639068; 550420, 3639056; 550422, 3639055; 550468, 3639025; 550468, 3639025; 550473, 3639021; 550478, 3639017; 550483, 3639012; 550487, 3639008; 550491, 3639002; 550495, 3638997; 550495, 3638997; 550525, 3638952; 550529, 3638947; 550532, 3638941; 550535, 3638935; 550537, 3638929; 550539, 3638923; 550545, 3638899; 550545, 3638898; 550546, 3638897; 550550, 3638882; 550550, 3638881; 550550, 3638880; 550539, 3638880; 550539, 3638910; 550509, 3638910; 550509, 3638880; 550479, 3638880; 550479, 3638790; 550509, 3638790; 550509, 3638760; 550539, 3638760; 550539, 3638640; 550569, 3638640; 550569, 3638629; 550567, 3638625; 550562, 3638620; 550560, 3638617; 550559, 3638614; 550558, 3638608; 550556, 3638601; 550553, 3638595; 550551, 3638589; 550548, 3638584; 550544, 3638578; 550540, 3638573; 550536, 3638568; 550527, 3638558; 550525, 3638546; 550524, 3638540; 550522, 3638534; 550514, 3638510; 550512, 3638499; 550497, 3638484; 550497, 3638472; 550497, 3638469; 550500, 3638467; 550502, 3638465; 550504, 3638463; 550502, 3638458; 550500, 3638454; 550501, 3638453; 550505, 3638449; 550509, 3638445; 550509, 3638430; 550520, 3638430; 550521, 3638428; 550524, 3638422; 550527, 3638416; 550529, 3638410; 550531, 3638404; 550532, 3638402; 550539, 3638374; 550539, 3638370; 550540, 3638370; 550540, 3638368; 550541, 3638361; 550542, 3638355; 550542, 3638348; 550542, 3638342; 550541, 3638336; 550538, 3638312; 550538, 3638291; 550543, 3638260; 550542, 3638259; 550541, 3638256; 550543, 3638249; 550545, 3638228; 550545, 3638174; 550546, 3638171; 550547, 3638160; 550539, 3638160; 550539, 3638220; 550479, 3638220; 550479, 3638190; 550471, 3638190; 550449, 3638190; 550449, 3638265; 550449, 3638280; 550440, 3638280; 550419, 3638280; 550419, 3638370; 550423, 3638370; 550479, 3638370; 550479, 3638430; 550410, 3638430; 550359, 3638430; 550359, 3638400; 550329, 3638400; 550329, 3638280; 550359, 3638280; 550359, 3638220; 550389, 3638220; 550389, 3638160; 550419, 3638160; 550419, 3638100; 550449, 3638100; 550449, 3638040; 550479, 3638040; 550479, 3638010; 550509, 3638010; 550509, 3637950; 550479, 3637950; 550479, 3637884; 550486, 3637879; 550497, 3637870; 550497, 3637860; 550509, 3637860; 550509, 3637890; 550539, 3637890; 550539, 3637980; 550550, 3637980; 550569, 3637980; 550569, 3638010; 550599, 3638010; 550599, 3638065; 550602, 3638063; 550617, 3638048; 550629, 3638031; 550629, 3638010; 550642, 3638010; 550643, 3638007; 550646, 3638002; 550647, 3638002; 550650, 3637994; 550657, 3637995; 550659, 3637995; 550659, 3637920; 550689, 3637920; 550689, 3637830; 550659, 3637830; 550659, 3637800; 550629, 3637800; 550629, 3637770; 550627, 3637770; 550599, 3637770; 550599, 3637740; 550539, 3637740; 550539, 3637710; 550639, 3637710; 550659, 3637710; 550659, 3637770; 550689, 3637770; 550689, 3637800; 550719, 3637800; 550719, 3637830; 550749, 3637830; 550749, 3637920; 550719, 3637920; 550719, 3637950; 550689, 3637950; 550689, 3637980; 550749, 3637980; 550749, 3638010; 550839, 3638010; 550839, 3638040; 550869, 3638040; 550869, 3638100; 550839, 3638100; 550839, 3638070; 550814, 3638070; 550814, 3638071; 550810, 3638077; 550807, 3638082; 550796, 3638104; 550796, 3638105; 550793, 3638111; 550791, 3638117; 550789, 3638123; 550787, 3638130; 550786, 3638136; 550786, 3638142; 550785, 3638149; 550786, 3638156; 550786, 3638162; 550787, 3638169; 550789, 3638175; 550791, 3638181; 550793, 3638187; 550796, 3638193; 550799, 3638199; 550801, 3638203; 550812, 3638220; 550869, 3638220; 550869, 3638250; 550830, 3638250; 550846, 3638280; 550847, 3638280; 551049, 3638280; 551049, 3638310; 551079, 3638310; 551079, 3638400; 551049, 3638400; 551049, 3638520; 551019, 3638520; 551019, 3638550; 550989, 3638550; 550989, 3638640; 550959, 3638640; 550959, 3638700; 550909, 3638700; 550909, 3638702; 550912, 3638708; 550914, 3638712; 550937, 3638753; 550938, 3638755; 550941, 3638761; 550945, 3638766; 550949, 3638771; 550954, 3638776; 550958, 3638780; 550959, 3638780; 550977, 3638796; 550991, 3638820; 550994, 3638824; 550998, 3638830; 551002, 3638835; 551006, 3638840; 551011, 3638844; 551016, 3638848; 551019, 3638850; 551049, 3638850; 551049, 3638880; 551109, 3638880; 551109, 3638910; 551079, 3638910; 551079, 3638933; 551092, 3638943; 551089, 3638946; 551084, 3638951; 551080, 3638956; 551076, 3638961; 551073, 3638967; 551070, 3638972; 551067, 3638978; 551065, 3638985; 551063, 3638991; 551062, 3638997; 551061, 3639000; 551109, 3639000; 551109, 3639030; 551199, 3639030; 551199, 3639060; 551049, 3639060; 551049, 3639090; 551139, 3639090; 551139, 3639120; 551033, 3639120; 551033, 3639150; 551169, 3639150; 551169, 3639180; 551199, 3639180; 551199, 3639240; 551229, 3639240; 551229, 3639255; 551233, 3639255; 551239, 3639254; 551246, 3639252; 551251, 3639251; 551285, 3639239; 551286, 3639239; 551292, 3639237; 551298, 3639234; 551303, 3639231; 551309, 3639228; 551314, 3639224; 551319, 3639220; 551324, 3639215; 551327, 3639212; 551337, 3639201; 551386, 3639230; 551388, 3639231; 551393, 3639234; 551399, 3639237; 551405, 3639239; 551412, 3639241; 551418, 3639243; 551424, 3639244; 551431, 3639244; 551438, 3639244; 551444, 3639244; 551451, 3639244; 551457, 3639243; 551463, 3639241; 551470, 3639239; 551476, 3639237; 551482, 3639234; 551488, 3639231; 551491, 3639229; 551533, 3639202; 551534, 3639201; 551540, 3639197; 551545, 3639193; 551550, 3639189; 551554, 3639184; 551558, 3639179; 551562, 3639174; 551565, 3639168; 551569, 3639162; 551571, 3639156; 551574, 3639150; 551575, 3639144; 551577, 3639138; 551578, 3639131; 551579, 3639125; 551579, 3639118; 551579, 3639081; 551579, 3639074; 551578, 3639068; 551577, 3639061; 551575, 3639055; 551574, 3639048; 551571, 3639042; 551569, 3639036; 551565, 3639031; 551562, 3639025; 551558, 3639020; 551554, 3639015; 551552, 3639013; 551509, 3638966; 551494, 3638947; 551492, 3638927; 551492, 3638922; 551487, 3638886; 551495, 3638866; 551518, 3638820; 551541, 3638781; 551543, 3638771; 551545, 3638750; 551545, 3638738; 551545, 3638640; 551499, 3638640; 551499, 3638460; 551529, 3638460; 551529, 3638430; 551544, 3638430; 551544, 3638430; 551545, 3638424; 551545, 3638421; 551545, 3638400; 551543, 3638379; 551538, 3638359; 551529, 3638340; 551520, 3638327; 551520, 3638325; 551518, 3638304; 551513, 3638284; 551504, 3638265; 551492, 3638248; 551477, 3638233; 551460, 3638221; 551441, 3638212; 551420, 3638207; 551420, 3638206; 551420, 3638200; 551419, 3638188; 551413, 3638186; 551407, 3638184; 551404, 3638183; 551401, 3638182; 551396, 3638160; 551395, 3638157; 551393, 3638151; 551391, 3638145; 551388, 3638139; 551385, 3638133; 551383, 3638130; 551319, 3638130; 551319, 3638100; 551368, 3638100; 551367, 3638098; 551368, 3638096; 551370, 3638075; 551370, 3638026; 551370, 3638024; 551370, 3638015; 551369, 3638015; 551367, 3638010; 551349, 3638010; 551349, 3637981; 551339, 3637965; 551326, 3637944; 551329, 3637947; 551335, 3637950; 551341, 3637953; 551347, 3637956; 551353, 3637958; 551359, 3637960; 551363, 3637961; 551363, 3637959; 551354, 3637940; 551342, 3637923; 551339, 3637920; 551319, 3637920; 551319, 3637902; 551317, 3637901; 551319, 3637899; 551319, 3637890; 551325, 3637890; 551329, 3637885; 551338, 3637866; 551342, 3637852; 551346, 3637846; 551352, 3637842; 551367, 3637827; 551379, 3637810; 551388, 3637791; 551388, 3637789; 551404, 3637793; 551425, 3637795; 551443, 3637795; 551450, 3637794; 551454, 3637794; 551464, 3637795; 551469, 3637795; 551469, 3637770; 551349, 3637770; 551349, 3637740; 551529, 3637740; 551529, 3637710; 551595, 3637710; 551598, 3637702; 551599, 3637700; 551611, 3637669; 551632, 3637645; 551633, 3637644; 551637, 3637639; 551649, 3637624; 551649, 3637590; 551669, 3637590; 551670, 3637575; 551669, 3637572; 551672, 3637570; 551677, 3637567; 551692, 3637552; 551696, 3637546; 551702, 3637542; 551717, 3637527; 551729, 3637510; 551730, 3637508; 551730, 3637410; 551619, 3637410; 551619, 3637380; 551559, 3637380; 551559, 3637350; 551529, 3637350; 551529, 3637320; 551559, 3637320; 551559, 3637289; 551534, 3637266; 551497, 3637220; 551494, 3637215; 551490, 3637211; 551485, 3637206; 551480, 3637202; 551479, 3637201; 551434, 3637168; 551431, 3637166; 551368, 3637121; 551365, 3637119; 551360, 3637116; 551354, 3637113; 551348, 3637110; 551342, 3637108; 551336, 3637106; 551329, 3637104; 551323, 3637103; 551320, 3637103; 551319, 3637103; 551319, 3637110; 551229, 3637110; 551229, 3637080; 551199, 3637080; 551199, 3637020; 551169, 3637020; 551169, 3636930; 551139, 3636930; 551139, 3636840; 551169, 3636840; 551169, 3636810; 551139, 3636810; 551139, 3636750; 551169, 3636750; 551169, 3636720; 551199, 3636720; 551199, 3636690; 551229, 3636690; 551229, 3636630; 551259, 3636630; 551259, 3636600; 551289, 3636600; 551289, 3636570; 551319, 3636570; 551319, 3636540; 551349, 3636540; 551349, 3636510; 551469, 3636510; 551469, 3636480; 551499, 3636480; 551499, 3636450; 551529, 3636450; 551529, 3636390; 551559, 3636390; 551559, 3636300; 551589, 3636300; 551589, 3636330; 551661, 3636330; 551661, 3636325; 551660, 3636319; 551658, 3636313; 551656, 3636306; 551654, 3636300; 551651, 3636294; 551648, 3636289; 551645, 3636283; 551641, 3636278; 551637, 3636273; 551632, 3636268; 551627, 3636263; 551622, 3636259; 551617, 3636255; 551612, 3636252; 551610, 3636251; 551576, 3636232; 551572, 3636230; 551566, 3636227; 551560, 3636225; 551554, 3636223; 551547, 3636222; 551541, 3636221; 551534, 3636220; 551528, 3636220; 551498, 3636220; 551491, 3636220; 551485, 3636221; 551478, 3636222; 551472, 3636223; 551466, 3636225; 551459, 3636227; 551453, 3636230; 551448, 3636233; 551442, 3636237; 551437, 3636240; 551432, 3636245; 551427, 3636249; 551422, 3636254; 551418, 3636259; 551418, 3636260; 551417, 3636261; 551381, 3636261; 551375, 3636261; 551374, 3636261; 551322, 3636265; 551316, 3636266; 551309, 3636267; 551303, 3636268; 551297, 3636270; 551290, 3636272; 551284, 3636275; 551283, 3636276; 551278, 3636276; 551278, 3636270; 551278, 3636263; 551278, 3636230; 551278, 3636223; 551278, 3636217; 551278, 3636216; 551273, 3636180; 551259, 3636180; 551259, 3636300; 551229, 3636300; 551229, 3636270; 551199, 3636270; 551199, 3636090; 551169, 3636090; 551169, 3636030; 551199, 3636030; 551199, 3636000; 551229, 3636000; 551229, 3635970; 551259, 3635970; 551259, 3635940; 551319, 3635940; 551319, 3635910; 551361, 3635910; 551381, 3635891; 551385, 3635886; 551389, 3635881; 551392, 3635878; 551411, 3635850; 551436, 3635827; 551441, 3635823; 551445, 3635819; 551449, 3635813; 551453, 3635808; 551457, 3635803; 551459, 3635797; 551473, 3635770; 551502, 3635720; 551505, 3635714; 551507, 3635708; 551510, 3635702; 551512, 3635696; 551513, 3635689; 551514, 3635685; 551520, 3635643; 551528, 3635619; 551544, 3635583; 551545, 3635580; 551529, 3635580; 551529, 3635550; 551499, 3635550; 551499, 3635490; 551469, 3635490; 551469, 3635460; 551499, 3635460; 551499, 3635430; 551529, 3635430; 551529, 3635400; 551559, 3635400; 551559, 3635370; 551529, 3635370; 551529, 3635250; 551499, 3635250; 551499, 3635220; 551529, 3635220; 551529, 3635190; 551499, 3635190; 551499, 3635160; 551469, 3635160; 551469, 3635056; 551454, 3635057; 551434, 3635062; 551415, 3635071; 551409, 3635075; 551409, 3635160; 551379, 3635160; 551379, 3635220; 551349, 3635220; 551349, 3635340; 551319, 3635340; 551319, 3635370; 551349, 3635370; 551349, 3635400; 551319, 3635400; 551319, 3635610; 551289, 3635610; 551289, 3635640; 551259, 3635640; 551259, 3635700; 551229, 3635700; 551229, 3635760; 551199, 3635760; 551199, 3635850; 551169, 3635850; 551169, 3635880; 551139, 3635880; 551139, 3635940; 551079, 3635940; 551079, 3635910; 551049, 3635910; 551049, 3635881; 551033, 3635907; 551032, 3635909; 551029, 3635915; 551026, 3635921; 551024, 3635927; 551022, 3635933; 551020, 3635940; 551019, 3635946; 551019, 3635947; 551019, 3635947; 551019, 3635970; 551049, 3635970; 551049, 3636210; 551019, 3636210; 551019, 3636240; 550989, 3636240; 550989, 3636330; 550959, 3636330; 550959, 3636390; 550929, 3636390; 550929, 3636420; 550899, 3636420; 550899, 3636270; 550929, 3636270; 550929, 3636150; 550899, 3636150; 550899, 3636180; 550869, 3636180; 550869, 3636210; 550809, 3636210; 550809, 3636180; 550779, 3636180; 550779, 3636060; 550787, 3636060; 550761, 3636008; 550748, 3635967; 550747, 3635965; 550745, 3635958; 550742, 3635953; 550739, 3635947; 550736, 3635941; 550732, 3635936; 550728, 3635931; 550723, 3635926; 550718, 3635922; 550713, 3635917; 550708, 3635914; 550703, 3635910; 550697, 3635907; 550691, 3635904; 550685, 3635902; 550678, 3635900; 550672, 3635899; 550666, 3635898; 550659, 3635897; 550653, 3635897; 550646, 3635897; 550639, 3635898; 550633, 3635899; 550627, 3635900; 550620, 3635902; 550614, 3635904; 550608, 3635907; 550603, 3635910; 550597, 3635914; 550592, 3635917; 550587, 3635922; 550582, 3635926; 550577, 3635931; 550573, 3635936; 550569, 3635941; 550566, 3635947; 550563, 3635953; 550560, 3635958; 550558, 3635965; 550556, 3635971; 550554, 3635977; 550553, 3635984; 550553, 3635990; 550553, 3635991; 550549, 3636057; 550539, 3636116; 550526, 3636174; 550515, 3636171; 550513, 3636171; 550507, 3636169; 550500, 3636168; 550494, 3636167; 550487, 3636167; 550486, 3636167; 550486, 3636166; 550486, 3636159; 550485, 3636153; 550484, 3636146; 550482, 3636140; 550481, 3636134; 550478, 3636127; 550476, 3636122; 550472, 3636116; 550472, 3636116; 550469, 3636110; 550462, 3636099; 550461, 3636099; 550458, 3636094; 550453, 3636089; 550449, 3636084; 550444, 3636079; 550439, 3636075; 550434, 3636071; 550428, 3636068; 550423, 3636065; 550417, 3636062; 550410, 3636060; 550404, 3636058; 550398, 3636056; 550391, 3636055; 550385, 3636055; 550378, 3636054; 550277, 3636054; 550270, 3636055; 550264, 3636055; 550257, 3636056; 550251, 3636058; 550245, 3636060; 550239, 3636062; 550233, 3636065; 550227, 3636068; 550221, 3636071; 550216, 3636075; 550211, 3636079; 550206, 3636084; 550195, 3636095; 550190, 3636100; 550186, 3636105; 550182, 3636110; 550182, 3636111; 550177, 3636112; 550171, 3636115; 550165, 3636117; 550159, 3636120; 550154, 3636124; 550148, 3636128; 550143, 3636132; 550139, 3636136; 550134, 3636141; 550130, 3636146; 550126, 3636152; 550123, 3636157; 550120, 3636163; 550117, 3636169; 550115, 3636175; 550113, 3636181; 550111, 3636188; 550110, 3636194; 550109, 3636201; 550109, 3636207; 550109, 3636214; 550110, 3636220; 550111, 3636227; 550113, 3636233; 550115, 3636239; 550117, 3636245; 550120, 3636251; 550123, 3636257; 550126, 3636263; 550141, 3636285; 550141, 3636285; 550143, 3636288; 550162, 3636314; 550164, 3636317; 550168, 3636322; 550172, 3636327; 550173, 3636327; 550173, 3636399; 550173, 3636405; 550174, 3636412; 550175, 3636418; 550177, 3636425; 550178, 3636431; 550181, 3636437; 550183, 3636443; 550187, 3636449; 550190, 3636454; 550194, 3636460; 550198, 3636465; 550202, 3636469; 550232, 3636499; 550236, 3636503; 550272, 3636535; 550306, 3636569; 550327, 3636592; 550329, 3636602; 550331, 3636609; 550332, 3636615; 550335, 3636621; 550336, 3636624; 550354, 3636664; 550365, 3636690; 550368, 3636695; 550371, 3636700; 550374, 3636706; 550397, 3636740; 550397, 3636740; 550400, 3636745; 550405, 3636750; 550409, 3636755; 550414, 3636759; 550419, 3636763; 550424, 3636767; 550424, 3636767; 550451, 3636785; 550451, 3636858; 550414, 3636873; 550411, 3636873; 550405, 3636876; 550400, 3636879; 550394, 3636883; 550389, 3636887; 550384, 3636891; 550379, 3636895; 550374, 3636900; 550370, 3636905; 550370, 3636906; 550336, 3636951; 550333, 3636955; 550329, 3636961; 550326, 3636967; 550325, 3636970; 550316, 3636990; 550315, 3636984; 550313, 3636978; 550311, 3636971; 550309, 3636965; 550306, 3636959; 550303, 3636953; 550300, 3636948; 550296, 3636943; 550292, 3636937; 550287, 3636933; 550283, 3636928; 550278, 3636924; 550277, 3636923; 550262, 3636912; 550257, 3636909; 550252, 3636906; 550246, 3636902; 550240, 3636900; 550234, 3636897; 550228, 3636896; 550221, 3636894; 550215, 3636893; 550208, 3636892; 550202, 3636892; 550195, 3636892; 550189, 3636893; 550184, 3636894; 550178, 3636890; 550173, 3636887; 550172, 3636886; 550172, 3636886; 550171, 3636880; 550170, 3636879; 550172, 3636877; 550175, 3636872; 550186, 3636849; 550186, 3636849; 550189, 3636843; 550191, 3636836; 550193, 3636830; 550195, 3636824; 550196, 3636817; 550196, 3636811; 550197, 3636804; 550196, 3636798; 550196, 3636791; 550195, 3636785; 550193, 3636778; 550191, 3636772; 550189, 3636766; 550186, 3636760; 550183, 3636754; 550180, 3636749; 550176, 3636743; 550172, 3636738; 550167, 3636734; 550163, 3636729; 550157, 3636725; 550152, 3636721; 550147, 3636718; 550141, 3636715; 550136, 3636712; 550110, 3636701; 550109, 3636701; 550102, 3636698; 550096, 3636696; 550090, 3636695; 550083, 3636694; 550077, 3636693; 550070, 3636693; 550014, 3636693; 550007, 3636693; 550001, 3636694; 550000, 3636694; 549974, 3636698; 549968, 3636699; 549962, 3636700; 549956, 3636702; 549949, 3636704; 549943, 3636707; 549938, 3636710; 549932, 3636714; 549921, 3636721; 549921, 3636721; 549916, 3636725; 549910, 3636729; 549906, 3636734; 549901, 3636738; 549897, 3636743; 549893, 3636749; 549890, 3636754; 549887, 3636760; 549884, 3636765; 549879, 3636769; 549878, 3636770; 549873, 3636774; 549868, 3636779; 549864, 3636783; 549859, 3636789; 549856, 3636794; 549852, 3636799; 549849, 3636805; 549846, 3636811; 549844, 3636817; 549840, 3636819; 549839, 3636820; 549820, 3636831; 549816, 3636834; 549810, 3636838; 549805, 3636842; 549800, 3636846; 549796, 3636851; 549792, 3636856; 549788, 3636861; 549785, 3636866; 549782, 3636879; 549780, 3636900; 549780, 3636963; 549786, 3636985; 549788, 3636990; 549790, 3636997; 549793, 3637003; 549796, 3637008; 549799, 3637014; 549803, 3637019; 549807, 3637024; 549812, 3637029; 549817, 3637034; 549818, 3637035; 549841, 3637054; 549844, 3637056; 549849, 3637060; 549849, 3637050; 549879, 3637050; 549879, 3637074; 549879, 3637074; 549886, 3637075; 549892, 3637076; 549898, 3637077; 549905, 3637077; 549928, 3637077; 549934, 3637077; 549941, 3637076; 549947, 3637075; 549953, 3637074; 549960, 3637072; 549966, 3637069; 549968, 3637068; 549980, 3637063; 549982, 3637066; 549985, 3637070; 549974, 3637083; 549972, 3637085; 549968, 3637091; 549965, 3637096; 549962, 3637102; 549959, 3637108; 549957, 3637114; 549955, 3637120; 549953, 3637127; 549953, 3637129; 549949, 3637131; 549943, 3637134; 549938, 3637138; 549933, 3637142; 549928, 3637147; 549924, 3637152; 549920, 3637157; 549916, 3637162; 549912, 3637168; 549909, 3637173; 549907, 3637179; 549904, 3637185; 549902, 3637192; 549901, 3637198; 549900, 3637204; 549899, 3637211; 549899, 3637218; 549899, 3637244; 549899, 3637247; 549884, 3637260; 549909, 3637260; 549909, 3637209; 549909, 3637200; 549920, 3637200; 549999, 3637200; 549999, 3637288; 550021, 3637276; 550035, 3637269; 550047, 3637264; 550062, 3637260; 550072, 3637255; 550081, 3637251; 550087, 3637249; 550090, 3637249; 550095, 3637251; 550093, 3637257; 550085, 3637263; 550077, 3637267; 550067, 3637272; 550061, 3637281; 550058, 3637284; 550058, 3637289; 550059, 3637293; 550065, 3637295; 550091, 3637299; 550129, 3637303; 550135, 3637301; 550139, 3637298; 550142, 3637293; 550145, 3637284; 550149, 3637279; 550155, 3637278; 550160, 3637278; 550172, 3637281; 550182, 3637288; 550187, 3637293; 550189, 3637297; 550187, 3637302; 550184, 3637306; 550177, 3637305; 550173, 3637302; 550169, 3637300; 550164, 3637300; 550162, 3637302; 550153, 3637315; 550144, 3637321; 550127, 3637327; 550116, 3637329; 550102, 3637336; 550096, 3637342; 550090, 3637350; 550082, 3637365; 550068, 3637403; 550067, 3637409; 550065, 3637420; 550065, 3637431; 550065, 3637441; 550069, 3637452; 550068, 3637458; 550066, 3637468; 550044, 3637484; 550029, 3637500; 550029, 3637530; 549999, 3637530; 549999, 3637620; 549969, 3637620; 549969, 3637642; 549969, 3637650; 549999, 3637650; 549999, 3637680; 550059, 3637680; 550059, 3637689; 550063, 3637689; 550069, 3637689; 550076, 3637689; 550082, 3637687; 550089, 3637686; 550095, 3637684; 550101, 3637682; 550107, 3637679; 550107, 3637679; 550138, 3637664; 550143, 3637661; 550148, 3637657; 550154, 3637654; 550159, 3637650; 550164, 3637645; 550168, 3637640; 550172, 3637635; 550176, 3637630; 550179, 3637624; 550183, 3637619; 550185, 3637613; 550188, 3637606; 550188, 3637604; 550195, 3637583; 550201, 3637590; 550202, 3637591; 550206, 3637596; 550231, 3637621; 550196, 3637665; 550194, 3637667; 550190, 3637673; 550187, 3637678; 550184, 3637684; 550154, 3637744; 550153, 3637744; 550151, 3637750; 550148, 3637756; 550146, 3637763; 550145, 3637769; 550144, 3637775; 550143, 3637782; 550143, 3637788; 550143, 3637830; 550143, 3637836; 550143, 3637836; 550146, 3637875; 550144, 3637882; 550139, 3637890; 550149, 3637890; 550149, 3637860; 550179, 3637860; 550179, 3638310; 550209, 3638310; 550209, 3638370; 550179, 3638370; 550179, 3638400; 550149, 3638400; 550149, 3638280; 550119, 3638280; 550119, 3638190; 550083, 3638190; 550060, 3638190; 550058, 3638196; 550056, 3638202; 550055, 3638208; 550054, 3638215; 550053, 3638221; 550053, 3638228; 550053, 3638234; 550054, 3638241; 550055, 3638247; 550056, 3638254; 550057, 3638255; 550067, 3638291; 550061, 3638375; 550061, 3638375; 550060, 3638382; 550060, 3638408; 550061, 3638415; 550061, 3638421; 550062, 3638427; 550059, 3638433; 550059, 3638520; 550029, 3638520; 550029, 3638550; 549999, 3638550; 549999, 3638640; 549957, 3638640; 549957, 3638640; 549956, 3638647; 549955, 3638653; 549955, 3638660; 549955, 3638666; 549956, 3638673; 549957, 3638679; 549958, 3638684; 549946, 3638725; 549941, 3638727; 549939, 3638729; 549939, 3638730; 549969, 3638730; 549969, 3638760; 549999, 3638760; 549999, 3638790; 549969, 3638790; 549969, 3638850; 549999, 3638850; 549999, 3638940; 549969, 3638940; 549969, 3639000; 549939, 3639000; 549939, 3639060; 549879, 3639060; 549879, 3639090; 549789, 3639090; 549789, 3639120; 549879, 3639120; 549879, 3639150; 549789, 3639150; 549789, 3639180; 549879, 3639180; 549879, 3639210; 549729, 3639210; 549729, 3639240; 549789, 3639240; 549789, 3639300; 549699, 3639300; 549699, 3639330; 549729, 3639330; 549729, 3639360; 549648, 3639360; 549650, 3639364; 549639, 3639378; 549639, 3639390; 549669, 3639390; 549669, 3639420; 549639, 3639420; 549639, 3639480; 549609, 3639480; 549609, 3639510; 549595, 3639510; 549595, 3639527; 549591, 3639541; 549585, 3639560; 549583, 3639566; 549583, 3639566; 549579, 3639568; 549574, 3639572; 549569, 3639576; 549564, 3639581; 549559, 3639586; 549555, 3639591; 549551, 3639596; 549548, 3639602; 549545, 3639607; 549530, 3639637; 549530, 3639637; 549527, 3639643; 549525, 3639649; 549523, 3639656; 549521, 3639662; 549520, 3639669; 549520, 3639675; 549520, 3639682; 549520, 3639688; 549520, 3639695; 549521, 3639701; 549522, 3639703; 549522, 3639703; 549519, 3639709; 549516, 3639715; 549514, 3639721; 549512, 3639725; 549505, 3639752; 549504, 3639753; 549503, 3639760; 549502, 3639766; 549501, 3639773; 549501, 3639779; 549501, 3639786; 549502, 3639792; 549502, 3639795; 549501, 3639797; 549499, 3639803; 549497, 3639810; 549495, 3639816; 549494, 3639823; 549493, 3639829; 549493, 3639836; 549493, 3639842; 549494, 3639849; 549495, 3639855; 549497, 3639861; 549499, 3639868; 549501, 3639874; 549504, 3639880; 549507, 3639886; 549510, 3639891; 549514, 3639896; 549518, 3639902; 549523, 3639906; 549527, 3639911; 549527, 3639911; 549532, 3639915; 549569, 3639943; 549594, 3639979; 549597, 3639983; 549601, 3639988; 549605, 3639993; 549610, 3639997; 549615, 3640001; 549620, 3640005; 549620, 3640005; 549643, 3640020; 549648, 3640024; 549654, 3640027; 549660, 3640029; 549666, 3640032; 549673, 3640034; 549679, 3640035; 549685, 3640036; 549685, 3640036.

(ii) Note: Map of Units 14 and 15 for Poa atropurpurea (Map 4) follows:

BILLING CODE 4310-55-P

BILLING CODE 4310-55-C

(14) Unit 15: Bear Valley, San Diego County, California.

(i) From USGS 1:24:000 quadrangle map Descanso. Land bounded by the following UTM NAD27 coordinates (E, N): 545174, 3625878; 545395, 3626051; 545402, 3626040; 545449, 3626040; 545450, 3626040; 545471, 3626038; 545491, 3626033; 545510, 3626024; 545527, 3626012; 545542, 3625997; 545544, 3625994; 545566, 3625966; 545576, 3625952; 545585, 3625933; 545590, 3625913; 545592, 3625892; 545590, 3625871; 545585, 3625851; 545576, 3625832; 545572, 3625827; 545553, 3625797; 545549, 3625791; 545541, 3625780; 545525, 3625765; 545524, 3625759; 545520, 3625750; 545518, 3625735; 545513, 3625714; 545511, 3625710; 545515, 3625703; 545517, 3625692; 545516, 3625687; 545516, 3625684; 545514, 3625677; 545505, 3625643; 545505, 3625643; 545503, 3625636; 545501, 3625630; 545498, 3625624; 545495, 3625619; 545492, 3625613; 545488, 3625608; 545484, 3625603; 545479, 3625598; 545474, 3625593; 545469, 3625589; 545464, 3625585; 545459, 3625582; 545453, 3625579; 545447, 3625576; 545441, 3625574; 545434, 3625572; 545428, 3625570; 545422, 3625569; 545415, 3625569; 545409, 3625569; 545402, 3625569; 545395, 3625569; 545389, 3625570; 545383, 3625572; 545376, 3625574; 545370, 3625576; 545370, 3625576; 545342, 3625588; 545337, 3625590; 545331, 3625594; 545325, 3625597; 545320, 3625601; 545315, 3625605; 545312, 3625608; 545268, 3625649; 545266, 3625651; 545244, 3625673; 545210, 3625692; 545208, 3625693; 545204, 3625696; 545164, 3625721; 545163, 3625722; 545158, 3625726; 545153, 3625730; 545148, 3625734; 545144, 3625739; 545139, 3625744; 545136, 3625748; 545111, 3625785; 545110, 3625786; 545107, 3625792; 545104, 3625798; 545101, 3625804; 545099, 3625810; 545097, 3625816; 545096, 3625819; 545095, 3625820; 545090, 3625825; 545065, 3625849; 545064, 3625847; 545060, 3625841; 545056, 3625836; 545052, 3625832; 545036, 3625816; 545035, 3625815; 545030, 3625811; 545025, 3625806; 545020, 3625803; 545015, 3625800; 544993, 3625787; 544992, 3625786; 544986, 3625783; 544980, 3625780; 544974, 3625778; 544969, 3625776; 544939, 3625768; 544938, 3625768; 544931, 3625766; 544929, 3625766; 544897, 3625760; 544892, 3625759; 544886, 3625759; 544881, 3625759; 544840, 3625758; 544838, 3625758; 544832, 3625758; 544825, 3625759; 544819, 3625760; 544815, 3625761; 544810, 3625762; 544809, 3625763; 544809, 3625800; 544783, 3625800; 544773, 3625818; 544766, 3625838; 544764, 3625842; 544763, 3625846; 544759, 3625860; 544761, 3625860; 544758, 3625878; 544758, 3625897; 544763, 3625920; 544764, 3625924; 544772, 3625943; 544787, 3626000; 544791, 3626010; 544799, 3626029; 544811, 3626046; 544824, 3626059; 544861, 3626092; 544896, 3626114; 544938, 3626131; 544942, 3626132; 544962, 3626137; 544982, 3626139; 544983, 3626152; 544988, 3626169; 544997, 3626196; 545013, 3626228; 545034, 3626257; 545040, 3626277; 545041, 3626288; 545040, 3626291; 545037, 3626300; 545036, 3626304; 545032, 3626320; 545031, 3626328; 545061, 3626365; 545068, 3626378; 545068, 3626388; 545059, 3626412; 545057, 3626416; 545055, 3626422; 545054, 3626429; 545053, 3626435; 545052, 3626442; 545052, 3626444; 545050, 3626499; 545049, 3626504; 545050, 3626510; 545050, 3626517; 545051, 3626523; 545052, 3626526; 545054, 3626534; 545065, 3626541; 545084, 3626550; 545103, 3626556; 545118, 3626558; 545138, 3626560; 545159, 3626558; 545179, 3626553; 545198, 3626544; 545216, 3626532; 545230, 3626517; 545232, 3626515; 545242, 3626502; 545244, 3626500; 545246, 3626497; 545253, 3626485; 545263, 3626469; 545275, 3626441; 545277, 3626434; 545291, 3626394; 545294, 3626385; 545311, 3626318; 545314, 3626296; 545317, 3626246; 545317, 3626232; 545316, 3626205; 545317, 3626172; 545319, 3626169; 545324, 3626161; 545333, 3626143; 545339, 3626122; 545339, 3626120; 545342, 3626099; 545343, 3626099; 545374, 3626074; 545395, 3626051; 545174, 3625878.

(ii) Note: Unit 15 for Poa atropurpurea is depicted on Map 4 in paragraph (13)(ii) of this entry.

* * * * *

Dated: July 25, 2007.
Todd Willens,
Acting Assistant Secretary for Fish and Wildlife and Parks.

[FR Doc. 07-3836 Filed 8-6-07; 8:45 am]

BILLING CODE 4310-55-P